FEDERAL COMMUNICATIONS COMMISSION

47 CFR Part 1

[MD Docket Nos. 23-159, 22-301; FCC 23-66; FR ID 168489]

Assessment and Collection of Regulatory Fees for Fiscal Year 2023

AGENCY: Federal Communications Commission.

ACTION: Final rule.

SUMMARY: In this document, the Federal Communications Commission (Commission) revises its Schedule of Regulatory Fees to recover $390,192,000 that Congress has required the Commission to collect for its fiscal year (FY) 2023. Sections 9 and 9A of the Communications Act of 1934, as amended (Act or Communications Act), provides for the annual assessment and collection of regulatory fees by the Commission.

DATES: Effective September 15, 2023, except for 47 CFR 1.1166, which is effective October 16, 2023, and 47 CFR 1.1914, which is delayed indefinitely. The Commission will publish a document in the Federal Register announcing the effective date for 47 CFR 1.1914 after review by the Office of Management and Budget (OMB) as required by the Paperwork Reduction Act. To avoid penalties and interest, regulatory fees should be paid by the due date of September 20, 2023.

FOR FURTHER INFORMATION CONTACT: Roland Helvajian, Office of Managing Director at (202) 418-0444.

SUPPLEMENTARY INFORMATION: This is a summary of the Commission's Report and Order, in MD Docket Nos. 23-159 and 22-301; FCC 23-66, adopted on August 10, 2023 and released on August 10, 2023. The full text of this document is available for public inspection by downloading the text from the Commission's website at https://docs.fcc.gov/public/attachments/FCC-23-66A1.pdf.

Synopsis

I. Administrative Matters

A. Final Regulatory Flexibility Analysis

1. As required by the Regulatory Flexibility Act of 1980, the Commission has prepared a Final Regulatory Flexibility Analysis (FRFA) relating to this Report and Order. The FRFA is located at the end of this document.

B. Final Paperwork Reduction Act of 1995 Analysis

2. This document does not contain new or substantively modified information collection requirements subject to the Paperwork Reduction Act of 1995 (PRA), Public Law 104-13. In addition, therefore, it does not contain any new or modified information collection burden for small business concerns with fewer than 25 employees, pursuant to the Small Business Paperwork Relief Act of 2002, Public Law 107-198, see 44 U.S.C. 3506(c)(4). The non-substantive modifications to an information collection related to 47 CFR 1.1166 effected in this document were approved by the Office of Information and Regulatory Affairs, Office of Management and Budget, on August 17, 2023.

C. Congressional Review Act

3. The Commission has determined, and the Administrator of the Office of Information and Regulatory Affairs, Office of Management and Budget, concurs that these rules are non-major under the Congressional Review Act, 5 U.S.C. 804(2). The Commission will send a copy of this Report and Order to Congress and the Government Accountability Office pursuant to 5 U.S.C. 801(a)(1)(A).

II. Introduction

4. In this item, the Commission takes action to address longstanding concerns to better ensure that our assessment and collection of our annual regulatory fees is more closely aligned with the burden of the work being performed by Commission employees for each regulatory fee category. Specifically, we adopt the proposals in our Fiscal Year (FY) 2023 Regulatory Fee Notice of Proposed Rulemaking (FY 2023 NPRM) (88 FR 36154, June 1, 2023) and reallocate almost nineteen percent of our indirect full time equivalents (FTEs) as direct to one of the Commission's four core licensing bureaus, following a high-level, comprehensive staff analysis of the time utilized in the oversight and regulation of certain segments of the telecommunications industry. Our decisions in this Report and Order reflect our conclusion that we can determine, with reasonable accuracy for this fiscal year, that certain FTEs from the Office of General Counsel, the Office of Economics and Analytics, and the Public Safety and Homeland Security Bureau that were previously considered to be indirect are devoted to work that is sufficiently linked to the oversight and regulation of regulatory fee payors in a core bureau such that the FTE burden of that work should be allocated as direct to that bureau for regulatory fee purposes. Consistent with our long-standing regulatory fee methodology, we implement these reallocations and we adopt a schedule of regulatory fees, as set forth in Appendices B and C, in order to collect $390,192,000 in congressionally required regulatory fees for FY 2023 by the end of September.

5. Additionally, in the Report and Order, we (i) adopt our proposal regarding the calculation of television and radio broadcaster regulatory fees, including the modification of the existing grid by adding a new tier for AM and FM radio stations; (ii) continue to consider operations for on-orbit servicing (OOS) and rendezvous and proximity operations (RPO) on a mission-by-mission basis for regulatory fee purposes, and apply the regulatory fee for “Space Stations (Geostationary Orbit)” to OOS and RPO spacecraft operating near the geostationary orbit (GSO) arc, unless it is determined that the OOS or RPO spacecraft is operating as part of an existing GSO system and therefore should not be assessed a separate regulatory fee; (iii) confirm that orbital transfer vehicles (OTVs) are responsible for regulatory fees under the current regulatory fee scheme; (iv) continue two of the temporary measures that were implemented in FYs 2020 through 2022 to assist regulatory fee payors that were experiencing financial hardship related to the COVID-19 pandemic to request waiver, reduction, deferral and/or installment payment of regulatory fees, and continue a third such measure in modified form; (v) decline to permit regulatory fee payors to prepay their regulatory fees in installments before the annual regulatory fee payment deadline; and (vi) make certain technical corrections to 47 CFR 1.1914 and 1.1166.

A. Methodology for Assessing Regulatory Fees and FTE Allocation

6. Consistent with our statutory mandate and our regulatory fee methodology, we start our regulatory fee assessment with the FTE counts and then adjust fees to reflect other factors related to the benefits provided to the payor of the fee by the Commission's activities. In section 9 of the Act Congress prescribes that regulatory fee payors bear the FTE burden associated with their oversight and regulation by the relevant core bureau(s). Insofar as the non-auctions FTE time in the four core bureaus continues to focus on the oversight and regulation of fee payors in the industry segment regulated by each of those bureaus, we will continue to apportion regulatory fees across fee categories based on the number of non-auction direct FTEs in each core bureau and take into account factors that are “reasonably related to the benefits provided to the payor of the fee by the Commission's activities.” After we determine the number of direct FTEs for each core bureau, we use these numbers to start our calculations of the percentage of the total amount of regulatory fees to be collected for a given fiscal year from each fee category.

7. We then allocate appropriated amounts to be recovered proportionally based on the number of direct FTEs within each core bureau. Those proportions are then subdivided within each core bureau into fee categories among the regulatory fee payors served by the core bureau. Finally, within each regulatory fee category, we divide the amount to be collected by a unit that allocates the regulatee's proportionate share based on an objective measure. As a general matter, there is no additional calculation to attribute indirect costs. Instead, the proportional allocation of the whole S&E appropriation based on the number of direct FTEs effectively attributes all indirect costs among the core bureaus so that the Commission can recover its entire appropriation each year.

8. As the Commission has explained, “[g]iven the Act's requirement that fees must `reflect' FTEs before adjusting fees to take into account other factors, we find FTE counts by far the most administrable starting point for regulatory fee allocations.” Regulatory fees must cover the entire S&E appropriation, even those portions of the appropriation that supports work on issues for which we do not have regulatory fee categories. Therefore, we continue to find that, consistent with section 9 of the Act, regulatory fees are not based on a precise allocation of specific employees with certain work assignments each year and instead are based on a higher-level approach. While some commenters continue to take issue with some of the Commission's determinations of whether certain FTEs should be considered to be indirect or direct and also advocate that the Commission should adopt new fee categories, no commenter has offered an alternative methodology for the Commission to recover our annual appropriation. Instead, we agree with commenters that argue that the record supports the adoption of regulatory fees consistent with the Commission's long standing regulatory fee framework. Accordingly, we find no basis to adjust our general methodology for assessing regulatory fees. We find that the Commission's general methodology for establishing regulatory fees has been, and continues to be, appropriate and consistent with section 9 of the Act. Thus, for FY 2023, our fee methodology will attribute the direct FTEs within each core bureau to payor categories based on the nature of the FTE work. We also will consider the ministerial adjustments necessitated by the more discernable changes from the prior year regulatory fee proceeding, e.g., changes in the: (i) FY appropriation, (ii) FTE levels, and (iii) relevant unit measures for each regulatory fee category. Once the percentages of total direct FTEs in the core bureaus are determined, the Commission calculates fee rates among the specific fee categories within each core bureau based upon the fee categories' proportional fee amounts to be collected. These proportional calculations allocate all Commission non-auction related costs across all fee categories that total the target goal amount.

9. For FY 2023, our Human Resources Management office has provided the Commission data identifying 339.25 non-auctions, direct FTEs distributed among the core bureaus. In consultation with the bureaus and offices, we have validated this data. In the FY 2023 NPRM, following a high level, yet comprehensive, staff analysis of indirect FTE time in non-core bureaus and offices, we proposed to reallocate 63 indirect FTEs from the Office of General Counsel, the Office of Economics and Analytics, and the Public Safety and Homeland Security Bureau where we were able to determine with reasonable accuracy for the fiscal year that the FTE burden of such work is directly related to the oversight and regulation of regulatory fee payors in a core bureau such that it should be considered as direct to that bureau for the purposes of calculating regulatory fees. As explained fully below, with the overwhelming support of commenters, we adopt our proposal for these reallocations. In addition, in order to apply consistent principles to our determinations, and in response to the record gathered in this proceeding, we also reallocate two direct FTEs from the Media Bureau to be considered as indirect FTEs because the nature of their work is sufficiently linked to work that is similar to that of work performed in the Enforcement Bureau, which is categorized as indirect. Our adoption of these reallocations results in a revised total of 400.25 non-auctions, direct FTEs for FY 2023. Our calculations of direct FTEs associated with each core bureau are now as follows: International Bureau (31), Wireless Telecommunications Bureau (98), Wireline Competition Bureau (143.25), and Media Bureau (128).

10. Based on these reallocations and after we make adjustments to these direct FTE counts to implement Commission precedent regarding FTEs working on non-high cost Universal Service Fund matters, we will collect approximately $30.32 million (7.77%) in fees from the International Bureau regulatory fee payors; $95.83 million (24.56%) in fees from the Wireless Telecommunications Bureau regulatory fee payors; $140.12 million (35.91%) in fees from Wireline Competition Bureau regulatory fee payors; and $123.92 million (31.76%) in fees from Media Bureau regulatory fee payors.

11. The record supports our proposal to reallocate certain indirect FTEs from the Office of General Counsel, the Office of Economics and Analytics, and the Public Safety and Homeland Security Bureau as direct to a core bureau because we can determine with reasonable accuracy for the fiscal year that these FTEs are devoted to work that is sufficiently linked to the oversight and regulation of regulatory fee payors in a core bureau such that the burden of that work should be allocated as direct for regulatory fee purposes. Commenters addressing this issue agree that by taking a more granular approach, the Commission's fee structure more closely aligns the recovery of costs with those who benefit from Commission regulatory activities. Commenters support our proposal to reallocate a total of 63 indirect FTEs as direct for regulatory fee purposes. They contend that doing so will advance the Communications Act objective for the Commission to take into account factors that are reasonably related to the benefits provided to the payor of the fee by the Commission's activities.

12. We conclude that, as part of our annual FTE analysis, we will continue to evaluate whether any FTEs should be reallocated for regulatory fee purposes as we do each year when reviewing and validating the FTE data. And, where our evaluation merits inclusion of proposed reallocations, we will seek comment on any such potential reallocation of FTEs in an annual proceeding. We note, however, that we will exercise our discretion regarding where to focus our analytical efforts each year to best respond to changes in the FCC's substantive work, changes in the FCC's organization, and changes in the telecommunications industry itself. We further conclude that such agency discretion is particularly important because we agree with CTIA that we do not wish to inadvertently expand our indirect FTE levels by engaging in an endless review of all FTE allocations. As such, we will exercise our discretion to ensure that we conduct our annual review in a manner that is fair, manageable, and sustainable.

13. We emphasize that our decision to adopt our proposal today is in accord with past Commission precedent. Thus, it is not uncommon for the Commission to reassign direct FTEs as indirect or from one core bureau to another for regulatory fee purposes to reflect, among other things, changes in the FCC's substantive work, changes in the FCC's organization, and changes in the telecommunications industry.

14. As we described in the FY 2023 NPRM, we limit our reallocation of indirect FTEs as direct FTEs to a core bureau for regulatory fee purposes to those instances where we can determine with reasonable accuracy for the entire fiscal year that such FTE work furthers the oversight and regulation of regulatory fee payors. We recognize that this reclassification represents a change from some recent reviews of the same offices. Nevertheless, at this time our evaluation of FTE time in the non-core bureaus and offices supports our conclusion that, for certain FTEs in the Office of Economics and Analytics, the Office of General Counsel, and the Public Safety and Homeland Security Bureau, it is appropriate to consider the FTE burden of their work as directly devoted to the oversight and regulation of regulatory fee payors. For that reason, we are adopting our proposal that such FTE time should be considered direct for those relevant core bureau(s).

15. For the purposes of this determination, we have evaluated whether measurable FTE time for FY 2023 is primarily being spent on the regulation and oversight of regulatory fee payors. Commission staff excluded any FTE time from this analysis if it was not equivalent to the time of at least one FTE, concluding that less than a full-time FTE demonstrates that the work being done is appropriately considered to be indirect and should not be reassigned. Table 1 below summarizes all of the reallocations we are adopting today.

Table 1—Core Bureau FTE Percentages With and Without FTE Reallocations
Core bureau | 2023 FTE % without FTE reallocations | 2023 Amount without FTE reallocations (millions): FY 2023 appropriation is $390.192 | 2023 FTE % with FTE reallocations | 2023 Amount with FTE reallocations (millions): FY 2023 appropriation is $390.192
Wireline Competition Bureau | 35.57 | $138.79 | 35.91 | $140.12
Media Bureau | 33.96 | 132.52 | 31.76 | 123.9
Media Bureau subcategory Broadcasters | 15.28 | 59.65 | 14.12 | 55.10
Media Bureau subcategory Cable | 18.68 | 72.87 | 17.64 | 68.83
Wireless Telecommunications Bureau | 22.19 | 86.56 | 24.56 | 95.83
International Bureau | 8.28 | 32.32 | 7.77 | 30.32

16. We conclude that 63 FTEs from the Office of Economics and Analytics, the Office of General Counsel, and the Public Safety and Homeland Security Bureau devote their time to the oversight and regulation of regulatory fee payors, where we can determine with reasonable accuracy for the entire fiscal year, as we discuss below. For that reason, we reallocate the FTE time as direct to the relevant core bureau(s) for calculating regulatory fees. Likewise, to apply consistent principles across our determinations, we reallocate two direct FTEs from the Media Bureau as indirect FTEs because the nature of their work is sufficiently linked to work that is similar to that performed in the Enforcement Bureau, which has been categorized as indirect. Below, we discuss our analysis.

17. Office of Economics and Analytics (OEA). We adopt our proposal to reallocate 30 indirect FTEs from OEA as direct to a core bureau for regulatory fee purposes as follows: two to the International Bureau, eight to the Wireless Telecommunications Bureau, 13 to the Wireline Competition Bureau, and seven to the Media Bureau. We reach this conclusion after evaluating the burden of FTE time in OEA.

18. Following its inception in 2018, the Commission concluded that it was appropriate for the non-auctions FTEs in OEA to be considered indirect FTEs because their work benefits the entire Commission as well as the telecommunications industry and does not specifically focus on regulatory fee payors. As a general matter, this remains true today. Of relevance to the regulatory fee proceeding, OEA's non-auction funded work provides economic analysis, including cost-benefit analysis, for rulemakings, transactions, adjudications, and other Commission actions; develops policies and strategies to help manage Commission data resources and establish best practices for data use throughout the Commission in coordination with other bureaus and offices; and conducts long-term research on ways to improve the Commission's policies and processes in each of these areas. Notably, OEA collaborates with and advises other bureaus and offices in the areas of economic and data analysis and with respect to the analysis of benefits, costs, and regulatory impacts of Commission policies, rules, and proposals. As part of this collaboration, OEA reviews all rulemakings prepared by those bureaus and offices, all other Commission-level items that contain economic or data analysis, and similar items that the bureaus or offices release on delegated authority.

19. In evaluating the burden of the work currently being performed by OEA's FTEs, staff recognized that certain bureaus tend to generate more economic and data issues for OEA to analyze as well as more documents that require OEA review. For FY 2023, we find that there is measurable work done by OEA FTEs that is being done directly in furtherance of the oversight and regulation of regulatory fee payors in certain industry segments. In fact, staff analysis reveals that the work and expertise of certain FTEs from OEA remain devoted to the oversight and regulation of regulatory fee payors in a manner that is consistent with the FTE burden of work performed within a core bureau prior to the OEA's implementation. This determination supports our decision to reallocate the burden of the work of certain of OEA's FTEs as direct for regulatory fee purposes. We recognize that this is a partial change from our determination in the 2019 regulatory fee proceeding with respect to OEA FTEs. We have explained however, that our determinations are based an analysis of the actual work of the OEA.

20. We conclude that 13 indirect FTEs from OEA should be reallocated as direct FTEs to the Wireline Competition Bureau because the burden of their work is devoted to universal service fund issues in high-cost areas; competition and interconnection; setting rates for calls from incarcerated persons; the establishment of a national suicide hotline, and efforts to evaluate the costs, benefits, and public interest factors associated with protecting privacy matters such as the Wireline Competition Bureau's work on customer proprietary network information (CPNI) rules addressing access, use, and disclosure of information related to the use of a telecommunications service subscribed to by a customer of a telecommunications carrier. This FTE work is being done directly in furtherance of the oversight and regulation of Wireline Competition Bureau regulatory fee payors, therefore, we find that it appropriate to reallocate it as direct to the Wireline Competition Bureau for purposes of our regulatory fee calculation.

21. Similarly, staff analysis shows that the work of eight OEA FTEs address various wireless and spectrum issues, such as mergers, transactions, and acquisitions, mobile spectrum holdings policies, and deployment in rural areas and on tribal lands. Insofar as the burden of this work is being done directly in furtherance of the oversight and regulation of Wireless Telecommunications Bureau regulatory fee payors, we adopt our proposal to reallocate these eight indirect FTEs as direct FTEs to the Wireless Telecommunications Bureau, for purposes of our regulatory fee calculation.

22. Further, we find that because the burden of the work of seven FTEs from OEA relates to broadcast and cable issues, including ownership regulation, next generation (or NextGen TV) standards, content source disclosures, program carriage and retransmission, and rates and billing practices, and is being done directly in furtherance of the oversight and regulation of Media Bureau regulatory fee payors, it is appropriate to reallocate these FTEs as direct to the Media Bureau, proportionally among the Media Bureau regulatory fee categories, for purposes of our regulatory fee calculation.

23. Lastly, because the burden of the work of two FTEs from OEA addressing undersea cables, international bearer circuits, and satellite services related issues is done directly in furtherance of the oversight and regulation of International Bureau regulatory fee payors, we conclude that it is appropriate to reallocate these two indirect FTEs as direct to the International Bureau, proportionally among the International Bureau regulatory fee categories.

24. Office of General Counsel (OGC). Our evaluation of the burden of the FTE time in OGC supports the Commission's repeated conclusion that the majority of the work this office performs is most appropriately categorized as indirect, for regulatory fee purposes. On review, however, for FY 2023 we conclude that certain aspects of OGC's work are sufficiently linked to the oversight and regulation of individual regulatory fee categories such that five FTEs from OGC should be reallocated as direct FTEs to a relevant core bureau for regulatory purposes.

25. OGC serves as the chief legal advisor to the Commission and its various bureaus and offices. In that capacity OGC's responsibilities are generally described as interpreting new and existing statutes and executive orders as they pertain to the Commission's exercise of its Communications Act authority and other authorities, as well as performing such functions involving implementation of such statutes and executive orders as may be assigned to it by the Commission. OGC advises the Commission in the preparation and revision of our rules, recommends decisions in adjudicatory matters before the Commission, assists the Commission in its decision-making capacity and performs a variety of legal functions regarding internal and other administrative matters. OGC also advises and represents the Commission in matters of litigation. These roles are divided between the Administrative Law Division and the Litigation Division and are overseen by the General Counsel (GC) and the GC's Front Office.

26. The Litigation Division represents the Commission in a wide variety of court cases covering actions that most federal agencies are subject to (e.g., personnel, Federal Tort Claims Act, Freedom of Information Act, False Claims Act, and contract actions and disputes) in addition to challenges regarding the Commission's exercise of our Communications Act authority. After careful consideration of the burden of FTE work in this division, we do not make any FTE reallocations for the Litigation Division. The level of effort to support litigation that is unrelated to our Communications Act authority is generally not tied to oversight and regulation of any regulatory fee category. Thus, the FTE burden of this work remains appropriately considered as indirect. The FTE burden associated with litigation that directly touches on our Communications Act authority should also remain as indirect. We make this determination for a variety of reasons. Primarily, it is not possible to determine with any level of consistency year to year whether the FTE work in support of litigation matters benefits a particular regulatory fee category. This is particularly true because the essential issue in dispute when a matter moves to litigation may touch on issues of broader concern than any one regulatory fee group, or conversely be so procedural as to be effectively generic to all federal agency action. Moreover, at its core, the FTE work defending the Commission's expert authority in implementing the Communications Act is the epitome of work that benefits the agency as a whole and we do not believe it would be fair for any one regulatory fee group to shoulder the FTE burden of such work.

27. The Administrative Law Division provides legal advice to the Commission concerning a wide array of substantive areas of the law necessary to the functioning of any federal agency. In large part, such work benefits the work of the Commission as a whole and is not specific to any particular regulatory fee category. Thus, the FTE burden associated with such work properly remains almost entirely allocated as indirect. In contrast to the Litigation Division, however, it is possible to determine that some of the burden of the work performed by FTEs from the Administrative Law Division, particularly in reviewing Commission rules, proposed rules, and adjudicatory orders, as well as providing extensive advice on the Commission's authority under the Communications Act, including the exercise of delegated authority by the bureaus and offices, is done in furtherance of the oversight and regulation of regulatory fee payors in the core bureaus. Accordingly, where we have determined that this work is directly related to our oversight and regulation of specific regulatory fee payor categories, we adopt our determination to reallocate the FTE burden of such work as direct to the relevant core bureau(s). Specifically, for FY 2023 we reallocate one OGC FTE as direct to the Wireline Competition Bureau; two OGC FTEs as direct to the Wireless Telecommunications Bureau; one OGC FTE as direct to the Media Bureau, proportionally among the Media Bureau fee categories; and one OGC FTE as direct to the International Bureau, proportionally among the International Bureau fee categories.

28. Public Safety and Homeland Security Bureau (PSHSB). We also adopt our proposal to reallocate, for regulatory fee purposes, a total of 28 indirect FTEs from PSHSB as direct FTEs to core bureaus as follows: 13 to the Wireless Telecommunications Bureau, nine to the Wireline Competition Bureau, and six to the Media Bureau.

29. PSHSB advises and coordinates within the Commission on all matters pertaining to public safety, homeland security, national security, cybersecurity, emergency management and preparedness, disaster management, and related matters. Insofar as the bureau leads initiatives that strengthen public safety and emergency response capabilities enabling the Commission to assist the public, first responders, law enforcement, hospitals, the communications industry and all levels of government in times of emergency, we continue to conclude that the majority of its work is best categorized as indirect. PSHSB is organized into three divisions: the Policy and Licensing Division, the Operations and Emergency Management Division, and the Cybersecurity and Communications Reliability Division. On review for FY 2023, we conclude that certain aspects of the burden of some of the FTE work within these divisions is sufficiently linked to the oversight and regulation of individual regulatory fee categories such that certain FTEs, as described below, should be reallocated as direct FTEs to a relevant core bureau for regulatory purposes.

30. The Policy and Licensing Division develops and administers rules, regulations, and policies to support public safety entities, including law enforcement, fire and emergency medical first responders, Public Safety Answering Points, and emergency operations organizations. The division handles licensing of public safety frequencies, including modifications, renewals and adjudications, in frequencies below 470 MHz, and in 470-512 MHz, 700 MHz, 800 MHz, 4.9 GHz and 5.9 GHz under part 90 of the Commission's rules, and the microwave bands under part 101; 911/Enhanced 911/Next Generation 911; Communications Assistance for Law Enforcement Act; the Emergency Alert System (EAS); operability and interoperability for public safety communications and the First Responder Network Authority; and intra- and interagency coordination on spectrum management.

31. After analyzing the FTE work in the Policy and Licensing Division, we conclude that the burden of the work of 14 FTEs in this division is directly in furtherance of the oversight and regulation of regulatory fee payors of a core bureau such that it is appropriate to adopt our proposal to reallocate these FTEs as direct, for regulatory fee purposes. Of the 14 FTEs we have identified, we reallocate two FTEs as direct to the Wireline Competition Bureau, eight FTEs as direct to the Wireless Telecommunications Bureau, and four FTEs as direct to the Media Bureau. Specifically, we adopt these reallocations for regulatory fee purposes because the burden of the work performed on 911 policy, covering issues such as 911 location accuracy, and the transition to Next Generation 911, as well as clarifying provider obligations and acting on waiver and other provider-specific requests, directly furthers the oversight and regulation of regulatory fee payors of the Wireline Competition Bureau and the Wireless Telecommunications Bureau. Similarly, with regard to the four FTEs we proposed to consider as direct to the Media Bureau, we adopt these reallocations for regulatory fee purposes, proportionally among the fee categories in the Media Bureau, because the FTE burden of the work on the EAS, developing and maintaining the operational rules that apply to EAS participants (i.e., broadcasters), facilitating interactions between EAS participants and alert originators, reviewing State EAS Plans, and acting on waiver and similar requests from broadcasters directly furthers the oversight and regulation of the regulatory payors of the Media Bureau.

32. The Operations and Emergency Management Division (OEMD) ensures the readiness of the Federal Communications Commission to respond to threats and emergencies; conducts and coordinates risk and incident management activities; and supports public safety and events of national security significance. Division staff recommend, develop, and implement emergency plans, policies, and preparedness programs covering the reporting and situational awareness of communications status during times of emergency and Commission functions during emergency conditions. OEMD also manages the provision of service by communications service providers during emergency conditions.

33. The division staff provide legal guidance and perform technical operations in support of interagency Federal, State, Local, Tribal, and Territorial (SLTT) government national security and public safety risk and incident management efforts. In addition, the division provides situational awareness to FCC and federal government leadership regarding national security risks and makes recommendations to help manage those risks; manages the FCC Continuity Programs to ensure the Commission's ability to perform the functions vital to an enduring government and the availability of nationwide and international communications under all conditions; and assesses and evaluates the status of communications services and infrastructure through Over-The-Air observations and analysis by its Spectrum Monitoring and Analysis Response Team. The division also coordinates with the U.S. Department of Homeland Security on critical national security and emergency preparedness priority communications programs, such as Telecommunication Service Priority Program, Government Emergency Telecommunications Service, and Wireless Priority Service. After analyzing the FTE work in OEMD, we conclude that the burden of the work of five FTEs in this division is directly in furtherance of the oversight and regulation of regulatory fee payors of a core bureau such that it should be reallocated for regulatory purposes. Specifically, of the five FTEs we have identified from this division there are two FTEs that should be reallocated as direct FTEs to the Wireline Competition Bureau, two FTEs that should be reallocated as direct FTEs to the Wireless Telecommunications Bureau, and one FTE that should be reallocated as a direct FTE to the Media Bureau, proportionally among the fee categories in the Media Bureau. OEMD's deployment of personnel to disaster areas primarily supports the oversight and regulation of the regulatory fee payors of all three of these core bureaus by, among other things, receiving and facilitating federal partner responses to requests from providers in disaster areas with issues such as obtaining access to facility sites and procurement of fuel for generators.

34. Moreover, with regard to the two FTEs we reallocate as direct to the Wireline Competition Bureau and the two FTEs we reallocate as direct to the Wireless Telecommunications Bureau, we adopt these changes for regulatory fee purposes because the burden of the work performed by these FTEs is directly related to the oversight and regulation of wireline and wireless regulatory fee payors. In particular, the FTE burden from this division relates to working with federal partners on risk assessment and surveying the status of providers' service and infrastructure following major disasters, emergencies, matters of law enforcement or events of a national security as well as facilitating providers' restoration by coordinating requests and responses with other federal and SLTT entities and private sector companies. In addition, the FTE burden of this work in this division involves administering legal oversight and review of the Commission's Local Number Portability Act (LNPA) activities.

35. In addition, the work done by one FTE in OEMD directly supports the oversight and regulation of regulatory fee payors of the Media Bureau by conducting site surveys of media broadcast transmitters to determine potential issues of radio frequency interference, and by deploying personnel to disaster areas to perform spectrum scans before and after disasters to ascertain the operational status of broadcast stations and assist those that are not operational. Based on this analysis, we adopt our proposal to reallocate, for regulatory fee purposes, one FTE from OEMD as a direct to Media Bureau, proportionally among the fee categories in that bureau.

36. The Communications and Crisis Management Center (FCC Operations Center), which is part of OEMD, maintains a 24/7 staff at FCC Headquarters. Its responsibilities include: monitoring the status of communications and engaging in real-time with emergency operations centers and PSAPs in the event of outages or disasters; resolving consumer complaints; supporting the Commission's enforcement activities; granting special temporary authority to Commission licensees after hours; and maintaining the Commission's primary classified environment and the required support systems.

37. The Operations Center is available 24/7 to field requests from all regulatees for assistance and to grant special temporary authority outside of normal business hours. Operations Center staff routinely field calls regarding consumer complaints of communications outages and interference or requests for information on the provision of wireless and wireline communications services in specific regions of the Nation. In response to these communications, Operations Center staff will coordinate solutions across Commission Bureaus and Offices, SLTT stakeholder entities, and private sector companies. After staff analysis of data regarding the FTE work performed in the Operations Center, we find that the burden of the work of three FTEs from the Operations Center is performed directly in furtherance of the oversight and regulation of regulatory fee payors such that it should be reallocated as direct to a core bureau, for regulatory fee purposes. Specifically, we reallocate one FTE as a direct to the Wireline Competition Bureau, one FTE as direct FTE to Wireless Telecommunications Bureau, and one FTE as direct to the Media Bureau, proportionally among the fee categories in that bureau.

38. The Cybersecurity and Communications Reliability Division helps ensure that the nation's communications networks are reliable and secure so that the public can communicate, especially during emergencies. This division identifies and promotes network improvements through analysis and investigation of significant communications outages, providing situational awareness of the status of communications infrastructure during times of emergency and administers the Commission's primary advisory committee on communications security and reliability, and rulemakings. Focus areas include emergency communications, such as 911 and wireless emergency alerting, network performance during disasters, and major network outages and threats. This division monitors and analyzes communications network outages to identify trends, assess actions the FCC can take to help prevent and mitigate outages, and where necessary, assist response and recovery activities. Finally, the division supports the security of services provided across platforms, in the Commission's Alerting Security docket, and Federal Advisory Committee work on 911 standards and alerting standards, as well as network and supply chain security.

39. The Cybersecurity and Communications Reliability Division provides oversight and regulation of the regulatory payors by, among other things, providing situational awareness of the status of communications infrastructure and coordinating requests for assistance during times of emergency. After analyzing the burden of the work done in this division, we adopt our proposal to reallocate four FTEs from this division as direct to the Wireline Competition Bureau because the burden of the work being done on wireline network outage reporting, in routine and disaster environments, as well as outages and notifications impacting the 911 and 988 systems, is directly in furtherance of the oversight and regulation of wireline regulatory fee payors We also adopt our proposal to reallocate two FTEs from this division as direct to the Wireless Telecommunications Bureau because the FTE burden of this work is being done to administer the Mandatory Disaster Response Initiative to ensure providers of commercial mobile services can engage in mutual aid activities during times of emergency. The FTE burden in this division also includes working with the Federal Advisory Committee on standards and best practices related to 5G deployment as well as the work performed to develop and implement performance standards and regulation of wireless regulatory fee payors.

40. Conclusion Regarding Allocations. Table 2 below summarizes the FTE reallocations adopted here.

Table 2—Summary of FTE Reallocations
Core bureau | Number of direct 2023 FTEs without FTE reallocations | % Before reallocations | Direct FTEs after reallocations | Number of direct 2023 FTEs with FTE reallocations | % After reallocations
International Bureau | 28 | 8.28 | +2 from OEA +1 from OGC Total additional FTEs +3 | 31 | 7.77
Wireless Telecommunications Bureau | 75 | 22.19 | +8 from OEA +2 from OGC +13 from PSHSB Total additional FTEs +23 | 98 | 24.56
Wireline Competition Bureau | 120.25 | 35.57 | +13 from OEA +1 from OGC +9 from PSHSB Total additional FTEs +23 | 143.25 | 35.91
Media Bureau | 116 | 33.96 | +7 from OEA +1 from OGC +6 from PSHSB −2 from MB Reallocated as Indirect Total additional FTEs +12 | 128 | 31.76
Total | 339.25 | 100 |  | 400.25 | 100

B. Non-High Cost Universal Service Fund FTEs

41. In the FY 2017 Report and Order, the Commission reallocated 38 direct FTEs from the Wireline Competition Bureau working on the non-high-cost programs of the Universal Service Fund as indirect for regulatory fee purposes. The Commission found that this reallocation was supported by the fact that contributions to the Universal Service Fund are required from service providers using any technology that has end-user interstate telecommunications and because of changes in the universal service fund regulatory landscape. The Commission observed that although initially universal service programs were focused on wireline services, wireless carriers, and broadband providers had since become involved in the E-Rate, Lifeline, and Rural Healthcare programs. The Commission also noted that the E-Rate, Lifeline, and Rural Healthcare programs tie funding eligibility to the beneficiary, i.e., a school, a library, a low-income individual or family, or a rural healthcare provider, and not to Commission regulatory fee payors. Given these considerations, the Commission concluded that the burden of FTE time dedicated to non-high cost Universal Service Fund programs should be considered indirect because the nature of the work being conducted is not focused specifically on the oversight and regulation of fee payors of any core bureau. The Universal Service Fund programs are administered by the Universal Service Administrative Company (USAC), with oversight from the Commission. Specifically, the Commission reasoned that the FTE time devoted to the non-high cost Universal Service Fund issues is not oversight and regulation of a category of regulatory fee payors, but instead is the oversight of several Universal Service Fund programs (administered by USAC) with a wide array of beneficiaries and participants. With such a diversity of participants, beneficiaries, and contributors, and a wide variety of issues addressed by Commission staff (including matters pertaining to entities that are not Commission regulatory fee payors), the Commission concluded that Interstate Telecommunications Service Providers (ITSPs) were no longer the sole contributors or beneficiaries of these programs. The Commission further found that it could not determine the benefits flowing from Commission oversight of the programs to any one fee category, let alone a particular cross-section of fee categories or even an entire industry. The Commission explained that as they are not traditional telecommunication industry members, attributing the benefits of FTE non-high cost work to any one fee category would be problematic at best. For all of these reasons, the Commission concluded that FTE time spent on non-high cost Universal Service Fund issues should be reassigned as indirect.

42. In the FY 2017 Report and Order, the Commission also observed that the concern that the reallocation would impose a burden on broadcasters, which do not participate in the universal service program was misplaced “as there is no completely pure way to precisely allocate every Commission FTE.” In support of this decision the Commission explained that the Commission's methodology need not reach scientific precision and instead must simply be reasonable. Subsequently, the Commission addressed NAB's continued objection to assessing broadcasters for the costs of these indirect FTEs in the FY 2022 Report and Order by explaining that the reallocation was appropriate and that indirect FTEs in the Commission devote their time to a large variety of issues, some of which may not directly affect every Commission regulatee, including broadcasters. The Commission nonetheless took a closer look at the FTE burden associated with these non-high cost Universal Service Fund issues, and determined that broadcasters should be excluded from the burden associated with these indirect FTEs. Based on this determination, the burden associated with these indirect FTEs in FY 2022 was apportioned among all other regulatory fee payors.

43. For FY 2023, we tentatively concluded that the Commission's FY 2022 reasoning remained sound and the indirect FTE burden associated with these non-high cost Universal Service Fund programs should not be apportioned to broadcasters. We sought comment on this tentative conclusion and asked any commenters asserting that these indirect FTEs should be reassigned as direct FTEs to a core bureau to provide an explanation of how these FTEs provide a direct benefit to other fee payors.

44. NAB continues to assert that we should reallocate the burden of FTE time dedicated to these matters as direct to a core bureau or bureaus because providers receive funding and program beneficiaries receive subsidies. Specifically, NAB argues that the Commission could base this reallocation upon the information the Commission has about the fee payors that receive a particular percentage of the Commission's non-high cost USF program funds. Likewise, the State Broadcasters Association contends that because these programs provide certain service providers with significant funding, it should not be difficult to determine the direct impact of the FTE burden that benefits specific regulatees. We disagree. As CTIA correctly points out, our regulatory fees must be based on the work conducted by Commission staff, i.e., the Commission's FTE burden, and the amount of USF program funds that a regulatory fee payor receives, is not a relevant factor in allocating regulatory fees among the core bureaus.

45. In particular, we agree with CTIA that NAB's argument to reallocate FTEs based upon the financial benefit received by any particular service provider does not properly demonstrate that the FTE burden of this work is devoted to the oversight and regulation of any regulatory fee category such that it should be considered to be direct. WISPA also supports the Commission's decision to treat the FTE burden of this work as indirect, and remarks that attributing FTEs as direct on the basis of such work could unfairly impact smaller providers, like WISPA's members, and cause an exodus from non-high cost USF programs, which would be contrary to the public interest. Moreover, the FTE work on these non-high cost Universal Service Fund programs covers issues regarding all program participants as well as benefits that are derived by the general public. We continue to agree with prior Commission determinations that FTE time spent on non-high cost Universal Service Fund issues is indirect because we cannot reasonably determine the FTE burden of oversight of the programs to any one fee payor category, let alone a particular cross-section of fee payors or even an entire industry.

46. As we have stated previously, indirect FTE time is devoted to issues that may include more than one regulated service or matters that are not related to services regulated by the Commission. Commenters' argument is based on their assertion that they do not obtain benefit from the universal service programs, but that is not a factor in determining whether the FTEs should be allocated as direct to other fee payors. Accordingly, we conclude that NAB's suggestion to reallocate the burden of the 23.75 FTEs working on non-high cost Universal Service Fund matters as direct to a core bureau based upon the percentage of subsidies received by any particular category of fee payor category conflates the nature of the work of the Commission's FTEs with the identity of the entities that ultimately receive support from any particular program. Commenters have thus failed to show that these indirect FTEs should be reassigned as direct. We therefore affirm prior Commission determinations that the burden of FTE time devoted to non-high cost Universal Service Fund programs is properly categorized as indirect, and that such a conclusion is consistent with how FTEs working for programs that benefit consumers and the American public are treated elsewhere in the Commission.

47. Additionally, as explained in the FY 2023 NPRM, staff analysis of the FTE burden associated with these non-high cost Universal Service Fund programs reveals that we need to adjust the number of indirect FTEs working on the non-high cost Universal Service Fund programs from 38 FTEs in FY 2022 downward to 23.75 indirect FTEs for FY 2023, a decrease of 14.25 indirect FTEs. As a result of staff's comprehensive review of the Commission's indirect bureaus and offices, we conclude that the FTE time within the Office of Engineering and Technology, the Enforcement Bureau, and the Consumer and Governmental Affairs Bureau, continues to be appropriately designated as indirect.

C. New Regulatory Fee Categories

48. In the FY 2023 NPRM, we sought comment on whether we should adopt new regulatory fee categories and on ways to improve our regulatory fee process regarding any and all categories of service. The Satellite Operators argue that the Commission has unquestionable jurisdiction to extend its regulatory fee categories to include service providers and manufacturers that benefit from the Commission's regulatory activities. The Satellite Operators suggest that we again seek comment on four new fee categories: (i) broadband internet access providers, (ii) database administrators that enable unlicensed operations, (iii) equipment manufacturers, and (iv) experimental licenses. TechFreedom, on the other hand, contends that the Commission lacks legal authority to require entities that it neither licenses nor regulates to pay regulatory fees.

49. We have previously sought comment on the fee categories proposed by the Satellite Operators and others, and, as no new facts or analysis have been provided in the record to support such proposals, we are neither adopting such categories at this time nor seeking further comment on them. Because commenters have provided no basis for us to change the Commission's prior determinations on this issue and we therefore affirm that such fees would be unworkable and logistically infeasible to collect at this time.

D. Space Station and International Bearer Circuit Regulatory Fees

1. Space Station Regulatory Fees

a. NGSO/GSO 80/20 Allocation

50. For FY 2023, we adopt the regulatory fees for space and earth stations proposed in the FY 2023 NPRM, which were based on the allocation of International Bureau FTEs that regulated space and earth stations. The International Bureau existed for most of FY 2023, and therefore we conclude that it is appropriate to adopt regulatory fees for FY 2023 based on the work of International Bureau FTEs for this fiscal year. We find that the proposed categories and allocations continue to accurately reflect the allocation of International Bureau FTEs in FY 2023. For the reasons discussed below, we decline to change allocations or add categories or subcategories of space station regulatory fees at this time. FY 2024 will be the first full fiscal year that the Space Bureau will be in existence. We anticipate closely evaluating the work of staff during the first year to ensure the continued accuracy of our FTE allocations. Moreover, given the rapid pace of development change in this segment of the telecommunications industry, we also anticipate closely considering whether any space and earth station regulatory fee categories should be revised in the coming years.

51. The FY 2023 NPRM sought comment on proposed regulatory fees for space and earth stations. For space stations, the proposed fees were calculated using the existing allocation of FTEs between GSO and NGSO space station categories, and among different categories of NGSO space station systems. Under the existing methodology of calculating regulatory fees for space stations, 80% of space station regulatory fees are allocated to GSOs and 20% of the space station regulatory fees to NGSOs. In addition, there are two subcategories for NGSO space stations regulatory fees: “less complex” NGSO systems and all other NGSO systems identified as “other” NGSO systems. “Less complex” NGSO systems are defined as NGSO satellite systems planning to communicate with 20 or fewer U.S. authorized earth stations that are primarily used for Earth Exploration Satellite Service (EESS) and/or Automatic Identification System (AIS). “Less complex” NGSO fees and “other” NGSO fees were split within the broader NGSO fee category on a 20/80 basis. In 2022, the Commission adopted a methodology for calculating the regulatory fee for small satellites and small spacecraft (together, small satellites) within the NGSO fee category based on 1/20th (5%) of the average of the non-small satellite NGSO space station regulatory fee rates from the current fiscal year on a per license basis.

52. The FY 2023 NPRM did not seek comment on the methodology previously adopted to allocate regulatory fees among GSO and NGSO space stations, nor did it seek comment on the definitions of existing subcategories of NGSO space stations or the creation of new subcategories of NGSO space stations in general. It did, however, seek comment generally on whether to adopt new regulatory fee categories and on ways to improve the regulatory fee process regarding “any and all categories of service.” It also sought comment specifically on how to apply regulatory fees to spacecraft performing On-Orbit Servicing (OOS) and Rendezvous and Proximity Operations (RPO) specifically operating near the geostationary satellite orbit arc.

53. No comments were received in response to the proposed regulatory fees for earth stations or for small satellites. As stated above, we find that these categories and allocations continue to accurately reflect the allocation of International Bureau FTEs for FY 2023. Accordingly, we adopt the proposed regulatory fees for earth stations and small satellites for FY 2023.

54. Several space station operators, individually or collectively, submitted comments regarding proposed regulatory fees for space stations other than small satellites. Broadly speaking, the comments can be divided into two categories. The first category proposes revisions to our existing methodology and categories for assessing regulatory fees on NGSO space stations. These commenters argue in favor of revising the “20/80” allocation between “less complex” and “other” NGSO space stations, revisiting the definition of “less complex” NGSO space station systems, or proposing to initiate a further notice of proposed rulemaking to revise and expand the subcategories of NGSO space station fees. The second category provides comments on how to apply regulatory fees to OOS and RPO spacecraft. We address each category of comments in turn below, but in each instance conclude that the record is insufficient at this time to adopt changes to the proposed regulatory fees for FY 2023 or to initiate a further notice of proposed rulemaking. Moreover, as observed previously in this order, the Commission's methodology need not reach scientific precision and instead must simply be reasonable.

b. NGSO Space Stations “Less Complex” and “Other” Regulatory Fees

55. 20/80 Less Complex/Other Allocation. The Satellite Operators contend that we should revisit the “20/80 split” between “less complex” and “other” NGSO space station systems and the assumptions that underly it. They argue that our regulatory fee structure should “not remain stagnant” regarding the nature of “less complex” NGSO space station systems that provide EESS, and that the Commission should initiate a further notice of proposed rulemaking because “[t]oday's EESS business . . . is virtually unrecognizable from what existed when the Commission first established [the “less complex”] NGSO regulatory fee structure” in 2021.

56. We find that the record is insufficient at this time to revisit, or to initiate a further rulemaking to revisit, the 20/80 allocation between “less complex” and “other” NGSO space station systems. The Satellite Operators do not provide any specific alternative proposals to the current allocations, other than to seek comment on the significance of the purported changes to the EESS business in order to build a foundation to take action on next year. As the EESS Operators observe, however, the Satellite Operators offer no new evidence that might cause the Commission to alter its conclusions and change the allocation, but repeat the argument they have made in the regulatory fee proceedings for FY 2020, FY 2021, and FY 2022, and do not provide a basis for the Commission to revisit its decision regarding NGSO fee category definitions adopted in the FY 2021 NPRM. In addition, the purported changes to the EESS business presented by the Satellite Operators (for example, multiplying use cases, mushrooming demand of customers for data, and changes in methods of distribution) do not go to the factors relied on in adopting the 20/80 allocation between “less complex” and “other” NGSO space stations: the amount of staff work involved in regulating NGSO space stations planning to communicate with 20 or fewer U.S. authorized earth stations primarily in EESS and/or AIS versus the amount of work involved in regulating other types of NGSO space station systems. Thus, there is no basis for initiating a further notice of proposed rulemaking at this time.

57. NGSO Space Station Fee Category Definitions and Expansion. Some commenters propose to revisit the definition of “less complex” NGSO space station systems to include a broader range of NGSO space station systems, or to initiate a further notice of proposed rulemaking to revise and expand the subcategories of NGSO space station fees. In particular, Kinéis alleges that the Commission did not fully explain the decision in the FY 2021 NPRM to use “the total number of earth stations with which satellite network will communicate” as the “only” factor to distinguish NGSO space station systems as “less complex” for regulatory fee purposes. To the extent that Kinéis's comments seek reconsideration of our holding in in that order, we agree with other comments that such an argument would be untimely. While we decline to revisit our prior holding, we will, however, address the Kinéis comments to the extent it proposes that the Commission should, on a going forward basis, expand the category of “less complex” NGSO space stations to include factors other than “the total number of earth stations with which satellite network will communicate” to distinguish NGSO space station systems as “less complex.”

58. As an initial matter, Kinéis mischaracterizes the prior decision as to which types of NGSO space station systems are “less complex” as being based only on the number of earth stations utilized by a NGSO space station system. In fact, the number of earth stations was not, and is not, the only factor for determining that an NGSO space station system is “less complex” for regulatory fee purposes. Rather, the Commission found that NGSO space station systems “planning to communicate with 20 or fewer U.S.-authorized earth stations that are primarily used for [EESS] and/or [AIS] are significantly less complex to regulate than other types of NGSO systems” (italics added). As the Commission explained, multiple factors led to determining that NGSO space station systems communicating with 20 or less U.S.-authorized earth stations used primarily for EESS and/or AIS involved less staff resources to regulate that other NGSO space station systems.

59. Thus, the number of earth stations is not the only factor for determining whether an NGSO space station system is “less complex” for regulatory fee purposes, but it is one factor, together with the service primarily being provided, that serves as a proxies for other factors, such as whether processing rounds are required to process the application, the geographic area being served by the system, the quantity and range of spectrum needs, and how the system utilizes spectrum vis-à-vis other systems. All these factors, not just the number of earth stations, go towards determining the amount of FTE resources required to regulate a NGSO space station system, thereby determining whether an NGSO space station system is “less complex” for regulatory fee purposes.

60. We note that the possibility of other NGSO space station systems being categorized as “less complex” for regulatory fee purposes in the future has not be rejected or precluded. Indeed, such a possibility has been expressly recognized. But the inclusion of NGSO space station systems into the “less complex” category must arise from factors that reflect the amount of work that FTEs perform to regulate such systems relative to the work performed for other NGSO space station systems. If the Commission finds in the future that another type of NGSO space station system requires less regulatory work than other NGSO space station systems, that type of NGSO space station system would be eligible for the “less complex” category as well. Although Kinéis and Myriota argue that their non-voice, non-geostationary mobile satellite service (NVNG MSS) designed to provide “Internet of Things” (IoT) connectivity should also be categorized as “less complex,” their arguments focus on the alleged superior benefits received by other NGSO space station systems compared to their own, rather than on the amount of regulatory work that FTEs perform. Such benefits, however, are not material to determining the complexity of regulation of a satellite system, which is the determining criterion for a “less complex” NGSO space station system. As such, we find that the record is not sufficiently developed at this time to determine that NVNG MSS IoT space station systems should be included in the “less complex” NGSO space station regulatory fee category.

61. Kinéis also proposes that the Commission adopt a further notice of proposed rulemaking to develop a record to separate the various NGSO networks into more homogenous categories that group providers together with others that provide similar types of services. Kinéis proposes that we adopt a multi-tiered approach to the fee categories for NGSO space station systems, using many different factors to group NGSO space station systems into tiers that would “charge each provider an amount commensurate with its demands on Commission resources and the benefits it receives through regulation based on these enumerated factors.” Kinéis suggests five NGSO tiers: (1) Global Fixed/Mobile Broadband; (2) Big LEO Voice & Data; (3) EESS Space Imaging & Other; (4) UHF IoT Data Collection & Monitoring/AIS; and (5) SmallSat. Although much of the basis for the different tiers is purported differences in the benefits received from FCC regulation, Kinéis also attempts to quantify the amount of FTE work necessitated by each tier by evaluating the number of filings each tier made in our Electronic Comments Filing System (ECFS) from the start of FY 2022 until June 1, 2023.

62. We find Kinéis's multi-tiered proposal for defining NGSO fee categories to be potentially useful framework as the Commission has used such multi-tiered approaches for assessing regulatory fees for other services. There is not sufficient time, however, to consider such expansive changes in time to adopt regulatory fees for FY 2023 because the conclusions underlying the proposal by Kinéis require further comment and evaluation. Kinéis's attempts to quantify the amount of FTE work necessitated by each proposed tier rely exclusively on filings made during a limited time period in docketed proceedings such as rulemakings, without consideration of applications and related filings, which would be made through ICFS, not ECFS. In addition, as the Satellite Operators observe, Kinéis has not attempted to explain how we would allocate the FTE time among these categories.

63. We agree, however, that an examination of our regulatory fees and categories for NGSO space stations would be useful in light of changes resulting from the creation of the Space Bureau and fuller consideration of possible adjustments to into account factors that are reasonably related to the benefits provided by the Commission's activities. We do not, however, have a sufficient record to initiate such an examination at this time. Section 9 requires regulatory fees be keyed to the FTE burden associated with the oversight and regulation of each regulatory fee category. We anticipate that the changes in the industry that resulted our decision to create the Space Bureau will likely also result in changes in the relative FTE burden between and among our space and earth station fee payors. Moreover, we anticipate the creation of the Space Bureau will result in the streamlining of the oversight and regulation of space stations, which could also change FTE burdens. Accordingly, we find it will be more efficient to seek comment on proposals to reexamine the categories of regulatory fees for NGSO space station systems, like the one offered by Kinéis, at the same time as other proposals that might arise as part of a more holistic review of the FTE burden of the Space Bureau in FY 2024.

64. Miscellaneous. Space X contends that we have miscalculated the space station regulatory fees because we based our calculations on nine units in the “Space Stations (Non-Geostationary, Other)” category, instead of ten. Although there are ten such licensed systems, one of the licensed systems was not operational as of October 1, 2022, and we are removing that station from the unit count when calculating the per unit fee. A unit count of nine is correct.

c. Spacecraft Performing On-Orbit Servicing (OOS) and Rendezvous and Proximity Operations (RPO) (In-Space Servicing Industries)

65. In the FY 2022 NPRM, we sought comment on adopting regulatory fee categories for spacecraft performing OOS and RPO. OOS and RPO missions, which can include satellite refueling, inspecting and repairing in-orbit spacecraft, capturing and removing debris, and transforming materials through manufacturing while in space, have the potential to benefit all space stations and improve the sustainability of the outer space environment and the space-based services. Due to the nascent nature of the OOS and RPO, or more generally “in-space servicing” industries, we currently do not have a regulatory fee category for such spacecraft. The Commission noted at that time that there have been a limited number of such operations and tentatively concluded that it was too early to identify exactly where operations, such as those in low-Earth orbit (LEO), might fit into the regulatory fee structure in the future.

66. Neither the scope of in-space servicing operations nor the regulatory framework developed sufficiently to adopt regulatory fee categories for FY 2022. As a result, in the FY 2023 NPRM we sought comment on defining this emerging category of operations for regulatory fee purposes, including whether a separate regulatory fee category is necessary for those spacecraft that may conduct such in-space servicing operations in the future. The FY 2023 NPRM also observed that some spacecraft conducting satellite servicing operate, or plan to operate, near the GSO arc, but that most of these operations are likely to ultimately be in NGSO.

67. Currently, two spacecraft operate under part 25 for communications while conducting these types of operations with GSO satellites. These two spacecraft remain operational in FY 2023. In the FY 2023 NPRM, the Commission tentatively concluded that, despite being assigned their own call signs, which is the unit usually used to assess fees for satellite regulatees operating in GSO, such spacecraft appear to operate as part of existing GSO systems, rather than as separate independent spacecraft. Therefore, there would be no independent system for a separate fee assessment for these operations near the GSO arc, and the regulatory burden (i.e., the FTE time) for such operations would be included in the fees collected from the GSO regulatory fee payors. The Commission sought comment on this tentative conclusion and whether it may not apply to future operations of OOS and RPO spacecraft, which may operate more independently of the satellites that they will service. The Commission also observed that, for spacecraft conducting OOS and RPO with GSO satellites, identifying whether such spacecraft operations are part of an existing GSO system appears to be the first step in determining whether the Commission should assess a separate regulatory fee. The FY 2023 NPRM proposed to apply the regulatory fee for “Space Stations (Geostationary Orbit)” to OOS and RPO spacecraft operating near the GSO arc, unless a determination is made that the OOS or RPO spacecraft is operating as part of an existing GSO system and therefore should not be assessed a separate regulatory fee. The Commission sought comment on this approach, as well as on the specific factors that should be considered to determine whether a OOS or RPO spacecraft is operating as part of an existing GSO system for regulatory fee purposes.

68. We find that the record remains too incomplete to adopt a separate regulatory fee category for spacecraft performing OOS and RPO at this time. Although commenters generally support the creation of new, separate regulatory fee categories for OOS and RPO space stations, we conclude there is insufficient understanding of the nature and regulation of such spacecraft to consider concrete proposals for assessing regulatory fees for OOS and RPO space stations at this time. The Commission is still in the early stages of considering the regulatory environment for such services as a whole, and the definition of which services would fit into OOS and RPO and the regulatory framework for such services are yet to be developed. Accordingly, we are unable to determine who would be eligible for such a category or the amount of the FTE burden that the Commission would spend in regulating such a category, which is a necessary first step in adopting regulatory fees. We will continue to develop the record regarding a possible separate fee category for OOS, RPO, and in-space servicing more generally, with the benefit of progress made in rulemaking proceedings concerning these emerging services and will revisit this issue as part of the regulatory fees proceeding for FY 2024.

69. We will continue to develop a record that will inform possible establishment of a fee category(ies) and appropriate methodology for assessing such a fee category(ies). We will also continue to consider OOS and RPO spacecraft licensing for those spacecraft operating near the GSO arc on a mission-by-mission basis. Relatedly, Astroscale requests that we also clarify that a determination that the OOS or RPO spacecraft is operating as part of an existing GSO system could also include GSO servicing spacecraft operating in other frequency bands not supported by the client vehicle. We find, however, that the record is insufficiently developed at this time to act on this request. Although some comments oppose ever assessing the fee for GSO space stations on OOS and RPO spacecraft, arguing that the current GSO fee category reflects FTE hours spent on typical GSO spacecraft issues and that these are not efforts that servicing spacecraft near the GSO arc benefit from, there is no other fee category available for space stations operating in geostationary orbit, and section 9 does not permit the Commission to exempt regulatees from paying regulatory fees. Because we are not proposing to adopt, at this time, a regulatory fee category for OOS or RPO operations, or in-space servicing more generally, we need not consider what factors should go into determining the regulatory fees for such categories.

70. Orbital Transfer Vehicle (OTV). The FY 2023 NPRM also sought comment on additional or different definitions for a potential new fee category, such as including in the definition of OOS concepts of operation such as deployment via an OTV. Spaceflight argues that the new fee category for in-space servicing systems should be broadly defined, encompassing a range of activities, including OTV deployment services, rendezvous and proximity operations, refueling, situational awareness, and debris-related activities. Spaceflight submits that it is essential that OTVs are not simply designated as either GSO or NGSO, but rather recognized as a distinct category within the regulatory framework. Spaceflight believes that OTVs possess distinct capabilities and serve a specific purpose in space operations, making it crucial to establish a separate classification that reflects these characteristics. Spaceflight supports a fee assessment comparable to the one applicable for small satellites because there are similarities between OTVs and the small satellite systems. Spaceflight argues that both types of missions are generally characterized by the following factors: (i) limited interference protection, (ii) limited mission durations, (iii) smaller system investments, (iv) less probability of ongoing adjudications, (v) higher chance to require multiple licenses or market grants, and (vi) a limited number of in-space servicing missions.

71. In addition, Spaceflight disagrees with our position that innovative OTVs should not be classified as in-orbit servicing spacecraft but rather as an NGSO spacecraft which deploys other spacecraft and contends that the Commission has not provided a basis by which to characterize Sherpa-AC1, or OTVs more generally, as “less complex” NGSO systems for regulatory fee purposes. Spaceflight explains that the very purpose of OTVs is to support other space missions, and this service is more similar to that of a launch vehicle, rather than a traditional communications or other satellite service. Spaceflight argues that there is nothing in the record or the Commission's analysis to explain why a physical, in-orbit delivery service is like the satellite services provided by NGSO spacecraft classified in the “less complex” fee category, i.e., Earth imaging or other type of monitoring services. Moreover, Spaceflight purports that simply classifying OTV missions as “less complex” based on the number of earth stations used to communicate with the OTV system would be inappropriate. Spaceflight submits that traditional systems generally rely more heavily on spectrum use, either for the provision of two-way communications or the transmission of service data, such as imagery of the Earth or other similar commercial data; however, OTVs generally use spectrum simply to operate the spacecraft or for other limited testing. Spaceflight argues that such spectrum use is also typically on a non-interference and unprotected basis because there is no specific spectrum allocation for the physical services provided by OTV operators.

72. Spaceflight also argues that OTVs generally have significantly shorter operational lives compared to traditional NGSO satellites, such as mission lifetimes of less than a few hours or days. In contrast, Spaceflight contends, satellites in traditional communications or imaging satellite systems have mission lifetimes measured in years and are generally parts of constellations with 15-year license terms. For these reasons, Spaceflight submits that OTVs are unlike “less complex” (or “other”) NGSO systems and should not be treated as such for regulatory fee purposes. Spaceflight further argues that if the Commission decides that OTV licensees should pay annual regulatory fees associated with “less complex” NGSO licenses, OTV operators should be permitted to seek blanket licenses for the launch and operation of multiple OTV spacecraft per license. Spaceflight submits that such a policy would be consistent with the treatment of other NGSO systems and licensees and would more accurately reflect regulatory costs borne by the Commission.

73. As stated above, the record is not sufficiently complete to adopt or even propose a separate regulatory fee category for spacecraft performing OOS, regardless of whether OTVs are included within the definition of OOS or not. We will continue to develop the record regarding a possible separate fee category for OOS, RPO, and in-space servicing more generally, and will consider OTVs as part of that record development. In addition, Spaceflight's proposal that OTV operators should be permitted to seek blanket licenses for the launch and operation of multiple OTV spacecraft per license is outside the scope of this proceeding and is more appropriately considered as part of a separate license application or rulemaking.

2. International Bearer Circuit Regulatory Fees—Submarine Cable Systems

74. We reject the Submarine Cable Coalition's request to revise the Commission's regulatory fee methodology for submarine cable operators, which is based upon the lit capacity of the fiber-optic submarine cable, because, they contend, that under our current methodology the fees charged to submarine cable operators do not account for the amount of Commission resources and services required for oversight. We find that the Submarine Cable Coalition provides no persuasive argument that the Commission's assessment of these regulatory fees based on capacity is contrary to the Communications Act and is not reasonably related to the benefits provided. We adopt our proposal to use the same tiers for assessing fees on submarine cable operators for FY 2023 as in FY 2022, which are based on the “lit” capacity of the fiber-optic submarine cable.

75. International bearer circuits (IBCs) consist of terrestrial and satellite circuits and submarine cable systems. In the 2009 Submarine Cable Order (74 FR 22104, May 12, 2009), based on a consensus proposal made by a large number of submarine cable operators (Consensus Proposal), the Commission adopted a new methodology for assessing IBC fees. Instead of assessing IBC fees based on 64 kbps circuits for all types of IBCs, the Commission began assessing regulatory fees for submarine cable operators on a per cable landing license basis, with higher fees for larger capacity submarine cable systems and lower fees for smaller capacity submarine cable systems. The Commission adopted a five-tier structure for assessing fees on submarine cables systems based on lit capacity. The Commission explained that it will define operational submarine cable systems as either “large” or “small” submarine cable systems based on the capacity of each system and the “small” systems will be further subdivided into additional subcategories. The Commission concluded that this methodology served the public interest and was competitively neutral because it included both common carrier and non-common carrier submarine cable operators. The Commission also explained that the methodology would be easier to administer and for submarine cable operators to comply with. The Commission further stated that a lower fee for licensees of smaller cable systems would mitigate concerns that a flat fee may create a barrier to entry for new entrants. In the FY 2020 Report and Order (85 FR 59864, September 23, 2020), the Commission found that lit capacity was an appropriate measure by which to assess IBC fees for submarine cables.

76. The Submarine Cable Coalition contends that the fee structure continues to impose disproportionate fees on submarine cable operations that do not reflect their limited use of Commission resources and services. These commenters argue that the benefits submarine cable licensees receive from the Commission's work pale significantly in comparison to the regulatory oversight required of other Commission licensees. The Submarine Cable Coalition argues that a regulatory fee structure disconnected from and disproportionate to the benefits rendered to the regulatory fee payor is contrary to the Communications Act and imposes an undue burden on the industry.

77. We disagree with the Submarine Cable Coalition's contention that the Commission's regulatory fee methodology is contrary to the Communications Act and that the Commission has not developed regulatory fees that are reasonably related to the benefits provided. The Commission has long held that capacity is a reasonable basis to assess regulatory costs among the submarine cable regulatory fee payors that benefit from the Commission's work. As the Commission has previously stated, the fee assessment on submarine cables covers the costs for regulatory activity concerning submarine cables as well as the services provided over the submarine cables. We find it reasonable to continue to assess higher regulatory fees on licensees with larger facilities that benefit more from the Commission's work and thus should pay a larger proportion of the Commission's costs.

78. Since FY 2009, when the Commission adopted the new methodology for assessing submarine cable fees, the level of lit capacity for submarine cable systems has increased and the Commission has expanded the different tiers to take into account this change and accommodate for this rapid growth in capacity. However, the basic methodology for calculating submarine cable fees based on capacity has not changed. Submarine cable fees are still calculated on the basis of “1” unit, “.5” units, “.25” units and so forth. Furthermore, we note that the regulatory fees for FY 2023 have been reduced from those assessed in FY 2022. As discussed above, lit capacity remains a reasonable basis to apportion regulatory costs among the submarine cable regulatory fee payors that benefit from the Commission's work, and our fee methodology with respect to submarine cables continues to reasonably reflect the FTE costs for our regulatory activity concerning submarine cables as well as the services provided over the submarine cables.

E. Broadcaster Regulatory Fees for FY 2023

1. Full Service Television

79. The Commission has utilized a population-based full-service broadcast television regulatory fee since 2020. The population-based methodology conforms with the service authorized here—broadcasting television to the American people. In the FY 2023 NPRM, we proposed to continue to assess fees for full-power broadcast stations based on the population covered by a full-service broadcast station's contour and proposed adopting a factor of 0.7799 of one cent ($0.007799) per population served for FY 2023 full-power broadcast television station fees. We received no comments on this issue. We therefore conclude that we will continue to use the population-based methodology for full-service television broadcasters based on the population covered by a full-service broadcast television station's contour. We also adopt a factor of 0.7799 of one cent ($0.007799) per population served for FY 2023 full-power broadcast television station fees. The population data for broadcasters' service areas will continue to be determined using the TVStudy software and the LMS database, based on a station's projected noise-limited service contour. The population data for each licensee and the population-based fee (population multiplied by $0.007799) for each full-power broadcast television station is listed in Table 10. For those VHF stations whose power had to be increased to obtain a clearer signal, the Commission will continue to use a population count based on that station's lower VHF power level rather than at the increased power level.

2. Radio Stations

80. In the FY 2023 NPRM, we sought comment on the existing tiered fee structure for radio broadcasters regulatory fees and proposed the creation of an additional tier within the lowest population tier to ensure that broadcaster fees fairly represent the regulatory oversight benefits distributed among all radio broadcasters and that the regulatory fees assessed to the smaller broadcasters are “reasonably related to the benefits provided to the payor of the fee by the Commission's activities” as required by section 9(d) of the Act. NAB agrees that we should adopt the proposal to create a new fee tier for the smallest AM and FM radio stations. In its reply comments, the State Associations of Broadcasters agree that the Commission should implement the proposed new radio tier to more fairly distribute the burden of regulatory fees. No commenter in the record objected to our proposal. We therefore adopt a revised radio station regulatory fee table that includes a lower population tier for AM and FM broadcasters. Specifically, we separate the previous years' tier of <=25,000 population into two tiers: (1) <=10,000, and (2) 10,001-25,000. The remaining population tier thresholds will stay the same as prior years. In addition, beginning in FY 2023, the radio population count that is the basis for assessing regulatory fees will include 2020 U.S. Census data.

Table 3—FY 2023 Radio Station Regultory Fees
FY 2023 Radio Station Regulatory Fees: Population served | FY 2023 Radio Station Regulatory Fees: AM Class A | FY 2023 Radio Station Regulatory Fees: AM Class B | FY 2023 Radio Station Regulatory Fees: AM Class C | FY 2023 Radio Station Regulatory Fees: AM Class D | FY 2023 Radio Station Regulatory Fees: FM Classes A, B1 & C3 | FY 2023 Radio Station Regulatory Fees: FM Classes B, C, C0, C1 & C2
<=10,000 | $595 | $430 | $370 | $410 | $650 | $745
10,001-25,000 | 990 | 715 | 620 | 680 | 1,085 | 1,240
25,001-75,000 | 1,485 | 1,075 | 930 | 1,020 | 1,630 | 1,860
75,001-150,000 | 2,230 | 1,610 | 1,395 | 1,530 | 2,440 | 2,790
150,001-500,000 | 3,345 | 2,415 | 2,095 | 2,300 | 3,665 | 4,190
500,001-1,200,000 | 5,010 | 3,620 | 3,135 | 3,440 | 5,490 | 6,275
1,200,001-3,000,000 | 7,525 | 5,435 | 4,710 | 5,170 | 8,245 | 9,425
3,000,001-6,000,000 | 11,275 | 8,145 | 7,060 | 7,745 | 12,360 | 14,125
>6,000,000 | 16,920 | 12,220 | 10,595 | 11,620 | 18,545 | 21,190

F. Continuing Flexibility in FY 2023 for Regulatory Fee Payors

81. In FYs 2020, 2021, and 2022, we provided temporary relief to fee payors experiencing financial hardship caused or exacerbated by the COVID-19 pandemic. In the FY 2023 NPRM, we asked whether we should continue certain of those temporary measures for FY 2023 regulatory fees. Both NAB and the State Broadcasters Associations filed comments in support of continuing the temporary measures for FY 2023 regulatory fees. While the National Emergency has ended, we recognize, as NAB and the State Broadcasters Associations pointed out in their comments to the FY 2023 NPRM, that extending relief measures for FY 2023 regulatory fees while businesses like broadcasters continue to recover from the economic impact of the pandemic, will benefit fee payors. Therefore, the Commission finds good cause to continue to offer a nominal interest rate and waive its down payment requirement, for installment payment of regulatory fee debt. OMD will continue to exercise its delegated authority to partially waive § 1.1910 of the Commission's rules to allow regulatees on “red light” and experiencing financial hardship to nonetheless request waiver, reduction, deferral, and/or installment payment of their FY 2023 regulatory fees, provided that those regulatees resolve all of the delinquent debt they owe to the Commission in advance of the Commission's decision on their relief requests.

82. We also will continue a partial waiver of § 1.1166 of our rules to permit fee payors seeking waiver, deferral or reduction of their FY 2023 regulatory fees to submit documentation supporting their requests after their underlying requests are submitted. This partial waiver of § 1.1166(c) does not remove the burden of submitting documents in support of individual waiver requests. Parties seeking waiver, deferral or reduction of their FY 2023 regulatory fees must make a good faith effort to submit all necessary documentation with their initial regulatory fee waiver requests. As part of our partial waiver of 1.1166(c), we will provide fee payors, after filing their requests for waiver, reduction or deferral of their FY 2023 regulatory fees, with one opportunity to submit additional documents to support their requests, which submission must occur by January 31, 2024 in order for their supplemental documentation to be considered with their requests. We condition our temporary waiver in order to more closely align our practices with the requirements of § 1.1166. This provides fee payors with relief while at the same time scaffolding a return to normal operation of our rules.

83. The State Broadcasters Associations also advocate for making permanent these remaining temporary measures, stating that without them, the Commission's processes and rules, particularly with respect to installment payment requests, are sufficiently onerous as to prevent distressed fee payors from effectively accessing the relief. Because we did not propose to codify the remaining temporary measures in the FY 2023 NPRM, the record is insufficient to consider the State Broadcasters Associations' proposal and we therefore decline to consider it at this time.

84. Finally, in the FY 2023 NPRM, we amended § 1.1166 of our rules to permit parties seeking regulatory fee waiver, reduction and/or deferral to make a single request for all forms of relief sought, rather than requiring separate filings for each form of relief, and to require all requests made under the rule to be submitted electronically to a dedicated email address. We also amended § 1.1914 of our rules to direct parties seeking to pay their regulatory fees in installments to submit those requests to the same dedicated email address and to permit those parties to combine their installment payment requests with their waiver. While we did not receive any comments on this point, it is very unlikely that the OMB PRA approval process will conclude in time for parties seeking installment relief to proceed under the codified revisions to § 1.1914. Therefore, we will continue these revisions to § 1.1914 as temporary measures until their codification is effective.

85. We also remind regulatory fee payors that we cannot relax the substantive standard for granting a waiver or deferral of fees, penalties, or other charges for late payment of regulatory fees under section 9A of the Act. Under the statute, the Commission may only waive a regulatory fee, penalty, or interest charge if it finds there is good cause for the waiver and that the waiver is in the public interest. The Commission has only granted financial hardship waivers when the requesting party has shown it “lacks sufficient funds to pay the regulatory fees and to maintain its service to the public.” Other statutory limitations include that the Commission must act on waiver requests individually, and cannot extend the deadline we set for payment of fees beyond September 30.

G. Providing Installment Payment Relief to Small Regulatory Fee Payors

86. In the FY 2023 NPRM, we sought comment on a proposal to allow regulatory fee payors to prepay their annual regulatory fees in increments before the annual regulatory fee payment deadline. The State Broadcasters Associations asked that the Commission consider the proposal, on the basis that permitting incremental prepayment of regulatory fees would ease broadcasters' regulatory fee burden. In seeking comment on the proposal, we noted that implementation of such a program would require modifications to our recordkeeping, financial operations, and accounting systems and additional personnel to administer the program. We asked commenters what concrete benefits the Commission and participating regulatory fee payors would derive from the program, to justify the Commission's cost of implementing and administering a prepayment by installment program. In their reply comments, the State Broadcasters Associations concede the significant administrative difficulties of a prepayment program but do not identify any program benefits sufficient to justify implementation and administration of such a program. We received no other comments on the proposal. Because the record does not identify any concrete benefits derived from a prepayment program, as distinct from, for example, broadcasters individually setting aside money each month in advance of the payment deadline to pay their regulatory fee obligation, and would increase the Commission's costs, we decline to adopt the proposal to permit regulated parties to prepay their annual regulatory fee obligation in increments in advance of the regulatory fee payment deadline.

H. Technical Corrections to Sections 1.1166 and 1.1914 of the Commission's Rules

87. We further amend § 1.1166 to delete certain language added to the rule in error in the FY 2023 NPRM. Specifically, we delete “or installment payment” in the introductory paragraph of § 1.1166 and in 1.1166(a), make grammatical changes to move the word “or” twice, and we delete “and 1.1914” in 1.1166(a). We also restore the following text (bolded) that was inadvertently deleted from § 1.1166(a) in the FY 2023 NPRM: “All requests for waiver, reduction and deferral shall be acted upon by the Managing Director with the concurrence of the General Counsel.”

88. We also make two technical corrections to § 1.1914 to clarify the language of the rule. The third sentence of § 1.1914(a) is revised to read as follows: “Requests for installment payment of non-regulatory fee debt shall be filed electronically, by submission to the following email address: installmentplanrequest@fcc.gov.” We make this change to ensure that, for administrative simplicity purposes, installment payment requests that are non-regulatory fee in nature are submitted to a different email address than the email address to which all regulatory fee relief requests, including those for installment payment of regulatory fees, are to be submitted. Finally, we revise the fourth sentence of § 1.1914(a) to more clearly state that requests for installment payment of regulatory fees may be combined with other regulatory fee relief requests that are filed pursuant to § 1.1166 of our rules. We make these technical corrections sua sponte without notice and comment because we conclude that they are rules of agency organization, procedure, or practice exempt from the general notice-and-comment requirements of the Administrative Procedure Act (APA).

I. Advancing Diversity, Equity, Inclusion, and Accessibility

89. In the FY 2023 NPRM, we sought comment on how our proposals may promote or inhibit advances in diversity, equity, inclusion, and accessibility, as well the scope of the Commission's relevant legal authority. We did not receive any comments on this issue. While diversity and equity considerations do not impact our methodology for establishing regulatory fee rates, we continue to remain mindful of the importance of these considerations and the impact of our rules on them. We again emphasize, however, that the Commission is not permitted to shift fees from one party of fee payors to another nor to raise fees for any purpose other than as an offsetting collection in the amount of our annual S&E appropriation, consistent with the requirements of section 9 of the Act.

III. Procedural Matters

90. Included below are procedural items as well as our current payment and collection methods.

91. Commission's Registration System. To increase efficiency, the Commission is using an all-electronic payment system for regulatory fees, which is contained within the Commission's Registration System (CORES). Before using CORES for the first time, you must obtain an FCC Username through the FCC User Registration System, and subsequently use it to access CORES and either register an FCC Registration Number (FRN) or associate an existing FRN to your password. If you are unable to register electronically, you may fax your application for a Registration Number (FCC Form 160) to the CORES Helpdesk at (202) 418-7869 for filing procedures.

92. Credit Card Transaction Levels. In accordance with Treasury Financial Manual, Volume I, Part 5, Chapter 7000, Section 7055.20—Transaction Maximums, the highest amount that can be charged on a credit card for transactions with federal agencies is $24,999.99. Transactions greater than $24,999.99 will be rejected. This limit applies to single payments or bundled payments of more than one bill. Multiple transactions to a single agency in one day may be aggregated and treated as a single transaction subject to the $24,999.99 limit. Customers who wish to pay an amount greater than $24,999.99 should consider available electronic alternatives such as Visa or MasterCard debit cards, ACH debits from a bank account, and wire transfers. Each of these payment options is available after filing regulatory fee information in the CORES system. Further details will be provided regarding payment methods and procedures at the time of FY 2023 regulatory fee collection in Fact Sheets, https://www.fcc.gov/regfees.

93. Payment Methods. During the fee season for collecting regulatory fees, regulatees can pay their fees by credit card through Pay.gov, ACH, debit card, or by wire transfer. Additional payment instructions are posted on the Commission's website at https://www.fcc.gov/licensing-databases/fees/wire-transfer. The receiving bank for all wire payments is the U.S. Treasury, New York, NY (TREAS NYC). Any other form of payment (e.g., checks, cashier's checks, or money orders) will be rejected. For payments by wire, an FCC Form 159-E should still be transmitted via fax so that the Commission can associate the wire payment with the correct regulatory fee information. The fax should be sent to the Commission at (202) 418-2843 at least one hour before initiating the wire transfer (but on the same business day) so as not to delay crediting their account. Regulatees should discuss arrangements (including bank closing schedules) with their bankers several days before they plan to make the wire transfer to allow sufficient time for the transfer to be initiated and completed before the deadline. Complete instructions for making wire payments are posted at https://www.fcc.gov/licensing-databases/fees/wire-transfer.

94. De Minimis Regulatory Fees, Section 9(e)(2) Exemption. Under the de minimis rule, and pursuant to our analysis under section 9(e)(2) of the Act, a regulatory fee payor is exempt from paying regulatory fees if the sum total of all of its annual regulatory fee liabilities is $1,000 or less for the fiscal year. The de minimis threshold applies only to filers of annual regulatory fees, not regulatory fees paid through multi-year filings, and it is not a permanent exemption. Each regulatory fee payor will need to reevaluate the total annual fee liability each fiscal year to determine whether it meets the de minimis exemption.

95. Standard Fee Calculations and Payment Dates. The Commission will accept fee payments made in advance of the window for the payment of regulatory fees. The responsibility for payment of fees by service category is as follows:

• Media Services: Regulatory fees must be paid for initial construction permits that were granted on or before October 1, 2022 for AM/FM radio stations and VHF/UHF broadcast television stations. Regulatory fees must be paid for all broadcast facility licenses granted on or before October 1, 2022.

• Wireline (Common Carrier) Services: Regulatory fees must be paid for authorizations that were granted on or before October 1, 2022. In instances where a permit or license is transferred or assigned after October 1, 2022, responsibility for payment rests with the holder of the permit or license as of the fee due date. Audio bridging service providers are included in this category. For Responsible Organizations (RespOrgs) that manage Toll Free Numbers (TFN), regulatory fees should be paid on all working, assigned, and reserved toll free numbers as well as toll free numbers in any other status as defined in § 52.103 of the Commission's rules. The unit count should be based on toll free numbers managed by RespOrgs on or about December 31, 2022.

• Wireless Services: CMRS cellular, mobile, and messaging services (fees based on number of subscribers or telephone number count): Regulatory fees must be paid for authorizations that were granted on or before October 1, 2022. The number of subscribers, units, or telephone numbers on December 31, 2022 will be used as the basis from which to calculate the fee payment. In instances where a permit or license is transferred or assigned after October 1, 2022, responsibility for payment rests with the holder of the permit or license as of the fee due date.

• Wireless Services, Multi-year fees: The first seven regulatory fee categories in our Schedule of Regulatory Fees pay “small multi-year wireless regulatory fees.” Entities pay these regulatory fees in advance for the entire amount period covered by the ten-year terms of their initial licenses, and pay regulatory fees again only when the license is renewed, or a new license is obtained. We include these fee categories in our rulemaking to publicize our estimates of the number of “small multi-year wireless” licenses that will be renewed or newly obtained in FY 2022.

• Multichannel Video Programming Distributor Services (cable television operators, CARS licensees, DBS, and IPTV): Regulatory fees must be paid for the number of basic cable television subscribers as of December 31, 2022. Regulatory fees also must be paid for CARS licenses that were granted on or before October 1, 2022. In instances where a permit or license is transferred or assigned after October 1, 2022, responsibility for payment rests with the holder of the permit or license as of the fee due date. For providers of DBS service and IPTV-based MVPDs, regulatory fees should be paid based on a subscriber count on or about December 31, 2022. In instances where a permit or license is transferred or assigned after October 1, 2022, responsibility for payment rests with the holder of the permit or license as of the fee due date.

• International Services (Earth Stations and Space Stations): Regulatory fees must be paid for (1) by all licensed or authorized earth stations on or before October 1, 2022, (2) geostationary orbit space stations and non-geostationary orbit satellite systems that are licensed and operational on or before October 1, 2022, and (3) small satellite space stations that were licensed and operational on or before October 1, 2022. In instances where a permit or license is transferred or assigned after October 1, 2022, responsibility for payment rests with the holder of the permit or license as of the fee due date. During the “de-commissioning” phase of satellites, whereby satellites are often not operational, the satellite license must be cancelled by September 30, 2022 to avoid paying FY 2023 regulatory fees.

• International Services (Submarine Cable Systems, Terrestrial and Satellite Services): Regulatory fees for submarine cable systems are to be paid on a per cable landing license basis based on lit circuit capacity as of December 31, 2022. Regulatory fees for terrestrial and satellite IBCs are to be paid based on active (used or leased) international bearer circuits as of December 31, 2022 in any terrestrial or satellite transmission facility for the provision of service to an end user or resale carrier. When calculating the number of such active circuits, entities must include circuits used by themselves or their affiliates. For these purposes, “active circuits” include backup and redundant circuits as of December 31, 2022. Whether circuits are used specifically for voice or data is not relevant for purposes of determining that they are active circuits. In instances where a permit or license is transferred or assigned after October 1, 2022, responsibility for payment rests with the holder of the permit or license as of the fee due date.

96. Commercial Mobile Radio Service (CMRS) and Mobile Services Assessments. The Commission compiled data from the Numbering Resource Utilization Forecast (NRUF) report that is based on “assigned” telephone number (subscriber) counts that have been adjusted for porting to net Type 0 ports (“in” and “out”). We have included non-geographic numbers in the calculation of the number of subscribers for each CMRS provider in Table 6 and the CMRS regulatory fee rate. CMRS provider regulatory fees are calculated and should be paid based on the inclusion of non-geographic numbers. CMRS providers can adjust the total number of subscribers, if needed. This information of telephone numbers (subscriber count) will be posted on the Commission's electronic filing and payment system.

97. A carrier wishing to revise its telephone number (subscriber) count can do so by accessing CORES and follow the prompts to revise their telephone number counts. Any revisions to the telephone number counts should be accompanied by an explanation or supporting documentation. The Commission will then review the revised count and supporting documentation and either approve or disapprove the submission in CORES. If the submission is disapproved, the Commission will contact the provider to afford the provider an opportunity to discuss its revised subscriber count and/or provide additional supporting documentation. If we receive no response from the provider, or we do not reverse our initial disapproval of the provider's revised count submission, the fee payment must be based on the number of subscribers listed initially in CORES. Once the timeframe for revision has passed, the telephone number counts are final and are the basis upon which CMRS regulatory fees are to be paid. Providers can view their final telephone counts online in CORES. A final CMRS assessment letter will not be mailed out.

98. Because some carriers do not file the NRUF report, they may not see their telephone number counts in CORES. In these instances, the carriers should compute their fee payment using the standard methodology that is currently in place for CMRS Wireless services (i.e., compute their telephone number counts as of December 31, 2022, and submit their fee payment accordingly. Whether a carrier reviews its telephone number counts in CORES or not, the Commission reserves the right to audit the number of telephone numbers for which regulatory fees are paid. In the event that the Commission determines that the number of telephone numbers that are paid is inaccurate, the Commission will bill the carrier for the difference between what was paid and what should have been paid.

99. Effective Date. Providing a 30-day period after Federal Register publication before this Report and Order becomes effective as normally required by 5 U.S.C. 553(d) will not allow sufficient time to collect the FY 2023 fees before FY 2023 ends on September 30, 2023. For this reason, pursuant to 5 U.S.C. 553(d)(3), we find there is good cause to waive the requirements of section 553(d), and this Report and Order will become effective upon publication in the Federal Register. Because payments of the regulatory fees will not actually be due until late September, persons affected by the Report and Order will still have a reasonable period in which to make their payments and thereby comply with the rules established herein.

100. People with Disabilities. To request materials in accessible formats for people with disabilities (braille, large print, electronic files, audio format), send an email to fcc504@fcc.gov or call the Consumer and Governmental Affairs Bureau at (202) 418-0530 (voice).

IV. List of Tables

Table 4—Calculation of FY 2023 Revenue Requirements and Pro-Rata Fees
[Regulatory fees for the categories shaded in gray are collected by the Commission in advance to cover the term of the license and are submitted at the time the application is filed]
Fee category | FY 2023 payment units | Yrs | FY 2022 revenue estimate | Pro-rated FY 2023 revenue requirement | Computed FY 2023 regulatory fee | Rounded FY 2023 reg. fee | Expected FY 2023 revenue
PLMRS (Exclusive Use) | 1,200 | 10 | 187,500 | 300,000 | 25.00 | 25 | 300,000
PLMRS (Shared use) | 19,000 | 10 | 1,250,000 | 1,900,000 | 10.00 | 10 | 1,900,000
Microwave | 16,000 | 10 | 4,500,000 | 4,000,000 | 25.00 | 25 | 4,000,000
Marine (Ship) | 7,000 | 10 | 1,035,000 | 1,050,000 | 15.00 | 15 | 1,050,000
Aviation (Aircraft) | 4,800 | 10 | 420,000 | 480,000 | 10.00 | 10 | 480,000
Marine (Coast) | 240 | 10 | 84,000 | 96,000 | 40.00 | 40 | 96,000
Aviation (Ground) | 300 | 10 | 70,000 | 60,000 | 20.00 | 20 | 60,000
AM Class A ¹ | 60 | 1 | 326,740 | 286,929 | 4,782 | 4,780 | 286,800
AM Class B ¹ | 1,403 | 1 | 4,054,050 | 3,559,924 | 2,537 | 2,535 | 3,556,605
AM Class C ¹ | 814 | 1 | 1,450,360 | 1,274,519 | 1,566 | 1,565 | 1,273,910
AM Class D ¹ | 1,373 | 1 | 4,793,460 | 4,210,959 | 3,067 | 3,065 | 4,208,245
FM Classes A, B1 & C3 ¹ | 3,043 | 1 | 10,109,400 | 8,880,633 | 2,918 | 2,920 | 8,885,560
FM Classes B, C, C0, C1 & C2 ¹ | 3,111 | 1 | 12,378,460 | 10,874,394 | 3,496 | 3,495 | 10,872,945
AM Construction Permits ² | 5 | 1 | 3,450 | 3,100 | 620.1 | 620 | 3,100
FM Construction Permits ² | 16 | 1 | 19,360 | 17,360 | 1,085 | 1,085 | 17,360
Digital Television ⁵ (including Satellite TV) | 3.265 billion population | 1 | 28,897,591 | 25,463,155 | .00779893 | .007799 | 25,463,735
Digital TV Construction Permits ² | 4 | 1 | 20,840 | 20,400 | 5,100 | 5,100 | 20,400
LPTV/Class A/Translators FM Trans/Boosters | 6,325 | 1 | 1,858,440 | 1,630,258 | 257.7 | 260 | 1,644,500
CARS Stations | 120 | 1 | 230,175 | 206,629 | 1,721.9 | 1,720 | 206,400
Cable TV Systems, including IPTV & DBS | 56,000,000 | 1 | 76,475,000 | 68,642,063 | 1.226 | 1.23 | 68,880,000
Interstate Telecommunication Service Providers | $25,100,000,000 | 1 | 124,597,500 | 135,463,365 | 0.005397 | 0.00540 | 135,540,000
Toll Free Numbers | 34,700,000 | 1 | 4,164,000 | 4,654,582 | 0.1341 | 0.13 | 4,511,000
CMRS Mobile Services (Cellular/Public Mobile) | 553,000,000 | 1 | 74,900,000 | 86,750,595 | 0.1569 | 0.16 | 88,480,000
CMRS Messaging Services | 1,300,000 | 1 | 120,000 | 104,000 | 0.0800 | 0.080 | 104,000
BRS/ ³ | 1,195 | 1 | 716,625 | 836,500 | 700 | 700 | 836,500
LMDS | 360 | 1 | 204,750 | 252,000 | 700 | 700 | 252,000
Per Gbps circuit Int'l Bearer Circuits Terrestrial (Common & Non-Common) & Satellite (Common & Non-Common) | 17,000 | 1 | 468,000 | 433,092 | 25.48 | 26 | 442,000
Submarine Cable Providers (See chart at bottom of Table 6) ⁴ | 67.00 | 1 | 8,822,138 | 8,228,737 | 122,817 | 122,815 | 8,228,605
Earth Stations | 2,900 | 1 | 1,783,500 | 1,667,486 | 575 | 575 | 1,667,500
Space Stations (Geostationary) | 136 | 1 | 17,143,565 | 15,990,883 | 117,580 | 117,580 | 15,990,880
Space Stations (Non-Geostationary, Other) | 9 | 1 | 3,380,200 | 3,129,773 | 347,753 | 347,755 | 3,129,795
Space Stations (Non-Geostationary, Less Complex) | 6 | 1 | 845,040 | 782,443 | 130,407 | 130,405 | 782,430
Space Stations (Non-Geostationary, Small Satellite) | 7 | 1 | 60,725 | 85,505 | 12,215 | 12,215 | 85,505
****** Total Estimated Revenue to be Collected |  |  | 385,369,869 | 389,885,391 |  |  | 392,991,324
****** Total Revenue Requirement |  |  | 381,950,000 | 390,192,000 |  |  | 390,192,000
Difference |  |  | 3,419,869 | (306,609) |  |  | 2,799,324
¹ The fee amounts listed in the column entitled “Rounded New FY 2023 Regulatory Fee” constitute a weighted average broadcast regulatory fee by class of service. The actual FY 2023 regulatory fees for AM/FM radio station are listed on a grid located at the end of Table 6.
² The AM and FM Construction Permit revenues and the Digital (VHF/UHF) Construction Permit revenues were adjusted, respectively, to set the regulatory fee to an amount no higher than the lowest licensed fee for that class of service based on the threshold 10,001-25,000, the traditional basis for identifying the lowest licensed fee. Reductions in the Digital (VHF/UHF) Construction Permit revenues, and in the AM and FM Construction Permit revenues, were offset by increases in the revenue totals for Digital television stations by market size, and in the AM and FM radio stations by class size and population served, respectively.
³ The MDS/MMDS category was renamed Broadband Radio Service (BRS). See Amendment of Parts 1, 21, 73, 74 and 101 of the Commission's Rules to Facilitate the Provision of Fixed and Mobile Broadband Access, Educational and Other Advanced Services in the 2150-2162 and 2500-2690 MHz Bands, Report & Order and Further Notice of Proposed Rulemaking, 19 FCC Rcd 14165, 14169, para. 6 (2004).
⁴ The chart at the end of Table 5 lists the submarine cable bearer circuit regulatory fees (common and non-common carrier basis) that resulted from the adoption of the Assessment and Collection of Regulatory Fees for Fiscal Year 2008, Report and Order and Further Notice of Proposed Rulemaking, 24 FCC Rcd 6388 (2008) and Assessment and Collection of Regulatory Fees for Fiscal Year 2008, Second Report and Order, 24 FCC Rcd 4208 (2009). The Submarine Cable fee in Table 4 is a weighted average of the various fee payers in the chart at the end of Table 5.
⁵ The actual digital television regulatory fees to be paid by call sign are identified in Table 9.

Table 5—FY 2023 Schedule of Regulatory Fees
[Regulatory fees for the categories shaded in gray are collected by the Commission in advance to cover the term of the license and are submitted at the time the application is filed]
Fee category | Annual regulatory fee (U.S. $s)
PLMRS (per license) (Exclusive Use) (47 CFR part 90) | 25.
Microwave (per license) (47 CFR part 101) | 25.
Marine (Ship) (per station) (47 CFR part 80) | 15.
Marine (Coast) (per license) (47 CFR part 80) | 40.
Rural Radio (47 CFR part 22) (previously listed under the Land Mobile category) | 10.
PLMRS (Shared Use) (per license) (47 CFR part 90) | 10.
Aviation (Aircraft) (per station) (47 CFR part 87) | 10.
Aviation (Ground) (per license) (47 CFR part 87) | 20.
CMRS Mobile/Cellular Services (per unit) (47 CFR parts 20, 22, 24, 27, 80 and 90) (Includes Non-Geographic telephone numbers) | .16.
CMRS Messaging Services (per unit) (47 CFR parts 20, 22, 24 and 90) | .08.
Broadband Radio Service (formerly MMDS/MDS) (per license) (47 CFR part 27) Local Multipoint Distribution Service (per call sign) (47 CFR, part 101) | 700. 700.
AM Radio Construction Permits | 620.
FM Radio Construction Permits | 1,085.
AM and FM Broadcast Radio Station Fees | See Table Below.
Digital TV (47 CFR part 73) VHF and UHF Commercial Fee Factor | $.007799. See Table 10 for fee amounts due, also available at https://www.fcc.gov/licensing-databases/fees/regulatory-fees.
Digital TV Construction Permits | 5,100.
Low Power TV, Class A TV, TV/FM Translators & FM Boosters (47 CFR part 74) | 260.
CARS (47 CFR part 78) | 1,720.
Cable Television Systems (per subscriber) (47 CFR part 76), Including IPTV and Direct Broadcast Satellite (DBS) | 1.23.
Interstate Telecommunication Service Providers (per revenue dollar) | .00540.
Toll Free (per toll free subscriber) (47 CFR 52.101 (f) of the rules) | .13.
Earth Stations (47 CFR part 25) | 575.
Space Stations (per operational station in geostationary orbit) (47 CFR part 25) also includes DBS Service (per operational station) (47 CFR part 100) | 117,580.
Space Stations (per operational system in non-geostationary orbit) (47 CFR part 25) (Other) | 347,755.
Space Stations (per operational system in non-geostationary orbit) (47 CFR part 25) (Less Complex) | 130,405.
Space Stations (per license/call sign in non-geostationary orbit) (47 CFR part 25) (Small Satellite) | 12,215.
International Bearer Circuits—Terrestrial/Satellites (per Gbps circuit) | $26.
Submarine Cable Landing Licenses Fee (per cable system) | See Table Below.

FY 2023—Radio Station Regulatory Fees
Population served | AM Class A | AM Class B | AM Class C | AM Class D | FM Classes A, B1 & C3 | FM Classes B, C, C0, C1 & C2
≤10,000 | $595 | $430 | $370 | $410 | $650 | $745
10,001-25,000 | 990 | 715 | 620 | 680 | 1,085 | 1,240
25,001-75,000 | 1,485 | 1,075 | 930 | 1,020 | 1,630 | 1,860
75,001-150,000 | 2,230 | 1,610 | 1,395 | 1,530 | 2,440 | 2,790
150,001-500,000 | 3,345 | 2,415 | 2,095 | 2,300 | 3,665 | 4,190
500,001-1,200,000 | 5,010 | 3,620 | 3,135 | 3,440 | 5,490 | 6,275
1,200,001-3,000,000 | 7,525 | 5,435 | 4,710 | 5,170 | 8,245 | 9,425
3,000,001-6,000,000 | 11,275 | 8,145 | 7,060 | 7,745 | 12,360 | 14,125
>6,000,000 | 16,920 | 12,220 | 10,595 | 11,620 | 18,545 | 21,190

FY 2023 International Bearer Circuits—Submarine Cable Systems
Submarine cable systems (capacity as of December 31, 2022) | Fee ratio (Units) | FY 2023 regulatory fees
Less than 50 Gbps | .0625 | $7,680
50 Gbps or greater, but less than 250 Gbps | .125 | 15,355
250 Gbps or greater, but less than 1,500 Gbps | .25 | 30,705
1,500 Gbps or greater, but less than 3,500 Gbps | .5 | 61,410
3,500 Gbps or greater, but less than 6,500 Gbps | 1.0 | 122,815
6,500 Gbps or greater | 2.0 | 245,630

Table 6—Sources of Payment Unit Estimates for FY 2023

In order to calculate individual service fees for FY 2023, we adjusted FY 2022 payment units for each service to more accurately reflect expected FY 2023 payment liabilities. We obtained our updated estimates through a variety of means and sources. For example, we used Commission licensee data bases, actual prior year payment records and industry and trade association projections, where available. The databases we consulted include our Universal Licensing System (ULS), International Bureau Filing System (IBFS), Consolidated Database System (CDBS), Licensing and Management System (LMS) and Cable Operations and Licensing System (COALS), as well as reports generated within the Commission such as the Wireless Telecommunications Bureau's Numbering Resource Utilization Forecast. Regulatory fee payment units are not all the same for all fee categories. For most fee categories, the term “units” reflect licenses or permits that have been issued, but for other fee categories, the term “units” reflect quantities such as subscribers, population counts, circuit counts, telephone numbers, and revenues. As more current data is received after the Notice of Proposed Rulemaking (NPRM) is released, the Commission sometimes adjusts the NPRM fee rates to reflect the new information in the Report and Order. This is intended to make sure that the fee rates in the Report and Order reflect more recent and accurate information. We realize that by adjusting the unit counts as more accurate information is received may adjust the fee rates for certain regulatory fee categories. Certain entities that collect the fees from customers in advance in order to pay the Commission, such as Cable and DBS companies, ITSP providers, Cell Phone and Toll-Free providers, to name a few, may need to adjust their billings to customers as the Commission adjusts its fee rates. As a result, the Commission understands that these adjustments are necessary so that these regulatees can recover their fee obligations from their customers.

We sought verification for these estimates from multiple sources and, in all cases, we compared FY 2023 estimates with actual FY 2022 payment units to ensure that our revised estimates were reasonable. Where appropriate, we adjusted and/or rounded our final estimates to take into consideration the fact that certain variables that impact on the number of payment units cannot yet be estimated with sufficient accuracy. These include an unknown number of waivers and/or exemptions that may occur in FY 2023 and the fact that, in many services, the number of actual licensees or station operators fluctuates from time to time due to economic, technical, or other reasons. When we note, for example, that our estimated FY 2023 payment units are based on FY 2022 actual payment units, it does not necessarily mean that our FY 2023 projection is exactly the same number as in FY 2022. We have either rounded the FY 2023 number or adjusted it slightly to account for these variables.

Fee category | Sources of payment unit estimates
Land Mobile (All), Microwave, Marine (Ship & Coast), Aviation (Aircraft & Ground), Domestic Public Fixed | Based on Wireless Telecommunications Bureau (WTB) information as well as prior year payment information. Estimates have been adjusted to take into consideration the licensing of portions of these services.
CMRS Cellular/Mobile Services | Based on WTB projection reports, and FY 2022 payment data.
CMRS Messaging Services | Based on WTB reports, and FY 2022 payment data.
AM/FM Radio Stations | Based on downloaded LMS data, adjusted for exemptions, and actual FY 2022 payment units.
Digital TV Stations (Combined VHF/UHF units) | Based on LMS data, fee rate adjusted for exemptions, and population figures are calculated based on individual station parameters.
AM/FM/TV Construction Permits | Based on LMS data, adjusted for exemptions, and actual FY 2022 payment units.
LPTV, Translators and Boosters, Class A Television | Based on LMS data, adjusted for exemptions, and actual FY 2022 payment units.
BRS (formerly MDS/MMDS)LMDS | Based on WTB reports and actual FY 2022 payment units. Based on WTB reports and actual FY 2022 payment units.
Cable Television Relay Service (CARS) Stations | Based on cable trend data, data from the Media Bureau's COALS database, and actual FY 2022 payment units.
Cable Television System Subscribers, Including IPTV Subscribers | Based on publicly available data sources for estimated subscriber counts, trend information from past payment data, and actual FY 2022 payment units.
Interstate Telecommunication Service Providers | Based on FCC Form 499-A worksheets due in April 2023, and any data assistance provided by the Wireline Competition Bureau.
Earth Stations | Based on International Bureau licensing data and actual FY 2022 payment units.
Space Stations (GSOs & NGSOs) | Based on International Bureau data reports and actual FY 2022 payment units.
International Bearer Circuits | Based on assistance provided by the International Bureau, any data submissions by licensees, adjusted as necessary, and actual FY 2022 payment units.
Submarine Cable Licenses | Based on International Bureau license information, and actual FY 2022 payment units.

Table 7—Factors, Measurements, and Calculations That Determine Station Signal Contours and Associated Population Coverages

AM Stations

For stations with nondirectional daytime antennas, the theoretical radiation was used at all azimuths. For stations with directional daytime antennas, specific information on each day tower, including field ratio, phase, spacing, and orientation was retrieved, as well as the theoretical pattern root-mean-square of the radiation in all directions in the horizontal plane (RMS) figure (milliVolt per meter (mV/m) @1 km) for the antenna system. The standard, or augmented standard if pertinent, horizontal plane radiation pattern was calculated using techniques and methods specified in sections 73.150 and 73.152 of the Commission's rules. Radiation values were calculated for each of 360 radials around the transmitter site. Next, estimated soil conductivity data was retrieved from a database representing the information in FCC Figure R3. Using the calculated horizontal radiation values, and the retrieved soil conductivity data, the distance to the principal community (5 mV/m) contour was predicted for each of the 360 radials. The resulting distance to principal community contours were used to form a geographical polygon. Population counting was accomplished by determining which 2020 block centroids were contained in the polygon. (A block centroid is the center point of a small area containing population as computed by the U.S. Census Bureau.) The sum of the population figures for all enclosed blocks represents the total population for the predicted principal community coverage area.

FM Stations

The greater of the horizontal or vertical effective radiated power (ERP) (kW) and respective height above average terrain (HAAT) (m) combination was used. Where the antenna height above mean sea level (HAMSL) was available, it was used in lieu of the average HAAT figure to calculate specific HAAT figures for each of 360 radials under study. Any available directional pattern information was applied as well, to produce a radial-specific ERP figure. The HAAT and ERP figures were used in conjunction with the Field Strength (50-50) propagation curves specified in 47 CFR 73.313 of the Commission's rules to predict the distance to the principal community (70 dBu (decibel above 1 microVolt per meter) or 3.17 mV/m) contour for each of the 360 radials. The resulting distance to principal community contours were used to form a geographical polygon. Population counting was accomplished by determining which 2020 block centroids were contained in the polygon. The sum of the population figures for all enclosed blocks represents the total population for the predicted principal community coverage area.

Table 8—Satellite Charts for FY 2023 Regulatory Fees—U.S.-Licensed Space Stations
Licensee | Call sign | Satellite name | Type
DIRECTV Enterprises, LLC | S2922 | SKY-B1 | GSO
DIRECTV Enterprises, LLC | S2640 | DIRECTV T11 | GSO
DIRECTV Enterprises, LLC | S2632 | DIRECTV T8 | GSO
DIRECTV Enterprises, LLC | S2669 | DIRECTV T9S | GSO
DIRECTV Enterprises, LLC | S2641 | DIRECTV T10 | GSO
DIRECTV Enterprises, LLC | S2797 | DIRECTV T12 | GSO
DIRECTV Enterprises, LLC | S2930 | DIRECTV T15 | GSO
DIRECTV Enterprises, LLC | S2673 | DIRECTV T5 | GSO
DIRECTV Enterprises, LLC | S2133 | SPACEWAY 2 | GSO
DIRECTV Enterprises, LLC | S3039 | DIRECTV T16 | GSO
DISH Operating L.L.C | S2931 | ECHOSTAR 18 | GSO
DISH Operating L.L.C | S2738 | ECHOSTAR 11 | GSO
DISH Operating L.L.C | S2694 | ECHOSTAR 10 | GSO
DISH Operating L.L.C | S2740 | ECHOSTAR 7 | GSO
DISH Operating L.L.C | S2790 | ECHOSTAR 14 | GSO
EchoStar Satellite Operating Corporation | S2811 | ECHOSTAR 15 | GSO
EchoStar Satellite Operating Corporation | S2844 | ECHOSTAR 16 | GSO
EchoStar Satellite Services L.L.C | S2179 | ECHOSTAR 9 | GSO
ES 172 LLC | S2610 | EUTELSAT 174A | GSO
ES 172 LLC | S3021 | EUTELSAT 172B | GSO
Horizon-3 Satellite LLC | S2947 | HORIZONS-3e | GSO
Hughes Network Systems, LLC | S2663 | SPACEWAY 3 | GSO
Hughes Network Systems, LLC | S2834 | ECHOSTAR 19 | GSO
Hughes Network Systems, LLC | S2753 | ECHOSTAR XVII | GSO
Intelsat License LLC/ViaSat, Inc | S2160 | GALAXY 28 | GSO
Intelsat License LLC | S2414 | INTELSAT 10-02 | GSO
Intelsat License LLC | S2972 | INTELSAT 37e | GSO
Intelsat License LLC | S2854 | NSS-7 | GSO
Intelsat License LLC | S2409 | INELSAT 905 | GSO
Intelsat License LLC | S2405 | INTELSAT 901 | GSO
Intelsat License LLC | S2408 | INTELSAT 904 | GSO
Intelsat License LLC | S2804 | INTELSAT 25 | GSO
Intelsat License LLC | S2959 | INTELSAT 35e | GSO
Intelsat License LLC | S2237 | INTELSAT 11 | GSO
Intelsat License LLC | S2785 | INTELSAT 14 | GSO
Intelsat License LLC | S2380 | INTELSAT 9 | GSO
Intelsat License LLC | S2831 | INTELSAT 23 | GSO
Intelsat License LLC | S2915 | INTELSAT 34 | GSO
Intelsat License LLC | S2863 | INTELSAT 21 | GSO
Intelsat License LLC | S2750 | INTELSAT 16 | GSO
Intelsat License LLC | S2715 | GALAXY 17 | GSO
Intelsat License LLC | S2154 | GALAXY 25 | GSO
Intelsat License LLC | S2253 | GALAXY 11 | GSO
Intelsat License LLC | S2381 | GALAXY 3C | GSO
Intelsat License LLC | S2887 | INTELSAT 30 | GSO
Intelsat License LLC | S2924 | INTELSAT 31 | GSO
Intelsat License LLC | S2647 | GALAXY 19 | GSO
Intelsat License LLC | S2687 | GALAXY 16 | GSO
Intelsat License LLC | S2733 | GALAXY 18 | GSO
Intelsat License LLC | S2385 | GALAXY 14 | GSO
Intelsat License LLC | S2386 | GALAXY 13 | GSO
Intelsat License LLC | S2422 | GALAXY 12 | GSO
Intelsat License LLC | S2387 | GALAXY 15 | GSO
Intelsat License LLC | S2704 | INTELSAT 5 | GSO
Intelsat License LLC | S2817 | INTELSAT 18 | GSO
Intelsat License LLC | S2850 | INTELSAT 19 | GSO
Intelsat License LLC | S2368 | INTELSAT 1R | GSO
Intelsat License LLC | S2789 | INTELSAT 15 | GSO
Intelsat License LLC | S2423 | HORIZONS 2 | GSO
Intelsat License LLC | S2846 | INTELSAT 22 | GSO
Intelsat License LLC | S2847 | INTELSAT 20 | GSO
Intelsat License LLC | S2948 | INTELSAT 36 | GSO
Intelsat License LLC | S2814 | INTELSAT 17 | GSO
Intelsat License LLC | S2410 | INTELSAT 906 | GSO
Intelsat License LLC | S2406 | INTELSAT 902 | GSO
Intelsat License LLC | S2939 | INTELSAT 33e | GSO
Intelsat License LLC | S2382 | INTELSAT 10 | GSO
Intelsat License LLC | S2751 | NEW DAWN | GSO
Intelsat License LLC | S3023 | INTELSAT 39 | GSO
Ligado Networks Subsidiary, LLC | S2358 | SKYTERRA-1 | GSO
Ligado Networks Subsidiary, LLC | AMSC-1 | MSAT-2 | GSO
Novavision Group, Inc | S2861 | DIRECTV KU-79W | GSO
Satellite CD Radio LLC | S2812 | FM-6 | GSO
SES Americom, Inc | S2415 | NSS-10 | GSO
SES Americom, Inc | S2162 | AMC-3 | GSO
SES Americom, Inc | S2347 | AMC-6 | GSO
SES Americom, Inc | S2826 | SES-2 | GSO
SES Americom, Inc | S2807 | SES-1 | GSO
SES Americom, Inc | S2892 | SES-3 | GSO
SES Americom, Inc | S2180 | AMC-15 | GSO
SES Americom, Inc | S2445 | AMC-1 | GSO
SES Americom, Inc | S2135 | AMC-4 | GSO
SES Americom, Inc | S2713 | AMC-18 | GSO
SES Americom, Inc | S2433 | AMC-11 | GSO
SES Americom, Inc./Alascom, Inc | S2379/S3138 | AMC-8/SES-22 | GSO
Sirius XM Radio Inc | S2710 | FM-5 | GSO
Sirius XM Radio Inc | S3034/S2617/S2616 | XM-8/XM-3/XM-4 | GSO
Skynet Satellite Corporation | S2933 | TELSTAR 12V | GSO
Skynet Satellite Corporation | S2357 | TELSTAR 11N | GSO
ViaSat, Inc | S2747 | VIASAT-1 | GSO
XM Radio LLC | S2786/S3033 | XM-5/XM-7 | GSO

Non-U.S.-Licensed Space Stations—Market Access Through Petition for Declaratory Ruling
Licensee | Call sign | Satellite common name | Satellite type
ABS Global Ltd | S2987 | ABS-3A | GSO
Avanti Hylas 2 Ltd | S3130 | HYLAS-4 | GSO
DBSD Services Ltd | S2651 | DBSD G1 | GSO
Empresa Argentina de Soluciones Satelitales S.A | S2956 | ARSAT-2 | GSO
Eutelsat S.A | S3031 | EUTELSAT 133 WEST A | GSO
Eutelsat S.A | S3056 | EUTELSAT 8 WEST B | GSO
Eutelsat S.A | S3055 | EUTELSAT 139 WEST A | GSO
Gamma Acquisition L.L.C | S2633 | TerreStar 1 | GSO
Hispamar Satélites, S.A | S2793 | AMAZONAS-2 | GSO
Hispamar Satélites, S.A | S2886 | AMAZONAS-3 | GSO
Hispasat, S.A | S2969 | HISPASAT 30W-6 | GSO
Inmarsat PLC | S2932 | Inmarsat-4 F3 | GSO
Inmarsat PLC | S2949 | Inmarsat-3 F5 | GSO
New Skies Satellites B.V | S2756 | NSS-9 | GSO
New Skies Satellites B.V | S2870 | SES-6 | GSO
New Skies Satellites B.V | S3048 | NSS-6 | GSO
New Skies Satellites B.V | S2828 | SES-4 | GSO
New Skies Satellites B.V | S2950 | SES-10 | GSO
Satelites Mexicanos, S.A. de C.V | S2695 | EUTELSAT 113 WEST A | GSO
Satelites Mexicanos, S.A. de C.V | S2926 | EUTELSAT 117 WEST B | GSO
Satelites Mexicanos, S.A. de C.V | S2938 | EUTELSAT 115 WEST B | GSO
Satelites Mexicanos, S.A. de C.V | S2873 | EUTELSAT 117 WEST A | GSO
SES Satellites (Gibraltar) Ltd | S2676 | AMC 21 | GSO
SES Americom, Inc | S3037 | NSS-11 | GSO
SES Americom, Inc | S2964 | SES-11 | GSO
SES DTH do Brasil Ltda | S2974 | SES-14 | GSO
SES Satellites (Gibraltar) Ltd | S2951 | SES-15 | GSO
SES-17 S.a.r.l | S3043 | SES-17 | GSO
Embratel Tvsat Telecommunicacoes S.A | S2678 | STAR ONE C2 | GSO
Embratel Tvsat Telecommunicacoes S.A | S2845 | STAR ONE C3 | GSO
Telesat Brasil Capacidade de Satelites Ltda | S2821 | ESTRELA DO SUL 2 | GSO
Telesat Canada | S2745 | ANIK F1 | GSO
Telesat Canada | S2674 | ANIK F1R | GSO
Telesat Canada | S2703 | ANIK F3 | GSO
Telesat Canada | S2646/S2472 | ANIK F2 | GSO
Telesat International Ltd | S2955 | TELSTAR 19 VANTAGE | GSO
Viasat, Inc | S2902 | VIASAT-2 | GSO

Non-U.S.-Licensed Space Stations—Market Access Through Earth Station Licenses
ITU name (if available) | Common name | Call sign | GSO/NGSO
APSTAR VI | APSTAR 6 | M292090 | GSO
AUSSAT B 152E | OPTUS D2 | M221170 | GSO
Ciel Satellite Group | Ciel-2 | E050029 | GSO
Eutelsat 65 West A | Eutelsat 65 West A | E160081 | GSO
INMARSAT 4F1 | INMARSAT 4F1 | KA25 | GSO
INMARSAT 5F2 | INMARSAT 5F2 | E120072 | GSO
INMARSAT 5F3 | INMARSAT 5F3 | E150028 | GSO
JCSAT-2B | JCSAT-2B | M174163 | GSO
NIMIQ 5 | NIMIQ 5 | E080107 | GSO
QUETZSAT-1(MEX) | QUETZSAT-1 | NUS1101 | GSO
Superbird C2 | Superbird C2 | M334100 | GSO
WILDBLUE-1 | WILDBLUE-1 | E040213 | GSO

Non-Geostationary Space Stations (NGSO)
ITU name (if available) | Common name | Call sign | NGSO
U.S.-Licensed NGSO Systems
ORBCOMM License Corp | ORBCOMM | S2103 | Other.
Iridium Constellation LLC | IRIDIUM | S2110 | Other.
Space Exploration Holdings, LLC | SPACEX Ku/Ka-Band | S2983/S3018 | Other.
Swarm Technologies | SWARM | S3041 | Other.
Planet Labs | Flock/Skysats | S2912 | Less Complex.
Maxar License | WorldView 1, 2 & 3, GeoEye-1 | S2129/S2348 | Less Complex.
BlackSky Global | Global | S3032 | Less Complex.
Astro Digital U.S., Inc | LANDMAPPER | S3014 | Less Complex.
Hawkeye 360 | HE360 | S3042 | Less Complex.
Non-U.S.-Licensed NGSO Systems—Market Access Through Petition for Declaratory Ruling
Telesat Canada | TELESAT Ku/Ka-Band | S2976 | Other.
Kepler Communications, Inc | KEPLER | S2981 | Other.
WorldVu Satellites Ltd | ONEWEB | S2963 | Other.
O3b Ltd | O3b | S2935 | Other.
NGSO Systems that Are Partly U.S.-Licensed and Partly Non-U.S.-Licensed with Market Access Through Petition for Declaratory Ruling
Globalstar License LLC | GLOBALSTAR | S2115 | Other.
Spire Global | LEMUR & MINAS | S2946/S3045 | Less Complex.
NGSO Systems Licensed Under the Streamlined Small Satellite Rules
Capella Space Corp | Capella-2, Capella-3, Capella-4 | S3073 | Small Satellite.
Capella Space Corp | Capella-5, Capella-6 | S3080 | Small Satellite.
Capella Space Corp | Capella-7, Capella-8 | S3100 | Small Satellite.
Loft Orbital Solutions Inc | YAM-3 | S3072 | Small Satellite.
R2 Space, Inc | XR-1 | S3067 | Small Satellite.
ICEYE US, Inc | ICEYE | S3082 | Small Satellite.
Umbra Lab Inc | Umbra SAR | S3095 | Small Satellite.

Table 9—FY 2023 Full-Service Broadcast Television Stations by Call Sign
Facility Id. | Call sign | Service area population | Terrain limited population | Terrain limited fee amount
3246 | KAAH-TV | 955,391 | 879,906 | $6,862
18285 | KAAL | 589,502 | 568,169 | 4,431
11912 | KAAS-TV | 220,262 | 219,922 | 1,715
56528 | KABB | 2,474,296 | 2,456,689 | 19,160
282 | KABC-TV | 17,540,791 | 16,957,292 | 132,250
1236 | KACV-TV | 372,627 | 372,330 | 2,904
33261 | KADN-TV | 877,965 | 877,965 | 6,847
8263 | KAEF-TV | 138,085 | 122,808 | 958
2728 | KAET | 4,217,217 | 4,184,386 | 32,634
2767 | KAFT | 1,204,376 | 1,122,928 | 8,758
62442 | KAID | 711,035 | 702,721 | 5,481
4145 | KAII-TV | 188,810 | 165,396 | 1,290
67494 | KAIL | 1,947,635 | 1,914,765 | 14,933
13988 | KAIT | 605,456 | 596,232 | 4,650
40517 | KAJB | 383,886 | 383,195 | 2,989
65522 | KAKE | 803,937 | 799,254 | 6,233
804 | KAKM | 380,240 | 379,105 | 2,957
148 | KAKW-DT | 2,615,956 | 2,531,813 | 19,746
51598 | KALB-TV | 943,307 | 942,043 | 7,347
51241 | KALO | 954,557 | 910,409 | 7,100
40820 | KAMC | 390,519 | 390,487 | 3,045
8523 | KAMR-TV | 366,476 | 366,335 | 2,857
65301 | KAMU-TV | 346,892 | 342,455 | 2,671
2506 | KAPP | 319,797 | 283,944 | 2,214
3658 | KARD | 703,234 | 700,887 | 5,466
23079 | KARE | 3,868,806 | 3,861,502 | 30,116
33440 | KARK-TV | 1,212,038 | 1,196,196 | 9,329
37005 | KARZ-TV | 1,113,486 | 1,095,224 | 8,542
32311 | KASA-TV | 1,161,837 | 1,119,457 | 8,731
41212 | KASN | 1,175,627 | 1,159,721 | 9,045
7143 | KASW | 4,174,437 | 4,160,497 | 32,448
55049 | KASY-TV | 1,145,133 | 1,100,391 | 8,582
33471 | KATC | 1,348,897 | 1,348,897 | 10,520
13813 | KATN | 97,466 | 97,128 | 758
21649 | KATU | 3,030,547 | 2,881,993 | 22,477
33543 | KATV | 1,257,777 | 1,234,933 | 9,631
50182 | KAUT-TV | 1,637,333 | 1,636,330 | 12,762
21488 | KAUU | 381,413 | 380,355 | 2,966
6864 | KAUZ-TV | 381,671 | 379,435 | 2,959
73101 | KAVU-TV | 319,618 | 319,484 | 2,492
49579 | KAWB | 186,919 | 186,845 | 1,457
49578 | KAWE | 136,033 | 133,937 | 1,045
58684 | KAYU-TV | 809,464 | 750,766 | 5,855
29234 | KAZA-TV | 14,973,535 | 13,810,130 | 107,705
17433 | KAZD | 6,776,778 | 6,774,172 | 52,832
1151 | KAZQ | 1,097,010 | 1,084,327 | 8,457
35811 | KAZT-TV | 436,925 | 359,273 | 2,802
4148 | KBAK-TV | 1,510,400 | 1,263,910 | 9,857
16940 | KBCA | 479,260 | 479,219 | 3,737
53586 | KBCB | 1,323,222 | 1,295,924 | 10,107
69619 | KBCW | 8,227,562 | 7,375,199 | 57,519
22685 | KBDI-TV | 4,042,177 | 3,683,394 | 28,727
56384 | KBEH | 17,736,497 | 17,695,306 | 138,006
65395 | KBFD-DT | 953,207 | 834,341 | 6,507
169030 | KBGS-TV | 159,269 | 156,802 | 1,223
61068 | KBHE-TV | 140,860 | 133,082 | 1,038
48556 | KBIM-TV | 205,701 | 205,647 | 1,604
29108 | KBIN-TV | 912,921 | 911,725 | 7,111
33658 | KBJR-TV | 275,585 | 271,298 | 2,116
83306 | KBLN-TV | 297,384 | 134,927 | 1,052
63768 | KBLR | 1,964,979 | 1,915,861 | 14,942
53324 | KBME-TV | 123,571 | 123,485 | 963
10150 | KBMT | 767,572 | 766,414 | 5,977
22121 | KBMY | 119,993 | 119,908 | 935
49760 | KBOI-TV | 715,191 | 708,374 | 5,525
55370 | KBRR | 149,869 | 149,868 | 1,169
66414 | KBSD-DT | 155,012 | 154,891 | 1,208
66415 | KBSH-DT | 102,781 | 100,433 | 783
19593 | KBSI | 756,501 | 754,722 | 5,886
66416 | KBSL-DT | 49,814 | 48,483 | 378
4939 | KBSV | 1,352,166 | 1,262,708 | 9,848
62469 | KBTC-TV | 3,697,981 | 3,621,965 | 28,248
61214 | KBTV-TV | 734,008 | 734,008 | 5,725
6669 | KBTX-TV | 4,404,648 | 4,401,048 | 34,324
35909 | KBVO | 1,498,015 | 1,312,360 | 10,235
58618 | KBVU | 135,249 | 120,827 | 942
6823 | KBYU-TV | 2,389,548 | 2,209,060 | 17,228
33756 | KBZK | 123,523 | 109,131 | 851
21422 | KCAL-TV | 17,499,483 | 16,889,157 | 131,719
11265 | KCAU-TV | 714,315 | 706,224 | 5,508
14867 | KCBA | 3,088,394 | 2,369,803 | 18,482
27507 | KCBD | 414,804 | 414,091 | 3,229
9628 | KCBS-TV | 17,853,152 | 16,656,778 | 129,906
49750 | KCBY-TV | 89,156 | 73,211 | 571
33710 | KCCI | 1,109,952 | 1,102,514 | 8,599
9640 | KCCW-TV | 284,280 | 276,935 | 2,160
63158 | KCDO-TV | 2,798,103 | 2,650,225 | 20,669
62424 | KCDT | 698,389 | 657,101 | 5,125
83913 | KCEB | 417,491 | 417,156 | 3,253
57219 | KCEC | 3,831,192 | 3,613,287 | 28,180
10245 | KCEN-TV | 1,795,767 | 1,757,018 | 13,703
13058 | KCET | 17,129,650 | 15,689,832 | 122,365
18079 | KCFW-TV | 177,697 | 140,192 | 1,093
132606 | KCGE-DT | 123,930 | 123,930 | 967
60793 | KCHF | 1,118,671 | 1,085,205 | 8,464
33722 | KCIT | 382,477 | 381,818 | 2,978
62468 | KCKA | 953,680 | 804,362 | 6,273
41969 | KCLO-TV | 138,413 | 132,157 | 1,031
47903 | KCNC-TV | 3,794,400 | 3,541,089 | 27,617
71586 | KCNS | 8,270,858 | 7,381,656 | 57,570
33742 | KCOP-TV | 17,386,133 | 16,647,708 | 129,835
19117 | KCOS | 1,014,396 | 1,014,205 | 7,910
63165 | KCOY-TV | 664,655 | 459,468 | 3,583
33894 | KCPQ | 4,439,875 | 4,312,133 | 33,630
53843 | KCPT | 2,507,879 | 2,506,224 | 19,546
33875 | KCRA-TV | 10,612,483 | 6,500,774 | 50,700
9719 | KCRG-TV | 1,136,762 | 1,107,130 | 8,635
60728 | KCSD-TV | 273,553 | 273,447 | 2,133
59494 | KCSG | 174,814 | 164,765 | 1,285
33749 | KCTS-TV | 4,177,824 | 4,115,603 | 32,098
41230 | KCTV | 2,547,456 | 2,545,645 | 19,853
58605 | KCVU | 684,900 | 674,585 | 5,261
10036 | KCWC-DT | 44,216 | 39,439 | 308
64444 | KCWE | 2,459,924 | 2,458,302 | 19,172
51502 | KCWI-TV | 1,043,811 | 1,042,642 | 8,132
42008 | KCWO-TV | 50,707 | 50,685 | 395
166511 | KCWV | 207,398 | 207,370 | 1,617
24316 | KCWX | 3,961,268 | 3,954,787 | 30,843
68713 | KCWY-DT | 80,904 | 80,479 | 628
22201 | KDAF | 6,648,507 | 6,645,226 | 51,826
33764 | KDBC-TV | 1,015,564 | 1,015,162 | 7,917
79258 | KDCK | 43,088 | 43,067 | 336
166332 | KDCU-DT | 753,204 | 753,190 | 5,874
38375 | KDEN-TV | 3,376,799 | 3,351,182 | 26,136
17037 | KDFI | 6,684,439 | 6,682,487 | 52,117
33770 | KDFW | 6,659,312 | 6,657,023 | 51,918
29102 | KDIN-TV | 1,088,376 | 1,083,845 | 8,453
25454 | KDKA-TV | 3,611,796 | 3,450,690 | 26,912
60740 | KDKF | 71,413 | 64,567 | 504
4691 | KDLH | 263,422 | 260,394 | 2,031
41975 | KDLO-TV | 208,354 | 208,118 | 1,623
55379 | KDLT-TV | 639,284 | 628,281 | 4,900
55375 | KDLV-TV | 96,873 | 96,620 | 754
25221 | KDMD | 376,906 | 374,641 | 2,922
78915 | KDMI | 1,141,990 | 1,140,939 | 8,898
56524 | KDNL-TV | 2,987,219 | 2,982,311 | 23,259
24518 | KDOC-TV | 17,503,793 | 16,701,233 | 130,253
1005 | KDOR-TV | 1,112,060 | 1,108,556 | 8,646
60736 | KDRV | 519,706 | 440,002 | 3,432
61064 | KDSD-TV | 64,314 | 59,635 | 465
53329 | KDSE | 42,896 | 41,432 | 323
56527 | KDSM-TV | 1,096,220 | 1,095,478 | 8,544
49326 | KDTN | 6,602,327 | 6,600,186 | 51,475
83491 | KDTP | 26,564 | 24,469 | 191
33778 | KDTV-DT | 7,959,349 | 7,129,638 | 55,604
67910 | KDTX-TV | 6,680,738 | 6,679,424 | 52,093
126 | KDVR | 3,644,912 | 3,521,884 | 27,467
18084 | KECI-TV | 211,745 | 193,803 | 1,511
51208 | KECY-TV | 399,372 | 394,379 | 3,076
58408 | KEDT | 513,683 | 513,683 | 4,006
55435 | KEET | 177,313 | 159,960 | 1,248
37103 | KEKE | 97,959 | 94,560 | 737
41983 | KELO-TV | 705,364 | 646,126 | 5,039
34440 | KEMO-TV | 8,270,858 | 7,381,656 | 57,570
2777 | KEMV | 619,889 | 559,135 | 4,361
26304 | KENS | 2,544,094 | 2,529,382 | 19,727
63845 | KENV-DT | 47,220 | 40,677 | 317
18338 | KENW | 87,017 | 87,017 | 679
50591 | KEPB-TV | 576,964 | 523,655 | 4,084
56029 | KEPR-TV | 453,259 | 433,260 | 3,379
49324 | KERA-TV | 6,681,083 | 6,677,852 | 52,081
40878 | KERO-TV | 1,285,357 | 1,164,979 | 9,086
61067 | KESD-TV | 166,018 | 159,195 | 1,242
25577 | KESQ-TV | 1,334,172 | 572,057 | 4,461
50205 | KETA-TV | 1,702,441 | 1,688,227 | 13,166
62182 | KETC | 2,913,924 | 2,911,313 | 22,705
37101 | KETD | 3,323,570 | 3,285,231 | 25,622
2768 | KETG | 426,883 | 409,511 | 3,194
12895 | KETH-TV | 6,088,821 | 6,088,677 | 47,486
55643 | KETK-TV | 1,031,567 | 1,030,122 | 8,034
2770 | KETS | 1,185,111 | 1,166,796 | 9,100
53903 | KETV | 1,355,238 | 1,350,292 | 10,531
92872 | KETZ | 526,890 | 523,877 | 4,086
68853 | KEYC-TV | 544,900 | 531,079 | 4,142
33691 | KEYE-TV | 2,732,257 | 2,652,529 | 20,687
60637 | KEYT-TV | 1,419,564 | 1,239,577 | 9,667
83715 | KEYU | 339,348 | 339,302 | 2,646
34406 | KEZI | 1,113,171 | 1,065,880 | 8,313
34412 | KFBB-TV | 93,519 | 91,964 | 717
125 | KFCT | 795,114 | 788,747 | 6,151
51466 | KFDA-TV | 385,064 | 383,977 | 2,995
22589 | KFDM | 732,665 | 732,588 | 5,713
65370 | KFDX-TV | 381,703 | 381,318 | 2,974
49264 | KFFV | 4,020,926 | 3,987,153 | 31,096
12729 | KFFX-TV | 409,952 | 403,692 | 3,148
83992 | KFJX | 689,090 | 663,506 | 5,175
42122 | KFMB-TV | 3,947,735 | 3,699,981 | 28,856
53321 | KFME | 393,045 | 392,472 | 3,061
74256 | KFNB | 80,382 | 79,842 | 623
21613 | KFNE | 54,988 | 54,420 | 424
21612 | KFNR | 10,988 | 10,965 | 86
66222 | KFOR-TV | 1,616,459 | 1,615,614 | 12,600
33716 | KFOX-TV | 1,023,999 | 1,018,549 | 7,944
41517 | KFPH-DT | 347,579 | 282,838 | 2,206
81509 | KFPX-TV | 963,969 | 963,846 | 7,517
31597 | KFQX | 186,473 | 163,637 | 1,276
59013 | KFRE-TV | 1,721,275 | 1,705,484 | 13,301
51429 | KFSF-DT | 7,348,828 | 6,528,430 | 50,915
66469 | KFSM-TV | 906,728 | 884,919 | 6,901
8620 | KFSN-TV | 1,836,607 | 1,819,585 | 14,191
29560 | KFTA-TV | 818,859 | 809,173 | 6,311
83714 | KFTC | 61,990 | 61,953 | 483
60537 | KFTH-DT | 6,080,688 | 6,080,373 | 47,421
60549 | KFTR-DT | 17,560,679 | 16,305,726 | 127,168
61335 | KFTS | 74,936 | 65,126 | 508
81441 | KFTU-DT | 113,876 | 109,731 | 856
34439 | KFTV-DT | 1,794,984 | 1,779,917 | 13,882
664 | KFVE | 82,902 | 73,553 | 574
592 | KFVS-TV | 895,871 | 873,777 | 6,815
29015 | KFWD | 6,666,428 | 6,660,565 | 51,946
35336 | KFXA | 875,538 | 874,070 | 6,817
17625 | KFXB-TV | 373,280 | 368,466 | 2,874
70917 | KFXK-TV | 934,043 | 931,791 | 7,267
84453 | KFXL-TV | 862,531 | 854,678 | 6,666
56079 | KFXV | 1,225,732 | 1,225,732 | 9,559
41427 | KFYR-TV | 130,881 | 128,301 | 1,001
25685 | KGAN | 1,083,213 | 1,057,597 | 8,248
34457 | KGBT-TV | 1,239,001 | 1,238,870 | 9,662
7841 | KGCW | 949,575 | 945,476 | 7,374
24485 | KGEB | 1,186,225 | 1,150,201 | 8,970
34459 | KGET-TV | 917,927 | 874,332 | 6,819
53320 | KGFE | 114,564 | 114,564 | 893
7894 | KGIN | 230,535 | 228,338 | 1,781
83945 | KGLA-DT | 1,636,922 | 1,636,922 | 12,766
34445 | KGMB | 953,398 | 851,088 | 6,638
58608 | KGMC | 1,936,675 | 1,914,168 | 14,929
36914 | KGMD-TV | 94,323 | 93,879 | 732
36920 | KGMV | 193,564 | 162,230 | 1,265
10061 | KGNS-TV | 267,236 | 259,548 | 2,024
34470 | KGO-TV | 8,637,074 | 7,929,294 | 61,841
56034 | KGPE | 1,699,131 | 1,682,082 | 13,119
81694 | KGPX-TV | 685,626 | 624,955 | 4,874
25511 | KGTF | 161,885 | 160,568 | 1,252
40876 | KGTV | 3,960,667 | 3,682,219 | 28,718
36918 | KGUN-TV | 1,398,527 | 1,212,484 | 9,456
34874 | KGW | 3,026,617 | 2,878,510 | 22,449
63177 | KGWC-TV | 80,475 | 80,009 | 624
63162 | KGWL-TV | 38,125 | 38,028 | 297
63166 | KGWN-TV | 469,467 | 440,388 | 3,435
63170 | KGWR-TV | 51,315 | 50,957 | 397
4146 | KHAW-TV | 95,204 | 94,851 | 740
60353 | KHBS | 631,770 | 608,052 | 4,742
27300 | KHCE-TV | 2,353,883 | 2,348,391 | 18,315
26431 | KHET | 959,060 | 944,568 | 7,367
21160 | KHGI-TV | 233,973 | 229,173 | 1,787
36917 | KHII-TV | 953,895 | 851,585 | 6,642
29085 | KHIN | 1,041,244 | 1,039,383 | 8,106
17688 | KHME | 181,345 | 179,706 | 1,402
47670 | KHMT | 175,601 | 170,957 | 1,333
47987 | KHNE-TV | 203,931 | 202,944 | 1,583
34867 | KHNL | 953,398 | 851,088 | 6,638
60354 | KHOG-TV | 765,360 | 702,984 | 5,483
4144 | KHON-TV | 953,207 | 886,431 | 6,913
34529 | KHOU | 6,083,315 | 6,081,936 | 47,433
4690 | KHQA-TV | 318,469 | 316,134 | 2,466
34537 | KHQ-TV | 822,371 | 774,821 | 6,043
30601 | KHRR | 1,227,847 | 1,166,890 | 9,101
34348 | KHSD-TV | 188,735 | 185,202 | 1,444
24508 | KHSL-TV | 625,904 | 608,850 | 4,748
69677 | KHSV | 2,059,794 | 2,020,045 | 15,754
64544 | KHVO | 94,226 | 93,657 | 730
23394 | KIAH | 6,099,694 | 6,099,297 | 47,568
34564 | KICU-TV | 8,233,041 | 7,174,316 | 55,952
56028 | KIDK | 305,509 | 302,535 | 2,359
58560 | KIDY | 116,614 | 116,596 | 909
53382 | KIEM-TV | 174,390 | 160,801 | 1,254
66258 | KIFI-TV | 324,422 | 320,118 | 2,497
16950 | KIFR | 2,180,045 | 2,160,460 | 16,849
10188 | KIII | 569,864 | 566,796 | 4,420
29095 | KIIN | 1,365,215 | 1,335,707 | 10,417
34527 | KIKU | 953,896 | 850,963 | 6,637
63865 | KILM | 17,256,205 | 15,804,489 | 123,259
56033 | KIMA-TV | 308,604 | 260,593 | 2,032
66402 | KIMT | 654,083 | 643,384 | 5,018
67089 | KINC | 2,002,066 | 1,920,903 | 14,981
34847 | KING-TV | 4,074,288 | 4,036,926 | 31,484
51708 | KINT-TV | 1,015,582 | 1,015,274 | 7,918
26249 | KION-TV | 2,400,317 | 855,808 | 6,674
62427 | KIPT | 171,405 | 170,455 | 1,329
66781 | KIRO-TV | 4,058,101 | 4,030,968 | 31,438
62430 | KISU-TV | 311,827 | 307,651 | 2,399
12896 | KITU-TV | 712,362 | 712,362 | 5,556
64548 | KITV | 953,207 | 839,906 | 6,550
59255 | KIVI-TV | 710,819 | 702,619 | 5,480
47285 | KIXE-TV | 467,518 | 428,118 | 3,339
13792 | KJJC-TV | 82,749 | 81,865 | 638
14000 | KJLA | 17,929,100 | 16,794,896 | 130,983
20015 | KJNP-TV | 98,403 | 98,097 | 765
53315 | KJRE | 16,187 | 16,170 | 126
59439 | KJRH-TV | 1,416,108 | 1,397,311 | 10,898
55364 | KJRR | 45,515 | 44,098 | 344
7675 | KJTL | 379,594 | 379,263 | 2,958
55031 | KJTV-TV | 406,283 | 406,260 | 3,168
13814 | KJUD | 31,229 | 30,106 | 235
36607 | KJZZ-TV | 2,388,965 | 2,209,183 | 17,229
83180 | KKAI | 953,400 | 919,742 | 7,173
58267 | KKAP | 957,786 | 923,172 | 7,200
24766 | KKCO | 206,018 | 172,628 | 1,346
35097 | KKJB | 629,939 | 624,784 | 4,873
22644 | KKPX-TV | 7,588,288 | 6,758,490 | 52,709
35037 | KKTV | 2,892,126 | 2,478,864 | 19,333
35042 | KLAS-TV | 2,094,297 | 1,940,030 | 15,130
52907 | KLAX-TV | 367,212 | 366,839 | 2,861
3660 | KLBK-TV | 387,783 | 387,743 | 3,024
65523 | KLBY | 31,102 | 31,096 | 243
38430 | KLCS | 17,129,650 | 15,689,832 | 122,365
77719 | KLCW-TV | 381,889 | 381,816 | 2,978
51479 | KLDO-TV | 250,832 | 250,832 | 1,956
37105 | KLEI | 175,045 | 138,087 | 1,077
56032 | KLEW-TV | 164,908 | 148,256 | 1,156
35059 | KLFY-TV | 1,355,890 | 1,355,409 | 10,571
54011 | KLJB | 1,027,104 | 1,012,309 | 7,895
11264 | KLKN | 1,161,979 | 1,122,111 | 8,751
52593 | KLML | 270,089 | 218,544 | 1,704
47975 | KLNE-TV | 123,324 | 123,246 | 961
38590 | KLPA-TV | 414,699 | 414,447 | 3,232
38588 | KLPB-TV | 749,053 | 749,053 | 5,842
749 | KLRN | 2,374,472 | 2,353,440 | 18,354
11951 | KLRT-TV | 1,171,678 | 1,152,541 | 8,989
8564 | KLRU | 2,614,658 | 2,575,518 | 20,086
8322 | KLSR-TV | 564,415 | 508,157 | 3,963
31114 | KLST | 199,067 | 169,551 | 1,322
24436 | KLTJ | 6,034,131 | 6,033,867 | 47,058
38587 | KLTL-TV | 423,574 | 423,574 | 3,303
38589 | KLTM-TV | 694,280 | 688,915 | 5,373
38591 | KLTS-TV | 947,141 | 944,257 | 7,364
68540 | KLTV | 1,069,690 | 1,051,361 | 8,200
12913 | KLUJ-TV | 1,195,751 | 1,195,751 | 9,326
57220 | KLUZ-TV | 1,079,718 | 1,019,302 | 7,950
11683 | KLVX | 2,044,150 | 1,936,083 | 15,100
82476 | KLWB | 1,065,748 | 1,065,748 | 8,312
40250 | KLWY | 541,043 | 538,231 | 4,198
64551 | KMAU | 213,060 | 188,953 | 1,474
51499 | KMAX-TV | 10,767,605 | 7,132,240 | 55,624
65686 | KMBC-TV | 2,506,035 | 2,504,622 | 19,534
35183 | KMCB | 69,357 | 66,203 | 516
41237 | KMCC | 2,064,592 | 2,010,262 | 15,678
42636 | KMCI-TV | 2,429,392 | 2,428,626 | 18,941
38584 | KMCT-TV | 267,004 | 266,880 | 2,081
22127 | KMCY | 71,797 | 71,793 | 560
162016 | KMDE | 35,409 | 35,401 | 276
26428 | KMEB | 221,810 | 203,470 | 1,587
39665 | KMEG | 708,748 | 704,130 | 5,492
35123 | KMEX-DT | 17,628,354 | 16,318,720 | 127,270
40875 | KMGH-TV | 3,815,224 | 3,574,344 | 27,876
35131 | KMID | 383,449 | 383,439 | 2,990
16749 | KMIR-TV | 2,760,914 | 730,764 | 5,699
63164 | KMIZ | 532,025 | 530,008 | 4,134
53541 | KMLM-DT | 293,290 | 293,290 | 2,287
52046 | KMLU | 711,951 | 708,107 | 5,523
47981 | KMNE-TV | 47,232 | 44,189 | 345
24753 | KMOH-TV | 199,885 | 184,283 | 1,437
4326 | KMOS-TV | 804,745 | 803,129 | 6,264
41425 | KMOT | 81,517 | 79,504 | 620
70034 | KMOV | 3,035,077 | 3,029,405 | 23,626
51488 | KMPH-TV | 1,754,037 | 1,717,555 | 13,395
73701 | KMPX | 6,678,829 | 6,674,706 | 52,056
44052 | KMSB | 1,321,614 | 1,039,442 | 8,107
68883 | KMSP-TV | 3,857,891 | 3,829,859 | 29,869
12525 | KMSS-TV | 1,067,838 | 1,066,106 | 8,315
43095 | KMTP-TV | 5,242,638 | 4,441,372 | 34,638
35189 | KMTR | 589,948 | 520,666 | 4,061
35190 | KMTV-TV | 1,346,549 | 1,344,796 | 10,488
77063 | KMTW | 761,521 | 761,516 | 5,939
35200 | KMVT | 184,647 | 176,351 | 1,375
32958 | KMVU-DT | 308,150 | 231,506 | 1,806
86534 | KMYA-DT | 200,764 | 200,725 | 1,565
51518 | KMYS | 2,273,888 | 2,267,913 | 17,687
54420 | KMYT-TV | 1,314,197 | 1,302,378 | 10,157
35822 | KMYU | 133,563 | 130,198 | 1,015
993 | KNAT-TV | 1,157,630 | 1,124,619 | 8,771
24749 | KNAZ-TV | 332,321 | 227,658 | 1,776
47906 | KNBC | 17,244,237 | 15,812,389 | 123,321
81464 | KNBN | 145,493 | 136,995 | 1,068
9754 | KNCT | 1,751,838 | 1,726,148 | 13,462
82611 | KNDB | 118,154 | 118,122 | 921
82615 | KNDM | 72,216 | 72,209 | 563
12395 | KNDO | 314,875 | 270,892 | 2,113
12427 | KNDU | 475,612 | 462,556 | 3,607
17683 | KNEP | 101,389 | 95,890 | 748
48003 | KNHL | 277,777 | 277,308 | 2,163
125710 | KNIC-DT | 2,398,296 | 2,383,294 | 18,587
59363 | KNIN-TV | 708,289 | 703,838 | 5,489
48525 | KNLC | 2,981,508 | 2,978,979 | 23,233
48521 | KNLJ | 655,000 | 642,705 | 5,012
84215 | KNMD-TV | 1,135,642 | 1,108,358 | 8,644
55528 | KNME-TV | 1,148,741 | 1,105,095 | 8,619
47707 | KNMT | 2,887,142 | 2,794,995 | 21,798
48975 | KNOE-TV | 733,097 | 729,703 | 5,691
49273 | KNOP-TV | 87,904 | 85,423 | 666
10228 | KNPB | 604,614 | 462,732 | 3,609
55362 | KNRR | 25,957 | 25,931 | 202
35277 | KNSD | 3,861,660 | 3,618,321 | 28,219
19191 | KNSN-TV | 611,981 | 459,485 | 3,584
23302 | KNSO | 1,824,786 | 1,803,796 | 14,068
35280 | KNTV | 8,525,818 | 8,027,505 | 62,607
144 | KNVA | 2,550,225 | 2,529,184 | 19,725
33745 | KNVN | 495,902 | 470,252 | 3,667
69692 | KNVO | 1,247,014 | 1,247,014 | 9,725
29557 | KNWA-TV | 822,906 | 804,682 | 6,276
59440 | KNXV-TV | 4,183,943 | 4,173,022 | 32,545
59014 | KOAA-TV | 1,608,528 | 1,203,731 | 9,388
50588 | KOAB-TV | 207,070 | 203,371 | 1,586
50590 | KOAC-TV | 1,957,282 | 1,543,401 | 12,037
58552 | KOAM-TV | 793,563 | 767,962 | 5,989
53928 | KOAT-TV | 1,132,372 | 1,105,116 | 8,619
35313 | KOB | 1,152,841 | 1,113,162 | 8,682
35321 | KOBF | 201,911 | 166,177 | 1,296
8260 | KOBI | 562,463 | 519,063 | 4,048
62272 | KOBR | 211,709 | 211,551 | 1,650
50170 | KOCB | 1,629,783 | 1,629,152 | 12,706
4328 | KOCE-TV | 17,446,133 | 16,461,581 | 128,384
84225 | KOCM | 1,434,325 | 1,433,605 | 11,181
12508 | KOCO-TV | 1,716,569 | 1,708,085 | 13,321
83181 | KOCW | 83,807 | 83,789 | 653
18283 | KODE-TV | 740,156 | 731,512 | 5,705
66195 | KOED-TV | 1,497,297 | 1,459,833 | 11,385
50198 | KOET | 658,606 | 637,640 | 4,973
51189 | KOFY-TV | 5,242,638 | 4,441,372 | 34,638
34859 | KOGG | 190,829 | 161,310 | 1,258
166534 | KOHD | 201,310 | 197,662 | 1,542
35380 | KOIN | 3,028,482 | 2,881,460 | 22,473
35388 | KOKH-TV | 1,627,116 | 1,625,246 | 12,675
11910 | KOKI-TV | 1,366,220 | 1,352,227 | 10,546
48663 | KOLD-TV | 1,216,228 | 887,754 | 6,924
7890 | KOLN | 1,421,223 | 1,337,970 | 10,435
63331 | KOLO-TV | 959,178 | 826,985 | 6,450
28496 | KOLR | 1,076,144 | 1,038,613 | 8,100
21656 | KOMO-TV | 4,132,260 | 4,087,435 | 31,878
65583 | KOMU-TV | 551,658 | 542,544 | 4,231
35396 | KONG | 3,998,831 | 3,981,688 | 31,053
60675 | KOOD | 113,416 | 113,285 | 884
50589 | KOPB-TV | 3,059,231 | 2,875,815 | 22,428
2566 | KOPX-TV | 1,501,110 | 1,500,883 | 11,705
64877 | KORO | 560,983 | 560,983 | 4,375
6865 | KOSA-TV | 340,978 | 338,070 | 2,637
34347 | KOTA-TV | 174,876 | 152,861 | 1,192
8284 | KOTI | 298,175 | 97,132 | 758
35434 | KOTV-DT | 1,417,753 | 1,403,838 | 10,949
56550 | KOVR | 10,784,477 | 7,162,989 | 55,864
51101 | KOZJ | 429,982 | 427,991 | 3,338
51102 | KOZK | 839,841 | 834,308 | 6,507
3659 | KOZL-TV | 992,495 | 963,281 | 7,513
35455 | KPAX-TV | 206,895 | 193,201 | 1,507
67868 | KPAZ-TV | 4,190,080 | 4,176,323 | 32,571
6124 | KPBS | 3,584,237 | 3,463,189 | 27,009
50044 | KPBT-TV | 340,080 | 340,080 | 2,652
77452 | KPCB-DT | 30,861 | 30,835 | 240
35460 | KPDX | 2,970,703 | 2,848,423 | 22,215
12524 | KPEJ-TV | 368,212 | 368,208 | 2,872
41223 | KPHO-TV | 4,195,073 | 4,175,139 | 32,562
61551 | KPIC | 156,687 | 105,807 | 825
86205 | KPIF | 265,080 | 258,174 | 2,013
25452 | KPIX-TV | 8,226,463 | 7,360,625 | 57,406
58912 | KPJK | 7,884,411 | 6,955,179 | 54,243
166510 | KPJR-TV | 3,402,088 | 3,372,831 | 26,305
13994 | KPLC | 1,406,085 | 1,403,853 | 10,949
41964 | KPLO-TV | 55,827 | 52,765 | 412
35417 | KPLR-TV | 2,991,598 | 2,988,106 | 23,304
12144 | KPMR | 1,731,370 | 1,473,251 | 11,490
47973 | KPNE-TV | 92,675 | 89,021 | 694
35486 | KPNX | 4,180,982 | 4,176,442 | 32,572
77512 | KPNZ | 2,394,311 | 2,208,707 | 17,226
73998 | KPOB-TV | 144,525 | 143,656 | 1,120
26655 | KPPX-TV | 4,186,998 | 4,171,450 | 32,533
53117 | KPRC-TV | 6,099,422 | 6,099,076 | 47,567
48660 | KPRY-TV | 42,521 | 42,426 | 331
61071 | KPSD-TV | 19,886 | 18,799 | 147
53544 | KPTB-DT | 322,780 | 320,646 | 2,501
81445 | KPTF-DT | 84,512 | 84,512 | 659
77451 | KPTH | 660,556 | 655,373 | 5,111
51491 | KPTM | 1,405,533 | 1,404,364 | 10,953
33345 | KPTS | 832,000 | 827,866 | 6,457
50633 | KPTV | 2,998,460 | 2,847,263 | 22,206
82575 | KPTW | 89,433 | 82,522 | 644
1270 | KPVI-DT | 271,379 | 264,204 | 2,061
58835 | KPXB-TV | 6,062,458 | 6,062,238 | 47,279
68695 | KPXC-TV | 3,362,518 | 3,341,951 | 26,064
68834 | KPXD-TV | 6,555,157 | 6,553,373 | 51,110
33337 | KPXE-TV | 2,437,178 | 2,436,024 | 18,999
5801 | KPXG-TV | 3,026,219 | 2,882,598 | 22,481
81507 | KPXJ | 1,138,632 | 1,135,626 | 8,857
61173 | KPXL-TV | 2,257,007 | 2,243,520 | 17,497
35907 | KPXM-TV | 3,507,312 | 3,506,503 | 27,347
58978 | KPXN-TV | 17,256,205 | 15,804,489 | 123,259
77483 | KPXO-TV | 953,329 | 913,341 | 7,123
21156 | KPXR-TV | 828,915 | 821,250 | 6,405
10242 | KQCA | 10,077,891 | 6,276,197 | 48,948
41430 | KQCD-TV | 35,623 | 33,415 | 261
18287 | KQCK | 3,216,059 | 3,185,307 | 24,842
78322 | KQCW-DT | 1,128,198 | 1,123,324 | 8,761
35525 | KQDS-TV | 304,935 | 301,439 | 2,351
35500 | KQED | 8,195,398 | 7,283,828 | 56,807
35663 | KQEH | 8,195,398 | 7,283,828 | 56,807
8214 | KQET | 2,981,040 | 2,076,157 | 16,192
5471 | KQIN | 596,371 | 596,277 | 4,650
17686 | KQME | 188,783 | 184,719 | 1,441
61063 | KQSD-TV | 32,526 | 31,328 | 244
8378 | KQSL | 199,123 | 142,419 | 1,111
20427 | KQTV | 1,494,987 | 1,401,160 | 10,928
78921 | KQUP | 697,016 | 551,824 | 4,304
306 | KRBC-TV | 229,395 | 229,277 | 1,788
166319 | KRBK | 983,888 | 966,187 | 7,535
22161 | KRCA | 17,540,791 | 16,957,292 | 132,250
57945 | KRCB | 8,783,441 | 8,503,802 | 66,321
41110 | KRCG | 737,927 | 722,255 | 5,633
8291 | KRCR-TV | 423,000 | 402,594 | 3,140
10192 | KRCW-TV | 2,966,912 | 2,842,523 | 22,169
49134 | KRDK-TV | 349,941 | 349,929 | 2,729
52579 | KRDO-TV | 2,622,603 | 2,272,383 | 17,722
70578 | KREG-TV | 149,306 | 95,141 | 742
34868 | KREM | 817,619 | 752,113 | 5,866
51493 | KREN-TV | 810,039 | 681,212 | 5,313
70596 | KREX-TV | 145,700 | 145,606 | 1,136
70579 | KREY-TV | 74,963 | 65,700 | 512
48589 | KREZ-TV | 148,079 | 105,121 | 820
43328 | KRGV-TV | 1,247,057 | 1,247,029 | 9,726
82698 | KRII | 133,840 | 132,912 | 1,037
29114 | KRIN | 949,313 | 923,735 | 7,204
25559 | KRIS-TV | 565,112 | 565,044 | 4,407
22204 | KRIV | 6,078,936 | 6,078,846 | 47,409
14040 | KRMA-TV | 3,722,512 | 3,564,949 | 27,803
14042 | KRMJ | 174,094 | 159,511 | 1,244
20476 | KRMT | 2,956,144 | 2,864,236 | 22,338
84224 | KRMU | 85,274 | 72,499 | 565
20373 | KRMZ | 36,293 | 33,620 | 262
47971 | KRNE-TV | 47,473 | 38,273 | 298
60307 | KRNV-DT | 955,490 | 792,543 | 6,181
65526 | KRON-TV | 8,573,167 | 8,028,256 | 62,612
53539 | KRPV-DT | 65,943 | 65,943 | 514
48575 | KRQE | 1,135,461 | 1,105,093 | 8,619
57431 | KRSU-TV | 1,000,289 | 998,310 | 7,786
82613 | KRTN-TV | 84,231 | 68,550 | 535
35567 | KRTV | 92,645 | 90,849 | 709
84157 | KRWB-TV | 111,538 | 110,979 | 866
35585 | KRWF | 85,596 | 85,596 | 668
55516 | KRWG-TV | 894,492 | 661,703 | 5,161
48360 | KRXI-TV | 725,391 | 548,865 | 4,281
307 | KSAN-TV | 135,063 | 135,051 | 1,053
11911 | KSAS-TV | 752,513 | 752,504 | 5,869
53118 | KSAT-TV | 2,539,658 | 2,502,246 | 19,515
35584 | KSAX | 365,209 | 365,209 | 2,848
35587 | KSAZ-TV | 4,203,126 | 4,178,448 | 32,588
38214 | KSBI | 1,577,231 | 1,575,865 | 12,290
19653 | KSBW | 5,083,461 | 4,429,165 | 34,543
19654 | KSBY | 535,029 | 495,562 | 3,865
82910 | KSCC | 517,740 | 517,740 | 4,038
10202 | KSCE | 1,015,148 | 1,010,581 | 7,882
35608 | KSCI | 17,446,133 | 16,461,581 | 128,384
72348 | KSCW-DT | 915,691 | 910,511 | 7,101
46981 | KSDK | 2,986,776 | 2,979,047 | 23,234
35594 | KSEE | 1,761,193 | 1,746,282 | 13,619
48658 | KSFY-TV | 670,536 | 607,844 | 4,741
17680 | KSGW-TV | 62,178 | 57,629 | 449
59444 | KSHB-TV | 2,432,205 | 2,431,273 | 18,961
73706 | KSHV-TV | 943,947 | 942,978 | 7,354
29096 | KSIN-TV | 340,143 | 338,811 | 2,642
34846 | KSIX-TV | 74,884 | 74,884 | 584
35606 | KSKN | 731,818 | 643,590 | 5,019
70482 | KSLA | 1,017,556 | 1,016,667 | 7,929
6359 | KSL-TV | 2,390,742 | 2,206,920 | 17,212
71558 | KSMN | 320,813 | 320,808 | 2,502
33336 | KSMO-TV | 2,401,201 | 2,398,686 | 18,707
28510 | KSMQ-TV | 524,391 | 507,983 | 3,962
35611 | KSMS-TV | 1,589,263 | 882,948 | 6,886
21161 | KSNB-TV | 664,079 | 662,726 | 5,169
72359 | KSNC | 174,135 | 173,744 | 1,355
67766 | KSNF | 621,919 | 617,868 | 4,819
72361 | KSNG | 145,058 | 144,822 | 1,129
72362 | KSNK | 48,715 | 45,414 | 354
67335 | KSNT | 622,818 | 594,604 | 4,637
10179 | KSNV | 1,967,781 | 1,919,296 | 14,969
72358 | KSNW | 791,403 | 791,127 | 6,170
61956 | KSPS-TV | 819,101 | 769,852 | 6,004
52953 | KSPX-TV | 7,078,228 | 5,275,946 | 41,147
166546 | KSQA | 382,328 | 374,290 | 2,919
53313 | KSRE | 75,181 | 75,181 | 586
35843 | KSTC-TV | 3,843,788 | 3,835,674 | 29,914
63182 | KSTF | 51,317 | 51,122 | 399
28010 | KSTP-TV | 3,788,898 | 3,782,053 | 29,496
60534 | KSTR-DT | 6,632,577 | 6,629,296 | 51,702
64987 | KSTS | 8,363,473 | 7,264,852 | 56,659
22215 | KSTU | 2,384,996 | 2,201,716 | 17,171
23428 | KSTW | 4,265,956 | 4,186,266 | 32,649
5243 | KSVI | 175,390 | 173,667 | 1,354
58827 | KSWB-TV | 3,677,190 | 3,488,655 | 27,208
60683 | KSWK | 79,012 | 78,784 | 614
35645 | KSWO-TV | 483,132 | 458,057 | 3,572
61350 | KSYS | 519,209 | 443,204 | 3,457
59988 | KTAB-TV | 274,707 | 274,536 | 2,141
999 | KTAJ-TV | 2,343,843 | 2,343,227 | 18,275
35648 | KTAL-TV | 1,094,332 | 1,092,958 | 8,524
12930 | KTAS | 471,882 | 464,149 | 3,620
81458 | KTAZ | 4,182,503 | 4,160,481 | 32,448
35649 | KTBC | 3,242,215 | 2,956,614 | 23,059
67884 | KTBN-TV | 17,929,445 | 16,750,096 | 130,634
67999 | KTBO-TV | 1,585,293 | 1,583,553 | 12,350
35652 | KTBS-TV | 1,163,228 | 1,159,665 | 9,044
28324 | KTBU | 6,035,927 | 6,035,725 | 47,073
67950 | KTBW-TV | 4,202,104 | 4,108,031 | 32,039
35655 | KTBY | 348,080 | 346,562 | 2,703
68594 | KTCA-TV | 3,693,877 | 3,684,081 | 28,732
68597 | KTCI-TV | 3,606,606 | 3,597,183 | 28,054
35187 | KTCW | 103,341 | 89,207 | 696
36916 | KTDO | 1,015,336 | 1,010,771 | 7,883
2769 | KTEJ | 419,750 | 417,368 | 3,255
83707 | KTEL-TV | 52,878 | 52,875 | 412
35666 | KTEN | 602,788 | 599,778 | 4,678
24514 | KTFD-TV | 3,210,669 | 3,172,543 | 24,743
35512 | KTFF-DT | 2,225,169 | 2,203,398 | 17,184
20871 | KTFK-DT | 6,969,307 | 5,211,719 | 40,646
68753 | KTFN | 1,017,335 | 1,013,157 | 7,902
35084 | KTFQ-TV | 1,151,433 | 1,117,061 | 8,712
29232 | KTGM | 159,358 | 159,091 | 1,241
2787 | KTHV | 1,275,053 | 1,246,348 | 9,720
29100 | KTIN | 281,096 | 279,385 | 2,179
66170 | KTIV | 751,089 | 746,274 | 5,820
49397 | KTKA-TV | 759,369 | 746,370 | 5,821
35670 | KTLA | 18,156,910 | 16,870,262 | 131,571
62354 | KTLM | 1,044,526 | 1,044,509 | 8,146
49153 | KTLN-TV | 5,381,955 | 4,740,894 | 36,974
64984 | KTMD | 6,095,741 | 6,095,606 | 47,540
14675 | KTMF | 187,251 | 168,526 | 1,314
10177 | KTMW | 2,261,671 | 2,144,791 | 16,727
21533 | KTNC-TV | 8,270,858 | 7,381,656 | 57,570
47996 | KTNE-TV | 100,341 | 95,324 | 743
60519 | KTNL-TV | 8,642 | 8,642 | 67
74100 | KTNV-TV | 2,094,506 | 1,936,752 | 15,105
71023 | KTNW | 450,926 | 432,398 | 3,372
8651 | KTOO-TV | 31,269 | 31,176 | 243
7078 | KTPX-TV | 1,066,196 | 1,063,754 | 8,296
68541 | KTRE | 441,879 | 421,406 | 3,287
35675 | KTRK-TV | 6,114,259 | 6,112,870 | 47,674
28230 | KTRV-TV | 714,833 | 707,557 | 5,518
69170 | KTSC | 3,124,536 | 2,949,795 | 23,005
61066 | KTSD-TV | 83,645 | 82,828 | 646
37511 | KTSF | 7,959,349 | 7,129,638 | 55,604
67760 | KTSM-TV | 1,015,348 | 1,011,264 | 7,887
35678 | KTTC | 815,213 | 731,919 | 5,708
28501 | KTTM | 76,133 | 73,664 | 575
11908 | KTTU | 1,324,801 | 1,060,613 | 8,272
22208 | KTTV | 17,380,551 | 16,693,085 | 130,189
28521 | KTTW | 329,633 | 326,405 | 2,546
65355 | KTTZ-TV | 380,240 | 380,225 | 2,965
35685 | KTUL | 1,416,959 | 1,388,183 | 10,826
10173 | KTUU-TV | 380,240 | 379,047 | 2,956
77480 | KTUZ-TV | 1,668,531 | 1,666,026 | 12,993
49632 | KTVA | 342,517 | 342,300 | 2,670
34858 | KTVB | 714,865 | 707,882 | 5,521
31437 | KTVC | 137,239 | 100,204 | 781
68581 | KTVD | 3,800,970 | 3,547,607 | 27,668
35692 | KTVE | 641,139 | 640,201 | 4,993
49621 | KTVF | 98,068 | 97,929 | 764
5290 | KTVH-DT | 228,832 | 184,264 | 1,437
35693 | KTVI | 2,995,764 | 2,991,513 | 23,331
40993 | KTVK | 4,184,825 | 4,173,028 | 32,545
22570 | KTVL | 419,849 | 369,469 | 2,881
18066 | KTVM-TV | 260,105 | 217,694 | 1,698
59139 | KTVN | 955,490 | 800,420 | 6,242
21251 | KTVO | 227,128 | 226,616 | 1,767
35694 | KTVQ | 179,797 | 173,271 | 1,351
50592 | KTVR | 147,808 | 54,480 | 425
23422 | KTVT | 6,912,366 | 6,908,715 | 53,881
35703 | KTVU | 8,297,634 | 7,406,751 | 57,765
35705 | KTVW-DT | 4,174,310 | 4,160,877 | 32,451
68889 | KTVX | 2,389,392 | 2,200,520 | 17,162
55907 | KTVZ | 201,828 | 198,558 | 1,549
18286 | KTWO-TV | 80,426 | 79,905 | 623
70938 | KTWU | 1,703,798 | 1,562,305 | 12,184
51517 | KTXA | 6,915,461 | 6,911,822 | 53,905
42359 | KTXD-TV | 6,706,651 | 6,704,781 | 52,291
51569 | KTXH | 6,092,627 | 6,092,442 | 47,515
10205 | KTXL | 8,306,449 | 5,896,320 | 45,985
308 | KTXS-TV | 247,603 | 246,760 | 1,924
69315 | KUAC-TV | 98,717 | 98,189 | 766
51233 | KUAM-TV | 159,358 | 159,358 | 1,243
2722 | KUAS-TV | 994,802 | 977,391 | 7,623
2731 | KUAT-TV | 1,485,024 | 1,253,342 | 9,775
60520 | KUBD | 14,817 | 13,363 | 104
70492 | KUBE-TV | 6,090,970 | 6,090,817 | 47,502
1136 | KUCW | 2,388,889 | 2,199,787 | 17,156
69396 | KUED | 2,388,995 | 2,203,093 | 17,182
69582 | KUEN | 2,364,481 | 2,184,483 | 17,037
82576 | KUES | 30,925 | 25,978 | 203
82585 | KUEW | 132,168 | 120,411 | 939
66611 | KUFM-TV | 187,680 | 166,697 | 1,300
169028 | KUGF-TV | 86,622 | 85,986 | 671
68717 | KUHM-TV | 154,836 | 145,241 | 1,133
69269 | KUHT | 6,080,222 | 6,078,866 | 47,409
62382 | KUID-TV | 432,855 | 284,023 | 2,215
169027 | KUKL-TV | 124,505 | 115,844 | 903
35724 | KULR-TV | 177,242 | 170,142 | 1,327
41429 | KUMV-TV | 41,607 | 41,224 | 322
81447 | KUNP | 130,559 | 43,472 | 339
4624 | KUNS-TV | 4,027,849 | 4,015,626 | 31,318
86532 | KUOK | 28,974 | 28,945 | 226
66589 | KUON-TV | 1,375,257 | 1,360,005 | 10,607
86263 | KUPB | 318,914 | 318,914 | 2,487
65535 | KUPK | 149,642 | 148,180 | 1,156
27431 | KUPT | 87,602 | 87,602 | 683
89714 | KUPU | 956,178 | 948,005 | 7,393
57884 | KUPX-TV | 2,374,672 | 2,191,229 | 17,089
23074 | KUSA | 3,802,407 | 3,560,546 | 27,769
61072 | KUSD-TV | 460,480 | 460,277 | 3,590
10238 | KUSI-TV | 3,572,818 | 3,435,670 | 26,795
43567 | KUSM-TV | 122,678 | 109,830 | 857
69694 | KUTF | 1,210,774 | 1,031,870 | 8,048
81451 | KUTH-DT | 2,219,788 | 2,027,174 | 15,810
68886 | KUTP | 4,191,015 | 4,176,014 | 32,569
35823 | KUTV | 2,388,625 | 2,199,731 | 17,156
63927 | KUVE-DT | 1,294,971 | 964,396 | 7,521
7700 | KUVI-DT | 1,204,490 | 1,009,943 | 7,877
35841 | KUVN-DT | 6,680,126 | 6,678,157 | 52,083
58609 | KUVS-DT | 4,043,413 | 4,005,657 | 31,240
49766 | KVAL-TV | 1,016,673 | 866,173 | 6,755
32621 | KVAW | 76,153 | 76,153 | 594
58795 | KVCR-DT | 18,215,524 | 17,467,140 | 136,226
35846 | KVCT | 288,221 | 287,446 | 2,242
10195 | KVCW | 1,967,550 | 1,918,809 | 14,965
64969 | KVDA | 2,566,563 | 2,548,720 | 19,877
19783 | KVEA | 17,538,249 | 16,335,335 | 127,399
12523 | KVEO-TV | 1,244,504 | 1,244,504 | 9,706
2495 | KVEW | 476,720 | 464,347 | 3,621
35852 | KVHP | 747,917 | 747,837 | 5,832
49832 | KVIA-TV | 1,015,350 | 1,011,266 | 7,887
35855 | KVIE | 10,759,440 | 7,467,369 | 58,238
40450 | KVIH-TV | 91,912 | 91,564 | 714
40446 | KVII-TV | 379,042 | 378,218 | 2,950
61961 | KVLY-TV | 362,850 | 362,838 | 2,830
16729 | KVMD | 15,274,297 | 14,512,400 | 113,182
83825 | KVME-TV | 26,711 | 22,802 | 178
25735 | KVOA | 1,317,956 | 1,030,404 | 8,036
35862 | KVOS-TV | 2,202,674 | 2,131,652 | 16,625
69733 | KVPT | 1,744,349 | 1,719,318 | 13,409
55372 | KVRR | 356,645 | 356,645 | 2,781
166331 | KVSN-DT | 2,706,244 | 2,283,409 | 17,808
608 | KVTH-DT | 303,755 | 299,230 | 2,334
2784 | KVTJ-DT | 1,466,426 | 1,465,802 | 11,432
607 | KVTN-DT | 936,328 | 925,884 | 7,221
35867 | KVUE | 2,661,290 | 2,611,314 | 20,366
78910 | KVUI | 257,964 | 251,872 | 1,964
35870 | KVVU-TV | 2,045,255 | 1,935,583 | 15,096
36170 | KVYE | 396,495 | 392,498 | 3,061
35095 | KWBA-TV | 1,129,524 | 1,073,029 | 8,369
78314 | KWBM | 657,822 | 639,560 | 4,988
27425 | KWBN | 953,207 | 840,455 | 6,555
76268 | KWBQ | 1,149,598 | 1,107,211 | 8,635
66413 | KWCH-DT | 883,647 | 881,674 | 6,876
71549 | KWCM-TV | 252,284 | 244,033 | 1,903
35419 | KWDK | 4,194,152 | 4,117,852 | 32,115
42007 | KWES-TV | 424,854 | 423,536 | 3,303
50194 | KWET | 127,976 | 112,750 | 879
35881 | KWEX-DT | 2,376,463 | 2,370,469 | 18,487
35883 | KWGN-TV | 3,706,455 | 3,513,537 | 27,402
37099 | KWHB | 979,393 | 978,719 | 7,633
36846 | KWHE | 952,966 | 834,341 | 6,507
26231 | KWHY-TV | 17,736,497 | 17,695,306 | 138,006
35096 | KWKB | 1,121,676 | 1,111,629 | 8,670
162115 | KWKS | 39,708 | 39,323 | 307
12522 | KWKT-TV | 1,299,675 | 1,298,478 | 10,127
21162 | KWNB-TV | 91,093 | 89,332 | 697
67347 | KWOG | 512,412 | 505,049 | 3,939
56852 | KWPX-TV | 4,220,008 | 4,148,577 | 32,355
6885 | KWQC-TV | 1,063,507 | 1,054,618 | 8,225
29121 | KWSD | 280,675 | 280,672 | 2,189
53318 | KWSE | 54,471 | 53,400 | 416
71024 | KWSU-TV | 725,554 | 468,295 | 3,652
25382 | KWTV-DT | 1,628,106 | 1,627,198 | 12,691
35903 | KWTX-TV | 2,071,023 | 1,972,365 | 15,382
593 | KWWL | 1,089,498 | 1,078,458 | 8,411
84410 | KWWT | 293,291 | 293,291 | 2,287
14674 | KWYB | 86,495 | 69,598 | 543
10032 | KWYP-DT | 148,473 | 133,470 | 1,041
35920 | KXAN-TV | 2,678,666 | 2,624,648 | 20,470
49330 | KXAS-TV | 6,774,295 | 6,771,827 | 52,813
24287 | KXGN-TV | 14,217 | 13,883 | 108
35954 | KXII | 2,323,974 | 2,264,951 | 17,664
55083 | KXLA | 17,929,100 | 16,794,896 | 130,983
35959 | KXLF-TV | 258,100 | 217,808 | 1,699
53847 | KXLN-DT | 6,085,891 | 6,085,712 | 47,462
35906 | KXLT-TV | 348,025 | 347,296 | 2,709
61978 | KXLY-TV | 772,116 | 740,960 | 5,779
55684 | KXMA-TV | 32,005 | 31,909 | 249
55686 | KXMB-TV | 142,755 | 138,506 | 1,080
55685 | KXMC-TV | 97,569 | 89,483 | 698
55683 | KXMD-TV | 37,962 | 37,917 | 296
47995 | KXNE-TV | 305,839 | 304,682 | 2,376
81593 | KXNW | 602,168 | 597,747 | 4,662
35991 | KXRM-TV | 1,843,363 | 1,500,689 | 11,704
1255 | KXTF | 140,746 | 140,312 | 1,094
25048 | KXTV | 10,759,864 | 7,477,140 | 58,314
35994 | KXTX-TV | 6,721,578 | 6,718,616 | 52,398
62293 | KXVA | 185,478 | 185,276 | 1,445
23277 | KXVO | 1,397,072 | 1,396,085 | 10,888
9781 | KXXV | 1,771,620 | 1,748,287 | 13,635
31870 | KYAZ | 6,038,257 | 6,038,071 | 47,091
29086 | KYIN | 581,748 | 574,691 | 4,482
60384 | KYLE-TV | 323,330 | 323,225 | 2,521
33639 | KYMA-DT | 396,278 | 391,619 | 3,054
47974 | KYNE-TV | 980,094 | 979,887 | 7,642
53820 | KYOU-TV | 651,334 | 640,935 | 4,999
36003 | KYTV | 1,095,904 | 1,083,524 | 8,450
55644 | KYTX | 927,327 | 925,550 | 7,218
13815 | KYUR | 379,943 | 379,027 | 2,956
5237 | KYUS-TV | 12,496 | 12,356 | 96
33752 | KYVE | 301,951 | 259,559 | 2,024
55762 | KYVV-TV | 67,201 | 67,201 | 524
25453 | KYW-TV | 11,212,189 | 11,008,413 | 85,855
69531 | KZJL | 6,037,458 | 6,037,272 | 47,085
69571 | KZJO | 4,147,016 | 4,097,776 | 31,959
61062 | KZSD-TV | 41,207 | 35,825 | 279
33079 | KZTV | 567,635 | 564,464 | 4,402
57292 | WAAY-TV | 1,531,377 | 1,452,612 | 11,329
1328 | WABC-TV | 20,948,273 | 20,560,001 | 160,347
4190 | WABE-TV | 5,308,575 | 5,291,523 | 41,269
43203 | WABG-TV | 393,020 | 392,348 | 3,060
17005 | WABI-TV | 530,773 | 510,729 | 3,983
16820 | WABM | 1,772,367 | 1,742,240 | 13,588
23917 | WABW-TV | 1,097,560 | 1,096,376 | 8,551
19199 | WACH | 1,403,222 | 1,400,385 | 10,922
189358 | WACP | 9,415,263 | 9,301,049 | 72,539
23930 | WACS-TV | 786,536 | 783,207 | 6,108
60018 | WACX | 4,292,829 | 4,288,149 | 33,443
361 | WACY-TV | 946,580 | 946,071 | 7,378
455 | WADL | 4,610,065 | 4,606,521 | 35,926
589 | WAFB | 1,857,882 | 1,857,418 | 14,486
591 | WAFF | 1,527,517 | 1,456,436 | 11,359
70689 | WAGA-TV | 6,000,355 | 5,923,191 | 46,195
48305 | WAGM-TV | 64,721 | 63,331 | 494
37809 | WAGV | 1,614,321 | 1,282,063 | 9,999
706 | WAIQ | 611,733 | 609,794 | 4,756
701 | WAKA | 799,637 | 793,645 | 6,190
4143 | WALA-TV | 1,320,419 | 1,318,127 | 10,280
70713 | WALB | 773,899 | 772,467 | 6,024
60536 | WAMI-DT | 5,449,193 | 5,449,193 | 42,498
70852 | WAND | 1,388,118 | 1,386,074 | 10,810
39270 | WANE-TV | 1,146,442 | 1,146,442 | 8,941
72120 | WANF | 6,027,276 | 5,961,471 | 46,494
52280 | WAOE | 2,963,253 | 2,907,224 | 22,673
64546 | WAOW | 636,957 | 629,068 | 4,906
52073 | WAPA-TV 2 7 | 3,759,648 | 2,784,044 | 21,713
49712 | WAPT | 793,621 | 791,620 | 6,174
67792 | WAQP | 2,135,670 | 2,131,399 | 16,623
13206 | WATC-DT | 5,732,204 | 5,705,819 | 44,500
71082 | WATE-TV | 1,874,433 | 1,638,059 | 12,775
22819 | WATL | 5,882,837 | 5,819,099 | 45,383
20287 | WATM-TV | 893,989 | 749,183 | 5,843
11907 | WATN-TV | 1,787,595 | 1,784,560 | 13,918
13989 | WAVE | 1,891,797 | 1,880,563 | 14,667
71127 | WAVY-TV | 2,080,708 | 2,080,691 | 16,227
54938 | WAWD | 579,079 | 579,023 | 4,516
65247 | WAWV-TV | 705,790 | 700,361 | 5,462
12793 | WAXN-TV | 2,677,951 | 2,669,224 | 20,817
65696 | WBAL-TV | 9,743,335 | 9,344,875 | 72,881
74417 | WBAY-TV | 1,226,036 | 1,225,443 | 9,557
71085 | WBBH-TV | 2,017,267 | 2,017,267 | 15,733
65204 | WBBJ-TV | 662,148 | 658,839 | 5,138
9617 | WBBM-TV | 9,914,233 | 9,907,806 | 77,271
9088 | WBBZ-TV | 1,269,256 | 1,260,686 | 9,832
70138 | WBDT | 3,831,757 | 3,819,550 | 29,789
51349 | WBEC-TV | 5,421,355 | 5,421,355 | 42,281
10758 | WBFF | 8,523,983 | 8,381,042 | 65,364
12497 | WBFS-TV | 5,349,613 | 5,349,613 | 41,722
6568 | WBGU-TV | 1,343,816 | 1,343,816 | 10,480
81594 | WBIF | 309,707 | 309,707 | 2,415
84802 | WBIH | 718,439 | 706,994 | 5,514
717 | WBIQ | 1,563,080 | 1,532,266 | 11,950
46984 | WBIR-TV | 1,978,347 | 1,701,857 | 13,273
67048 | WBKB-TV | 136,823 | 130,625 | 1,019
34167 | WBKI | 2,104,090 | 2,085,393 | 16,264
4692 | WBKO | 963,413 | 862,651 | 6,728
76001 | WBKP | 55,655 | 55,305 | 431
68427 | WBMM | 562,284 | 562,123 | 4,384
73692 | WBNA | 1,699,683 | 1,666,248 | 12,995
23337 | WBNG-TV | 1,435,634 | 1,051,932 | 8,204
71217 | WBNS-TV | 2,847,721 | 2,784,795 | 21,719
72958 | WBNX-TV | 3,639,256 | 3,630,531 | 28,315
71218 | WBOC-TV | 813,888 | 813,888 | 6,348
71220 | WBOY-TV | 711,302 | 621,367 | 4,846
60850 | WBPH-TV | 10,613,847 | 9,474,797 | 73,894
7692 | WBPX-TV | 6,833,712 | 6,761,949 | 52,736
5981 | WBRA-TV | 1,726,408 | 1,677,204 | 13,081
71221 | WBRC | 1,884,007 | 1,849,135 | 14,421
71225 | WBRE-TV | 2,879,196 | 2,244,735 | 17,507
38616 | WBRZ-TV | 2,223,336 | 2,222,309 | 17,332
82627 | WBSF | 1,836,543 | 1,832,446 | 14,291
30826 | WBTV | 4,433,795 | 4,296,893 | 33,511
66407 | WBTW | 1,975,457 | 1,959,172 | 15,280
16363 | WBUI | 981,884 | 981,868 | 7,658
59281 | WBUP | 126,472 | 112,603 | 878
60830 | WBUY-TV | 1,569,254 | 1,567,815 | 12,227
72971 | WBXX-TV | 2,142,759 | 1,984,544 | 15,477
25456 | WBZ-TV | 7,960,556 | 7,730,847 | 60,293
63153 | WCAU | 11,269,831 | 11,098,540 | 86,558
363 | WCAV | 1,032,270 | 874,886 | 6,823
46728 | WCAX-TV | 784,748 | 665,685 | 5,192
39659 | WCBB | 964,079 | 910,222 | 7,099
10587 | WCBD-TV | 1,149,489 | 1,149,489 | 8,965
12477 | WCBI-TV | 680,511 | 678,424 | 5,291
9610 | WCBS-TV | 22,087,789 | 21,511,236 | 167,766
49157 | WCCB | 3,642,232 | 3,574,928 | 27,881
9629 | WCCO-TV | 3,862,571 | 3,855,451 | 30,069
14050 | WCCT-TV | 5,818,471 | 5,307,612 | 41,394
69544 | WCCU | 694,550 | 693,317 | 5,407
3001 | WCCV-TV | 3,391,703 | 2,062,994 | 16,089
23937 | WCES-TV | 1,098,868 | 1,097,706 | 8,561
65666 | WCET | 3,123,290 | 3,110,519 | 24,259
46755 | WCFE-TV | 459,417 | 419,756 | 3,274
71280 | WCHS-TV | 1,352,824 | 1,274,766 | 9,942
42124 | WCIA | 834,084 | 833,547 | 6,501
711 | WCIQ | 3,186,320 | 3,016,907 | 23,529
71428 | WCIU-TV | 10,052,136 | 10,049,244 | 78,374
9015 | WCIV | 1,152,800 | 1,152,800 | 8,991
42116 | WCIX | 554,002 | 549,911 | 4,289
16993 | WCJB-TV | 977,492 | 977,492 | 7,623
11125 | WCLF | 4,097,389 | 4,096,624 | 31,950
68007 | WCLJ-TV | 2,305,723 | 2,303,534 | 17,965
50781 | WCMH-TV | 2,756,260 | 2,712,989 | 21,159
9917 | WCML | 233,439 | 224,255 | 1,749
9908 | WCMU-TV | 707,702 | 699,551 | 5,456
9922 | WCMV | 425,499 | 411,288 | 3,208
9913 | WCMW | 106,975 | 104,859 | 818
32326 | WCNC-TV | 3,883,049 | 3,809,706 | 29,712
53734 | WCNY-TV | 1,342,821 | 1,279,429 | 9,978
73642 | WCOV-TV | 889,102 | 884,417 | 6,898
40618 | WCPB | 567,809 | 567,809 | 4,428
59438 | WCPO-TV | 3,330,885 | 3,313,654 | 25,843
10981 | WCPX-TV | 9,753,235 | 9,751,916 | 76,055
71297 | WCSC-TV | 1,028,018 | 1,028,018 | 8,018
39664 | WCSH | 1,755,325 | 1,548,824 | 12,079
69479 | WCTE | 612,760 | 541,314 | 4,222
18334 | WCTI-TV | 1,688,065 | 1,685,638 | 13,146
31590 | WCTV | 1,065,524 | 1,065,464 | 8,310
33081 | WCTX | 7,844,936 | 7,332,431 | 57,186
65684 | WCVB-TV | 7,780,868 | 7,618,496 | 59,417
9987 | WCVE-TV | 1,721,004 | 1,712,249 | 13,354
83304 | WCVI-TV | 50,601 | 50,495 | 394
34204 | WCVN-TV | 2,129,816 | 2,120,349 | 16,537
9989 | WCVW | 1,505,484 | 1,505,330 | 11,740
73042 | WCWF | 1,131,390 | 1,130,818 | 8,819
35385 | WCWG | 3,630,551 | 3,299,114 | 25,730
29712 | WCWJ | 1,661,270 | 1,661,132 | 12,955
73264 | WCWN | 1,909,223 | 1,621,751 | 12,648
2455 | WCYB-TV | 2,363,002 | 2,057,404 | 16,046
11291 | WDAF-TV | 2,539,581 | 2,537,411 | 19,789
21250 | WDAM-TV | 512,594 | 500,343 | 3,902
22129 | WDAY-TV | 339,239 | 338,856 | 2,643
22124 | WDAZ-TV | 151,720 | 151,659 | 1,183
71325 | WDBB | 1,792,728 | 1,762,643 | 13,747
71326 | WDBD | 940,665 | 939,489 | 7,327
71329 | WDBJ | 1,626,017 | 1,435,762 | 11,198
51567 | WDCA | 8,101,358 | 8,049,329 | 62,777
16530 | WDCQ-TV | 1,269,199 | 1,269,199 | 9,898
30576 | WDCW | 8,155,998 | 8,114,847 | 63,288
54385 | WDEF-TV | 1,730,762 | 1,530,403 | 11,936
32851 | WDFX-TV | 271,499 | 270,942 | 2,113
43846 | WDHN | 452,377 | 451,978 | 3,525
71338 | WDIO-DT | 341,506 | 327,469 | 2,554
714 | WDIQ | 663,062 | 620,124 | 4,836
53114 | WDIV-TV | 5,450,318 | 5,450,174 | 42,506
71427 | WDJT-TV | 3,267,652 | 3,256,507 | 25,397
39561 | WDKA | 658,699 | 658,277 | 5,134
64017 | WDKY-TV | 1,204,817 | 1,173,579 | 9,153
67893 | WDLI-TV | 4,147,298 | 4,114,920 | 32,092
72335 | WDPB | 596,888 | 596,888 | 4,655
83740 | WDPM-DT | 1,365,977 | 1,364,744 | 10,644
1283 | WDPN-TV | 11,594,463 | 11,467,616 | 89,436
6476 | WDPX-TV | 6,833,712 | 6,761,949 | 52,736
28476 | WDRB | 2,054,813 | 2,037,086 | 15,887
12171 | WDSC-TV | 3,389,559 | 3,389,559 | 26,435
17726 | WDSE | 330,994 | 316,643 | 2,469
71353 | WDSI-TV | 1,100,302 | 1,042,191 | 8,128
71357 | WDSU | 1,649,083 | 1,649,083 | 12,861
7908 | WDTI | 2,092,242 | 2,091,941 | 16,315
65690 | WDTN | 3,831,757 | 3,819,550 | 29,789
70592 | WDTV | 566,592 | 524,961 | 4,094
25045 | WDVM-TV | 3,074,837 | 2,646,508 | 20,640
4110 | WDWL | 2,638,361 | 1,977,410 | 15,422
49421 | WEAO | 3,960,217 | 3,945,408 | 30,770
71363 | WEAR-TV | 1,520,973 | 1,520,386 | 11,857
7893 | WEAU | 1,006,393 | 971,050 | 7,573
61003 | WEBA-TV | 641,354 | 632,282 | 4,931
19561 | WECN | 2,886,669 | 2,157,288 | 16,825
48666 | WECT | 1,156,807 | 1,156,807 | 9,022
13602 | WEDH | 5,328,800 | 4,724,167 | 36,844
13607 | WEDN | 3,451,170 | 2,643,344 | 20,615
69338 | WEDQ | 5,379,887 | 5,365,612 | 41,846
21808 | WEDU | 5,379,887 | 5,365,612 | 41,846
13594 | WEDW | 5,996,408 | 5,544,708 | 43,243
13595 | WEDY | 5,328,800 | 4,724,167 | 36,844
24801 | WEEK-TV | 752,596 | 752,539 | 5,869
6744 | WEFS | 3,380,743 | 3,380,743 | 26,366
24215 | WEHT | 857,558 | 844,070 | 6,583
721 | WEIQ | 1,055,632 | 1,055,193 | 8,229
18301 | WEIU-TV | 458,480 | 458,416 | 3,575
69271 | WEKW-TV | 1,263,049 | 773,108 | 6,029
60825 | WELF-TV | 1,477,691 | 1,387,044 | 10,818
26602 | WELU | 2,315,163 | 1,721,317 | 13,425
40761 | WEMT | 1,726,085 | 1,186,706 | 9,255
69237 | WENH-TV | 4,500,498 | 4,328,222 | 33,756
71508 | WENY-TV | 656,240 | 517,754 | 4,038
83946 | WEPH | 604,105 | 602,833 | 4,701
81508 | WEPX-TV | 950,012 | 950,012 | 7,409
25738 | WESH | 4,063,973 | 4,053,252 | 31,611
65670 | WETA-TV | 8,315,499 | 8,258,807 | 64,410
69944 | WETK | 670,087 | 558,842 | 4,358
60653 | WETM-TV | 870,206 | 770,731 | 6,011
18252 | WETP-TV | 2,167,383 | 1,888,574 | 14,729
2709 | WEUX | 380,569 | 373,680 | 2,914
72041 | WEVV-TV | 752,417 | 751,094 | 5,858
59441 | WEWS-TV | 4,112,984 | 4,078,299 | 31,807
72052 | WEYI-TV | 3,715,686 | 3,652,991 | 28,490
72054 | WFAA | 6,917,502 | 6,907,616 | 53,872
81669 | WFBD | 817,914 | 817,389 | 6,375
69532 | WFDC-DT | 8,155,998 | 8,114,847 | 63,288
10132 | WFFF-TV | 633,649 | 552,182 | 4,306
25040 | WFFT-TV | 1,095,429 | 1,095,411 | 8,543
11123 | WFGC | 3,018,351 | 3,018,351 | 23,540
6554 | WFGX | 1,493,866 | 1,493,319 | 11,646
13991 | WFIE | 743,079 | 740,909 | 5,778
715 | WFIQ | 546,563 | 544,258 | 4,245
64592 | WFLA-TV | 5,583,544 | 5,576,649 | 43,492
22211 | WFLD | 9,957,301 | 9,954,828 | 77,638
72060 | WFLI-TV | 1,294,209 | 1,189,897 | 9,280
39736 | WFLX | 5,740,086 | 5,740,086 | 44,767
72062 | WFMJ-TV | 4,328,477 | 3,822,691 | 29,813
72064 | WFMY-TV | 4,772,783 | 4,746,167 | 37,015
39884 | WFMZ-TV | 10,613,847 | 9,474,797 | 73,894
83943 | WFNA | 1,391,519 | 1,390,447 | 10,844
47902 | WFOR-TV | 5,398,266 | 5,398,266 | 42,101
11909 | WFOX-TV | 1,603,324 | 1,603,324 | 12,504
40626 | WFPT | 5,829,153 | 5,442,279 | 42,444
21245 | WFPX-TV | 2,637,949 | 2,634,141 | 20,544
25396 | WFQX-TV | 537,340 | 534,314 | 4,167
9635 | WFRV-TV | 1,263,353 | 1,256,376 | 9,798
53115 | WFSB | 4,752,788 | 4,370,519 | 34,086
6093 | WFSG | 364,961 | 364,796 | 2,845
21801 | WFSU-TV | 576,105 | 576,093 | 4,493
11913 | WFTC | 3,787,177 | 3,770,207 | 29,404
64588 | WFTS-TV | 5,236,379 | 5,236,287 | 40,838
16788 | WFTT-TV | 4,523,828 | 4,521,879 | 35,266
72076 | WFTV | 3,882,888 | 3,882,888 | 30,283
70649 | WFTX-TV | 1,758,172 | 1,758,172 | 13,712
60553 | WFTY-DT | 5,678,755 | 5,560,460 | 43,366
25395 | WFUP | 234,863 | 234,436 | 1,828
60555 | WFUT-DT | 20,538,272 | 20,130,459 | 156,997
22108 | WFWA | 1,035,114 | 1,034,862 | 8,071
9054 | WFXB | 1,393,865 | 1,393,510 | 10,868
3228 | WFXG | 1,070,032 | 1,057,760 | 8,249
70815 | WFXL | 793,637 | 785,106 | 6,123
19707 | WFXP | 583,315 | 562,500 | 4,387
24813 | WFXR | 1,426,061 | 1,286,450 | 10,033
6463 | WFXT | 7,494,070 | 7,400,830 | 57,719
22245 | WFXU | 218,273 | 218,273 | 1,702
43424 | WFXV | 702,682 | 612,494 | 4,777
25236 | WFXW | 274,078 | 270,967 | 2,113
41397 | WFYI | 2,389,627 | 2,388,970 | 18,632
53930 | WGAL | 6,287,688 | 5,610,833 | 43,759
2708 | WGBA-TV | 1,170,375 | 1,170,127 | 9,126
24314 | WGBC | 249,415 | 249,235 | 1,944
72099 | WGBH-TV | 7,711,842 | 7,601,732 | 59,286
12498 | WGBO-DT | 9,828,737 | 9,826,530 | 76,637
11113 | WGBP-TV | 1,820,589 | 1,812,232 | 14,134
72098 | WGBX-TV | 7,803,280 | 7,636,641 | 59,558
72096 | WGBY-TV | 4,470,009 | 3,739,675 | 29,166
62388 | WGCU | 1,510,671 | 1,510,671 | 11,782
54275 | WGEM-TV | 361,598 | 356,682 | 2,782
27387 | WGEN-TV | 43,037 | 43,037 | 336
7727 | WGFL | 877,163 | 877,163 | 6,841
25682 | WGGB-TV | 3,443,386 | 3,053,436 | 23,814
11027 | WGGN-TV | 4,002,841 | 3,981,382 | 31,051
9064 | WGGS-TV | 2,759,326 | 2,705,067 | 21,097
72106 | WGHP | 4,174,964 | 4,123,106 | 32,156
710 | WGIQ | 363,849 | 363,806 | 2,837
12520 | WGMB-TV | 1,742,708 | 1,742,659 | 13,591
25683 | WGME-TV | 1,495,724 | 1,325,465 | 10,337
24618 | WGNM | 742,458 | 741,502 | 5,783
72119 | WGNO | 1,641,765 | 1,641,765 | 12,804
9762 | WGNT | 2,128,079 | 2,127,891 | 16,595
72115 | WGN-TV | 9,983,395 | 9,981,137 | 77,843
40619 | WGPT | 578,294 | 344,300 | 2,685
65074 | WGPX-TV | 2,765,350 | 2,754,743 | 21,484
64547 | WGRZ | 1,878,725 | 1,812,309 | 14,134
63329 | WGTA | 1,061,654 | 1,030,538 | 8,037
66285 | WGTE-TV | 2,210,496 | 2,208,927 | 17,227
59279 | WGTQ | 116,301 | 112,633 | 878
59280 | WGTU | 358,543 | 353,477 | 2,757
23948 | WGTV | 5,989,342 | 5,917,966 | 46,154
7623 | WGTW-TV | 807,797 | 807,797 | 6,300
24783 | WGVK | 2,439,225 | 2,437,526 | 19,010
24784 | WGVU-TV | 1,825,744 | 1,784,264 | 13,915
21536 | WGWG | 986,963 | 986,963 | 7,697
56642 | WGWW | 1,677,166 | 1,647,976 | 12,853
58262 | WGXA | 779,955 | 779,087 | 6,076
73371 | WHAM-TV | 1,381,564 | 1,334,653 | 10,409
32327 | WHAS-TV | 1,955,983 | 1,925,901 | 15,020
6096 | WHA-TV | 1,635,777 | 1,628,950 | 12,704
13950 | WHBF-TV | 1,712,339 | 1,704,072 | 13,290
12521 | WHBQ-TV | 1,736,335 | 1,708,345 | 13,323
10894 | WHBR | 1,302,764 | 1,302,041 | 10,155
65128 | WHDF | 1,553,469 | 1,502,852 | 11,721
72145 | WHDH | 7,441,208 | 7,343,735 | 57,274
83929 | WHDT | 5,768,239 | 5,768,239 | 44,986
70041 | WHEC-TV | 1,322,243 | 1,279,606 | 9,980
67971 | WHFT-TV | 5,417,409 | 5,417,409 | 42,250
41458 | WHIO-TV | 3,877,520 | 3,868,597 | 30,171
713 | WHIQ | 1,278,174 | 1,225,940 | 9,561
61216 | WHIZ-TV | 911,245 | 840,696 | 6,557
65919 | WHKY-TV | 3,358,493 | 3,294,261 | 25,692
18780 | WHLA-TV | 554,446 | 515,561 | 4,021
48668 | WHLT | 484,432 | 483,532 | 3,771
24582 | WHLV-TV | 3,906,201 | 3,906,201 | 30,464
37102 | WHMB-TV | 2,959,585 | 2,889,145 | 22,532
61004 | WHMC | 774,921 | 774,921 | 6,044
36117 | WHME-TV | 1,455,358 | 1,455,110 | 11,348
37106 | WHNO | 1,499,653 | 1,499,653 | 11,696
72300 | WHNS | 2,549,610 | 2,270,868 | 17,710
48693 | WHNT-TV | 1,569,885 | 1,487,578 | 11,602
66221 | WHO-DT | 1,120,480 | 1,099,818 | 8,577
6866 | WHOI | 736,125 | 736,047 | 5,740
72313 | WHP-TV | 4,030,693 | 3,538,096 | 27,594
51980 | WHPX-TV | 5,579,464 | 5,114,336 | 39,887
73036 | WHRM-TV | 535,778 | 532,820 | 4,155
25932 | WHRO-TV | 2,169,238 | 2,169,237 | 16,918
68058 | WHSG-TV | 5,870,314 | 5,808,605 | 45,301
4688 | WHSV-TV | 845,013 | 711,912 | 5,552
9990 | WHTJ | 807,960 | 690,381 | 5,384
72326 | WHTM-TV | 3,211,085 | 2,799,192 | 21,831
11117 | WHTN | 1,914,755 | 1,905,733 | 14,863
27772 | WHUT-TV | 7,953,119 | 7,915,675 | 61,734
18793 | WHWC-TV | 1,123,941 | 1,091,281 | 8,511
72338 | WHYY-TV | 10,448,829 | 10,049,700 | 78,378
5360 | WIAT | 1,868,854 | 1,830,924 | 14,279
63160 | WIBW-TV | 1,234,347 | 1,181,009 | 9,211
25684 | WICD | 1,238,332 | 1,237,046 | 9,648
25686 | WICS | 1,101,798 | 1,099,718 | 8,577
24970 | WICU-TV | 740,115 | 683,435 | 5,330
62210 | WICZ-TV | 1,249,974 | 965,416 | 7,529
18410 | WIDP | 2,559,306 | 1,899,768 | 14,816
26025 | WIFS | 1,583,693 | 1,578,870 | 12,314
720 | WIIQ | 353,241 | 347,685 | 2,712
68939 | WILL-TV | 1,178,545 | 1,158,147 | 9,032
6863 | WILX-TV | 3,378,644 | 3,218,221 | 25,099
22093 | WINK-TV | 1,818,122 | 1,818,122 | 14,180
67787 | WINM | 1,001,485 | 971,031 | 7,573
41314 | WINP-TV | 2,935,057 | 2,883,944 | 22,492
3646 | WIPB | 1,965,353 | 1,965,174 | 15,326
48408 | WIPL | 850,656 | 799,165 | 6,233
53863 | WIPM-TV ¹ | 2,280,935 | 1,648,150 | 2,251
53859 | WIPR-TV ¹ | 3,596,802 | 2,811,148 | 21,924
10253 | WIPX-TV | 2,305,723 | 2,303,534 | 17,965
39887 | WIRS ¹² | 1,091,825 | 757,978 | 4,676
71336 | WIRT-DT | 127,001 | 126,300 | 985
13990 | WIS | 2,644,715 | 2,600,887 | 20,284
65143 | WISC-TV | 1,734,112 | 1,697,537 | 13,239
13960 | WISE-TV | 1,070,155 | 1,070,155 | 8,346
39269 | WISH-TV | 2,912,963 | 2,855,253 | 22,268
65680 | WISN-TV | 3,003,636 | 2,997,695 | 23,379
73083 | WITF-TV | 2,412,561 | 2,191,501 | 17,092
73107 | WITI | 3,111,641 | 3,102,097 | 24,193
594 | WITN-TV | 1,861,458 | 1,836,905 | 14,326
61005 | WITV | 871,783 | 871,783 | 6,799
7780 | WIVB-TV | 1,900,503 | 1,820,106 | 14,195
11260 | WIVT | 855,138 | 613,934 | 4,788
60571 | WIWN | 3,338,845 | 3,323,941 | 25,923
62207 | WIYC | 639,641 | 637,499 | 4,972
73120 | WJAC-TV | 2,219,529 | 1,897,986 | 14,802
10259 | WJAL | 8,750,706 | 8,446,074 | 65,871
50780 | WJAR | 7,108,180 | 6,976,099 | 54,407
35576 | WJAX-TV | 1,630,782 | 1,630,782 | 12,718
27140 | WJBF | 1,601,088 | 1,588,444 | 12,388
73123 | WJBK | 5,748,623 | 5,711,224 | 44,542
37174 | WJCL | 938,086 | 938,086 | 7,316
73130 | WJCT | 1,618,817 | 1,617,292 | 12,613
29719 | WJEB-TV | 1,607,603 | 1,607,603 | 12,538
65749 | WJET-TV | 747,431 | 717,721 | 5,598
7651 | WJFB | 2,310,517 | 2,302,217 | 17,955
49699 | WJFW-TV | 277,530 | 268,295 | 2,092
73136 | WJHG-TV | 864,121 | 859,823 | 6,706
57826 | WJHL-TV | 2,034,663 | 1,462,129 | 11,403
68519 | WJKT | 655,780 | 655,373 | 5,111
1051 | WJLA-TV | 8,750,706 | 8,447,643 | 65,883
86537 | WJLP | 21,384,080 | 21,119,164 | 164,708
9630 | WJMN-TV | 160,991 | 154,424 | 1,204
61008 | WJPM-TV | 623,939 | 623,787 | 4,865
58340 | WJPX 6 10 12 | 3,254,481 | 2,500,195 | 19,499
21735 | WJRT-TV | 2,788,684 | 2,543,446 | 19,836
23918 | WJSP-TV | 4,225,860 | 4,188,428 | 32,666
41210 | WJTC | 1,381,529 | 1,379,283 | 10,757
48667 | WJTV | 987,206 | 980,717 | 7,649
73150 | WJW | 3,977,148 | 3,905,325 | 30,458
61007 | WJWJ-TV | 1,034,555 | 1,034,555 | 8,068
58342 | WJWN-TV ⁶ | 2,063,156 | 1,461,497 | 4,676
53116 | WJXT | 1,622,616 | 1,622,616 | 12,655
11893 | WJXX | 1,618,191 | 1,617,272 | 12,613
32334 | WJYS | 9,667,341 | 9,667,317 | 75,395
25455 | WJZ-TV | 9,743,335 | 9,350,346 | 72,923
73152 | WJZY | 4,432,745 | 4,301,117 | 33,544
64983 | WKAQ-TV ³ | 3,697,088 | 2,731,588 | 2,628
6104 | WKAR-TV | 1,693,373 | 1,689,830 | 13,179
34171 | WKAS | 542,308 | 512,994 | 4,001
51570 | WKBD-TV | 5,065,617 | 5,065,350 | 39,505
73153 | WKBN-TV | 4,898,622 | 4,535,576 | 35,373
13929 | WKBS-TV | 1,082,894 | 937,847 | 7,314
74424 | WKBT-DT | 866,325 | 824,795 | 6,433
54176 | WKBW-TV | 2,247,191 | 2,161,366 | 16,856
53465 | WKCF | 4,241,181 | 4,240,354 | 33,071
73155 | WKEF | 3,730,595 | 3,716,127 | 28,982
34177 | WKGB-TV | 413,268 | 411,587 | 3,210
34196 | WKHA | 511,281 | 400,721 | 3,125
34207 | WKLE | 856,237 | 846,630 | 6,603
34212 | WKMA-TV | 524,617 | 524,035 | 4,087
71293 | WKMG-TV | 3,817,673 | 3,817,673 | 29,774
34195 | WKMJ-TV | 1,477,906 | 1,470,645 | 11,470
34202 | WKMR | 463,316 | 428,462 | 3,342
34174 | WKMU | 344,430 | 344,050 | 2,683
42061 | WKNO | 1,645,867 | 1,642,092 | 12,807
83931 | WKNX-TV | 1,684,178 | 1,459,493 | 11,383
34205 | WKOH | 584,645 | 579,258 | 4,518
67869 | WKOI-TV | 3,831,757 | 3,819,550 | 29,789
34211 | WKON | 1,080,274 | 1,072,320 | 8,363
18267 | WKOP-TV | 1,555,654 | 1,382,098 | 10,779
64545 | WKOW | 1,918,224 | 1,899,746 | 14,816
21432 | WKPC-TV | 1,525,919 | 1,517,701 | 11,837
65758 | WKPD | 283,454 | 282,250 | 2,201
34200 | WKPI-TV | 606,666 | 481,220 | 3,753
27504 | WKPT-TV | 1,131,213 | 887,806 | 6,924
58341 | WKPV ¹⁰ | 1,132,932 | 731,199 | 4,676
11289 | WKRC-TV | 3,281,914 | 3,229,223 | 25,185
73187 | WKRG-TV | 1,526,600 | 1,526,075 | 11,902
73188 | WKRN-TV | 2,409,767 | 2,388,588 | 18,629
34222 | WKSO-TV | 658,441 | 642,090 | 5,008
40902 | WKTC | 1,387,229 | 1,386,779 | 10,815
60654 | WKTV | 1,573,503 | 1,342,387 | 10,469
73195 | WKYC | 4,180,327 | 4,124,135 | 32,164
24914 | WKYT-TV | 1,174,615 | 1,156,978 | 9,023
71861 | WKYU-TV | 411,448 | 409,310 | 3,192
34181 | WKZT-TV | 1,044,532 | 1,020,878 | 7,962
18819 | WLAE-TV | 1,397,967 | 1,397,967 | 10,903
36533 | WLAJ | 4,100,475 | 4,063,963 | 31,695
2710 | WLAX | 469,017 | 447,381 | 3,489
68542 | WLBT | 948,671 | 947,857 | 7,392
39644 | WLBZ | 373,129 | 364,346 | 2,842
69328 | WLED-TV | 332,718 | 174,998 | 1,365
63046 | WLEF-TV | 200,517 | 199,188 | 1,553
73203 | WLEX-TV | 969,481 | 964,735 | 7,524
37806 | WLFB | 798,916 | 688,519 | 5,370
37808 | WLFG | 1,614,321 | 1,282,063 | 9,999
73204 | WLFI-TV | 2,243,009 | 2,221,313 | 17,324
73205 | WLFL | 3,747,583 | 3,743,960 | 29,199
19777 | WLII-DT 4 8 | 2,801,102 | 2,153,564 | 16,796
37503 | WLIO | 1,067,232 | 1,050,170 | 8,190
38336 | WLIW | 20,027,920 | 19,717,729 | 153,779
27696 | WLJC-TV | 1,401,072 | 1,281,256 | 9,993
71645 | WLJT-DT | 385,493 | 385,380 | 3,006
53939 | WLKY | 1,927,997 | 1,919,810 | 14,973
11033 | WLLA | 2,081,693 | 2,081,436 | 16,233
1222 | WLMA | 1,646,714 | 1,644,206 | 12,823
17076 | WLMB | 2,754,484 | 2,747,490 | 21,428
68518 | WLMT | 1,736,552 | 1,733,496 | 13,520
22591 | WLNE-TV | 6,429,522 | 6,381,825 | 49,772
74420 | WLNS-TV | 4,100,475 | 4,063,963 | 31,695
73206 | WLNY-TV | 7,501,199 | 7,415,578 | 57,834
84253 | WLOO | 913,960 | 912,674 | 7,118
56537 | WLOS | 3,086,751 | 2,544,410 | 19,844
37732 | WLOV-TV | 609,526 | 607,780 | 4,740
13995 | WLOX | 1,182,149 | 1,170,659 | 9,130
38586 | WLPB-TV | 1,219,624 | 1,219,407 | 9,510
73189 | WLPX-TV | 1,066,912 | 1,022,543 | 7,975
66358 | WLRN-TV | 5,447,399 | 5,447,399 | 42,484
73226 | WLS-TV | 10,174,464 | 10,170,757 | 79,322
73230 | WLTV-DT | 5,427,398 | 5,427,398 | 42,328
37176 | WLTX | 1,580,677 | 1,578,645 | 12,312
37179 | WLTZ | 689,521 | 685,358 | 5,345
21259 | WLUC-TV | 92,246 | 85,393 | 666
4150 | WLUK-TV | 1,187,616 | 1,186,861 | 9,256
73238 | WLVI | 7,441,208 | 7,343,735 | 57,274
36989 | WLVT-TV | 10,613,847 | 9,474,797 | 73,894
3978 | WLWC | 3,281,532 | 3,150,875 | 24,574
46979 | WLWT | 3,367,381 | 3,355,009 | 26,166
54452 | WLXI | 4,184,851 | 4,166,318 | 32,493
55350 | WLYH | 3,211,085 | 2,799,192 | 21,831
43192 | WMAB-TV | 405,483 | 399,560 | 3,116
43170 | WMAE-TV | 686,076 | 653,173 | 5,094
43197 | WMAH-TV | 1,257,393 | 1,256,995 | 9,803
43176 | WMAO-TV | 369,696 | 369,343 | 2,881
47905 | WMAQ-TV | 9,914,395 | 9,913,272 | 77,314
59442 | WMAR-TV | 9,198,495 | 9,072,076 | 70,753
43184 | WMAU-TV | 642,328 | 636,504 | 4,964
43193 | WMAV-TV | 1,008,339 | 1,008,208 | 7,863
43169 | WMAW-TV | 726,173 | 715,450 | 5,580
46991 | WMAZ-TV | 1,185,678 | 1,136,616 | 8,864
66398 | WMBB | 935,027 | 914,607 | 7,133
43952 | WMBC-TV | 18,706,132 | 18,458,331 | 143,957
42121 | WMBD-TV | 742,729 | 742,660 | 5,792
83969 | WMBF-TV | 445,363 | 445,363 | 3,473
60829 | WMCF-TV | 612,942 | 609,635 | 4,755
9739 | WMCN-TV | 10,448,829 | 10,049,700 | 78,378
19184 | WMC-TV | 2,047,403 | 2,043,125 | 15,934
189357 | WMDE | 6,384,827 | 6,257,910 | 48,805
73255 | WMDN | 278,227 | 278,018 | 2,168
16455 | WMDT | 731,868 | 731,868 | 5,708
39656 | WMEA-TV | 902,755 | 853,857 | 6,659
39648 | WMEB-TV | 511,761 | 494,574 | 3,857
70537 | WMEC | 218,027 | 217,839 | 1,699
39649 | WMED-TV | 30,488 | 29,577 | 231
39662 | WMEM-TV | 71,700 | 69,981 | 546
41893 | WMFD-TV | 1,561,367 | 1,324,244 | 10,328
41436 | WMFP | 5,792,048 | 5,564,295 | 43,396
61111 | WMGM-TV | 807,797 | 807,797 | 6,300
43847 | WMGT-TV | 601,894 | 601,309 | 4,690
73263 | WMHT | 1,719,949 | 1,550,977 | 12,096
68545 | WMLW-TV | 1,843,933 | 1,843,663 | 14,379
53819 | WMOR-TV | 5,394,541 | 5,394,541 | 42,072
81503 | WMOW | 121,150 | 105,957 | 826
65944 | WMPB | 7,452,728 | 7,343,061 | 57,269
43168 | WMPN-TV | 856,237 | 854,089 | 6,661
65942 | WMPT | 8,637,742 | 8,584,398 | 66,950
60827 | WMPV-TV | 1,423,052 | 1,422,411 | 11,093
10221 | WMSN-TV | 1,947,942 | 1,927,158 | 15,030
2174 | WMTJ ¹¹ | 3,143,148 | 2,365,308 | 18,447
6870 | WMTV | 1,548,616 | 1,545,459 | 12,053
73288 | WMTW | 1,940,292 | 1,658,816 | 12,937
23935 | WMUM-TV | 925,814 | 920,835 | 7,182
73292 | WMUR-TV | 5,242,334 | 5,057,770 | 39,446
42663 | WMVS | 3,172,534 | 3,112,231 | 24,272
42665 | WMVT | 3,172,534 | 3,112,231 | 24,272
81946 | WMWC-TV | 946,858 | 916,989 | 7,152
56548 | WMYA-TV | 1,650,798 | 1,571,594 | 12,257
74211 | WMYD | 5,750,989 | 5,750,873 | 44,851
20624 | WMYT-TV | 4,432,745 | 4,301,117 | 33,544
25544 | WMYV | 3,901,915 | 3,875,210 | 30,223
73310 | WNAB | 2,176,984 | 2,166,809 | 16,899
73311 | WNAC-TV | 7,310,183 | 6,959,064 | 54,274
47535 | WNBC | 21,952,082 | 21,399,204 | 166,892
83965 | WNBW-DT | 1,400,631 | 1,396,012 | 10,887
72307 | WNCF | 667,683 | 665,950 | 5,194
50782 | WNCN | 3,795,494 | 3,783,131 | 29,505
57838 | WNCT-TV | 1,935,414 | 1,887,929 | 14,724
41674 | WNDU-TV | 1,863,764 | 1,835,398 | 14,314
28462 | WNDY-TV | 2,912,963 | 2,855,253 | 22,268
71928 | WNED-TV | 1,387,961 | 1,370,480 | 10,688
60931 | WNEH | 1,261,482 | 1,255,218 | 9,789
41221 | WNEM-TV | 1,475,094 | 1,471,908 | 11,479
49439 | WNEO | 3,353,869 | 3,271,369 | 25,513
73318 | WNEP-TV | 3,429,213 | 2,838,000 | 22,134
18795 | WNET | 21,113,760 | 20,615,190 | 160,778
51864 | WNEU | 7,135,190 | 7,067,520 | 55,120
23942 | WNGH-TV | 5,744,856 | 5,595,366 | 43,638
67802 | WNIN | 908,275 | 891,946 | 6,956
41671 | WNIT | 1,305,447 | 1,305,447 | 10,181
48457 | WNJB | 20,787,272 | 20,036,393 | 156,264
48477 | WNJN | 20,787,272 | 20,036,393 | 156,264
48481 | WNJS | 7,383,483 | 7,343,269 | 57,270
48465 | WNJT | 7,383,483 | 7,343,269 | 57,270
73333 | WNJU | 21,952,082 | 21,399,204 | 166,892
73336 | WNJX-TV ² | 1,628,732 | 1,170,083 | 2,462
61217 | WNKY | 379,002 | 377,357 | 2,943
71905 | WNLO | 1,900,503 | 1,820,106 | 14,195
4318 | WNMU | 181,736 | 179,662 | 1,401
73344 | WNNE | 792,551 | 676,539 | 5,276
54280 | WNOL-TV | 1,632,389 | 1,632,389 | 12,731
71676 | WNPB-TV | 2,130,047 | 1,941,707 | 15,143
62137 | WNPI-DT | 167,931 | 161,748 | 1,261
41398 | WNPT | 2,266,543 | 2,235,316 | 17,433
28468 | WNPX-TV | 2,084,890 | 2,071,017 | 16,152
61009 | WNSC-TV | 2,431,154 | 2,425,044 | 18,913
61010 | WNTV | 2,419,841 | 2,211,019 | 17,244
16539 | WNTZ-TV | 344,704 | 343,849 | 2,682
7933 | WNUV | 9,098,694 | 8,906,508 | 69,462
9999 | WNVC | 807,960 | 690,381 | 5,384
10019 | WNVT | 1,721,004 | 1,712,249 | 13,354
73354 | WNWO-TV | 2,872,428 | 2,872,250 | 22,401
136751 | WNYA | 1,923,118 | 1,651,777 | 12,882
30303 | WNYB | 1,785,269 | 1,756,096 | 13,696
6048 | WNYE-TV | 19,414,613 | 19,180,858 | 149,592
34329 | WNYI | 1,627,542 | 1,338,811 | 10,441
67784 | WNYO-TV | 1,430,491 | 1,409,756 | 10,995
73363 | WNYT | 1,679,494 | 1,516,775 | 11,829
22206 | WNYW | 20,075,874 | 19,753,060 | 154,054
69618 | WOAI-TV | 2,525,811 | 2,513,887 | 19,606
66804 | WOAY-TV | 581,486 | 443,210 | 3,457
41225 | WOFL | 4,048,104 | 4,043,672 | 31,537
70651 | WOGX | 1,112,408 | 1,112,408 | 8,676
8661 | WOI-DT | 1,173,757 | 1,170,432 | 9,128
39746 | WOIO | 3,821,233 | 3,745,335 | 29,210
71725 | WOLE-DT ⁴ | 1,784,094 | 1,312,984 | 7,379
73375 | WOLF-TV | 2,990,646 | 2,522,858 | 19,676
60963 | WOLO-TV | 2,635,715 | 2,594,980 | 20,238
36838 | WOOD-TV | 2,507,053 | 2,501,084 | 19,506
67602 | WOPX-TV | 3,877,863 | 3,877,805 | 30,243
64865 | WORA-TV 3 13 | 3,594,115 | 2,762,755 | 21,547
73901 | WORO-DT | 3,236,498 | 2,516,588 | 19,627
60357 | WOST | 1,193,381 | 853,762 | 6,658
66185 | WOSU-TV | 2,843,651 | 2,776,901 | 21,657
131 | WOTF-TV | 3,451,383 | 3,451,383 | 26,917
10212 | WOTV | 2,368,797 | 2,368,397 | 18,471
50147 | WOUB-TV | 756,762 | 734,988 | 5,732
50141 | WOUC-TV | 1,713,515 | 1,649,853 | 12,867
23342 | WOWK-TV | 1,159,175 | 1,083,663 | 8,451
65528 | WOWT | 1,380,979 | 1,377,287 | 10,741
31570 | WPAN | 1,254,821 | 1,254,636 | 9,785
51988 | WPBF | 3,190,307 | 3,186,405 | 24,851
21253 | WPBN-TV | 442,005 | 430,953 | 3,361
62136 | WPBS-TV | 338,448 | 301,692 | 2,353
13456 | WPBT | 5,416,604 | 5,416,604 | 42,244
13924 | WPCB-TV | 2,934,614 | 2,800,516 | 21,841
64033 | WPCH-TV | 5,948,778 | 5,874,163 | 45,813
4354 | WPCT | 195,270 | 194,869 | 1,520
69880 | WPCW | 3,393,365 | 3,188,441 | 24,867
17012 | WPDE-TV | 1,772,233 | 1,769,553 | 13,801
52527 | WPEC | 5,764,571 | 5,764,571 | 44,958
84088 | WPFO | 1,329,690 | 1,209,873 | 9,436
54728 | WPGA-TV | 559,495 | 559,025 | 4,360
60820 | WPGD-TV | 2,355,629 | 2,343,715 | 18,279
73875 | WPGH-TV | 3,236,098 | 3,121,767 | 24,347
2942 | WPGX | 425,098 | 422,872 | 3,298
73879 | WPHL-TV | 10,421,216 | 10,246,856 | 79,915
73881 | WPIX | 20,948,273 | 20,501,774 | 159,893
53113 | WPLG | 5,588,748 | 5,588,748 | 43,587
11906 | WPMI-TV | 1,468,001 | 1,467,594 | 11,446
10213 | WPMT | 2,412,561 | 2,191,501 | 17,092
18798 | WPNE-TV | 1,161,295 | 1,160,631 | 9,052
73907 | WPNT | 3,172,170 | 3,064,423 | 23,899
28480 | WPPT | 10,613,847 | 9,474,797 | 73,894
51984 | WPPX-TV | 8,044,823 | 7,839,141 | 61,137
47404 | WPRI-TV | 7,254,721 | 6,990,606 | 54,520
51991 | WPSD-TV | 883,814 | 879,213 | 6,857
12499 | WPSG | 10,798,264 | 10,529,460 | 82,119
66219 | WPSU-TV | 1,055,133 | 868,013 | 6,770
73905 | WPTA | 1,099,180 | 1,099,180 | 8,573
25067 | WPTD | 3,423,417 | 3,411,727 | 26,608
25065 | WPTO | 2,961,254 | 2,951,883 | 23,022
59443 | WPTV-TV | 5,840,102 | 5,840,102 | 45,547
57476 | WPTZ | 792,551 | 676,539 | 5,276
8616 | WPVI-TV | 11,491,587 | 11,302,701 | 88,150
48772 | WPWR-TV | 9,957,301 | 9,954,828 | 77,638
51969 | WPXA-TV | 6,587,205 | 6,458,510 | 50,370
71236 | WPXC-TV | 1,561,014 | 1,561,014 | 12,174
5800 | WPXD-TV | 5,249,447 | 5,249,447 | 40,940
37104 | WPXE-TV | 3,067,071 | 3,057,388 | 23,845
48406 | WPXG-TV | 2,577,848 | 2,512,150 | 19,592
73312 | WPXH-TV | 1,471,601 | 1,451,634 | 11,321
73910 | WPXI | 3,300,896 | 3,197,864 | 24,940
2325 | WPXJ-TV | 2,357,870 | 2,289,706 | 17,857
52628 | WPXK-TV | 1,801,997 | 1,577,806 | 12,305
21729 | WPXL-TV | 1,639,180 | 1,639,180 | 12,784
48608 | WPXM-TV | 5,153,621 | 5,153,621 | 40,193
73356 | WPXN-TV | 20,878,066 | 20,454,468 | 159,524
27290 | WPXP-TV | 5,565,072 | 5,565,072 | 43,402
50063 | WPXQ-TV | 3,281,532 | 3,150,875 | 24,574
70251 | WPXR-TV | 1,375,640 | 1,200,331 | 9,361
40861 | WPXS | 2,339,305 | 2,251,498 | 17,559
53065 | WPXT | 1,002,128 | 952,535 | 7,429
37971 | WPXU-TV | 700,488 | 700,488 | 5,463
67077 | WPXV-TV | 1,919,794 | 1,919,794 | 14,972
74091 | WPXW-TV | 8,075,268 | 8,024,342 | 62,582
21726 | WPXX-TV | 1,562,675 | 1,560,834 | 12,173
73319 | WQAD-TV | 1,101,012 | 1,089,523 | 8,497
65130 | WQCW | 1,307,345 | 1,236,020 | 9,640
71561 | WQEC | 183,969 | 183,690 | 1,433
41315 | WQED | 3,529,305 | 3,426,684 | 26,725
3255 | WQHA | 3,322,840 | 2,368,215 | 18,470
60556 | WQHS-DT | 3,996,567 | 3,952,672 | 30,827
53716 | WQLN | 602,232 | 577,633 | 4,505
52075 | WQMY | 410,269 | 254,586 | 1,986
64550 | WQOW | 369,066 | 358,576 | 2,797
5468 | WQPT-TV | 941,381 | 933,107 | 7,277
64690 | WQPX-TV | 1,644,283 | 1,212,587 | 9,457
52408 | WQRF-TV | 1,375,774 | 1,354,979 | 10,567
2175 | WQTO ¹¹ | 2,864,201 | 1,598,365 | 5,728
8688 | WRAL-TV | 3,852,675 | 3,848,801 | 30,017
10133 | WRAY-TV | 4,184,851 | 4,166,318 | 32,493
64611 | WRAZ | 3,800,594 | 3,797,515 | 29,617
136749 | WRBJ-TV | 1,030,831 | 1,028,010 | 8,017
3359 | WRBL | 1,493,140 | 1,461,459 | 11,398
57221 | WRBU | 2,933,497 | 2,929,776 | 22,849
54940 | WRBW | 4,080,267 | 4,077,341 | 31,799
59137 | WRCB | 1,587,742 | 1,363,582 | 10,635
47904 | WRC-TV | 8,188,601 | 8,146,696 | 63,536
54963 | WRDC | 3,972,477 | 3,966,864 | 30,938
55454 | WRDQ | 3,930,315 | 3,930,315 | 30,653
73937 | WRDW-TV | 1,564,584 | 1,533,682 | 11,961
66174 | WREG-TV | 1,642,307 | 1,638,585 | 12,779
61011 | WRET-TV | 2,419,841 | 2,211,019 | 17,244
73940 | WREX | 2,303,027 | 2,047,951 | 15,972
54443 | WRFB ¹³ | 2,674,527 | 1,975,375 | 2,628
73942 | WRGB | 1,759,432 | 1,550,958 | 12,096
411 | WRGT-TV | 3,451,036 | 3,416,078 | 26,642
74416 | WRIC-TV | 2,059,152 | 1,996,075 | 15,567
61012 | WRJA-TV | 1,204,291 | 1,201,900 | 9,374
412 | WRLH-TV | 2,017,508 | 1,959,111 | 15,279
61013 | WRLK-TV | 1,229,094 | 1,228,616 | 9,582
43870 | WRLM | 3,960,217 | 3,945,408 | 30,770
74156 | WRNN-TV | 19,853,836 | 19,615,370 | 152,980
73964 | WROC-TV | 1,203,412 | 1,185,203 | 9,243
159007 | WRPT | 110,009 | 109,937 | 857
20590 | WRPX-TV | 2,637,949 | 2,634,141 | 20,544
62009 | WRSP-TV | 1,102,162 | 1,100,077 | 8,580
40877 | WRTV | 2,919,683 | 2,895,164 | 22,579
15320 | WRUA | 2,985,428 | 2,224,902 | 17,352
71580 | WRXY-TV | 1,784,000 | 1,784,000 | 13,913
48662 | WSAV-TV | 1,000,315 | 1,000,309 | 7,801
6867 | WSAW-TV | 652,442 | 646,386 | 5,041
36912 | WSAZ-TV | 1,239,187 | 1,168,954 | 9,117
56092 | WSBE-TV | 7,535,710 | 7,266,304 | 56,670
73982 | WSBK-TV | 7,290,901 | 7,225,463 | 56,351
72053 | WSBS-TV | 42,952 | 42,952 | 335
73983 | WSBT-TV | 1,763,215 | 1,752,698 | 13,669
23960 | WSB-TV | 5,897,425 | 5,828,269 | 45,455
69446 | WSCG | 867,516 | 867,490 | 6,766
64971 | WSCV | 5,465,435 | 5,465,435 | 42,625
70536 | WSEC | 538,090 | 536,891 | 4,187
49711 | WSEE-TV | 613,176 | 595,476 | 4,644
21258 | WSES | 1,829,499 | 1,796,561 | 14,011
73988 | WSET-TV | 1,575,886 | 1,340,273 | 10,453
13993 | WSFA | 1,166,744 | 1,132,826 | 8,835
11118 | WSFJ-TV | 1,675,987 | 1,667,150 | 13,002
10203 | WSFL-TV | 5,344,129 | 5,344,129 | 41,679
72871 | WSFX-TV | 970,833 | 970,833 | 7,572
73999 | WSIL-TV | 672,560 | 669,176 | 5,219
4297 | WSIU-TV | 1,019,939 | 937,070 | 7,308
74007 | WSJV | 1,651,178 | 1,644,683 | 12,827
78908 | WSKA | 546,588 | 431,354 | 3,364
74034 | WSKG-TV | 892,402 | 633,163 | 4,938
76324 | WSKY-TV | 1,934,585 | 1,934,519 | 15,087
57840 | WSLS-TV | 1,447,286 | 1,277,753 | 9,965
21737 | WSMH | 2,339,224 | 2,327,660 | 18,153
41232 | WSMV-TV | 2,447,769 | 2,404,766 | 18,755
70119 | WSNS-TV | 9,914,395 | 9,913,272 | 77,314
74070 | WSOC-TV | 3,706,808 | 3,638,832 | 28,379
66391 | WSPA-TV | 3,388,945 | 3,227,025 | 25,168
64352 | WSPX-TV | 1,298,295 | 1,174,763 | 9,162
17611 | WSRE | 1,354,495 | 1,353,634 | 10,557
63867 | WSST-TV | 331,907 | 331,601 | 2,586
60341 | WSTE-DT | 3,723,967 | 3,000,000 | 23,397
21252 | WSTM-TV | 1,455,586 | 1,379,393 | 10,758
11204 | WSTR-TV | 3,297,280 | 3,286,795 | 25,634
19776 | WSUR-DT ⁸ | 3,714,790 | 3,000,000 | 7,379
2370 | WSVI | 50,601 | 50,601 | 395
63840 | WSVN | 5,588,748 | 5,588,748 | 43,587
73374 | WSWB | 1,530,002 | 1,102,316 | 8,597
28155 | WSWG | 381,004 | 380,910 | 2,971
71680 | WSWP-TV | 902,592 | 694,697 | 5,418
74094 | WSYM-TV | 1,568,403 | 1,567,920 | 12,228
73113 | WSYR-TV | 1,329,977 | 1,243,098 | 9,695
40758 | WSYT | 1,970,721 | 1,739,071 | 13,563
56549 | WSYX | 2,635,937 | 2,592,420 | 20,218
65681 | WTAE-TV | 2,995,755 | 2,860,979 | 22,313
23341 | WTAJ-TV | 1,187,718 | 948,598 | 7,398
4685 | WTAP-TV | 512,358 | 494,914 | 3,860
416 | WTAT-TV | 1,111,476 | 1,111,476 | 8,668
67993 | WTBY-TV | 15,858,470 | 15,766,438 | 122,962
29715 | WTCE-TV | 2,620,599 | 2,620,599 | 20,438
65667 | WTCI | 1,216,209 | 1,104,698 | 8,616
67786 | WTCT | 608,457 | 607,620 | 4,739
28954 | WTCV 5 9 | 3,254,481 | 2,500,195 | 19,499
74422 | WTEN | 1,902,431 | 1,613,747 | 12,586
9881 | WTGL | 3,707,507 | 3,707,507 | 28,915
27245 | WTGS | 966,519 | 966,357 | 7,537
70655 | WTHI-TV | 978,126 | 928,582 | 7,242
70162 | WTHR | 2,949,339 | 2,901,633 | 22,630
147 | WTIC-TV | 5,318,753 | 4,707,697 | 36,715
26681 | WTIN-TV ⁷ | 3,716,312 | 2,987,150 | 2,462
66536 | WTIU | 1,570,257 | 1,569,135 | 12,238
1002 | WTJP-TV | 1,947,743 | 1,907,300 | 14,875
4593 | WTJR | 334,527 | 334,221 | 2,607
70287 | WTJX-TV | 135,017 | 121,498 | 948
47401 | WTKR | 2,149,376 | 2,149,375 | 16,763
82735 | WTLF | 349,696 | 349,691 | 2,727
23486 | WTLH | 1,065,127 | 1,065,105 | 8,307
67781 | WTLJ | 1,622,365 | 1,621,227 | 12,644
65046 | WTLV | 1,757,600 | 1,739,021 | 13,563
74098 | WTMJ-TV | 3,096,406 | 3,085,983 | 24,068
74109 | WTNH | 7,845,782 | 7,332,431 | 57,186
19200 | WTNZ | 1,699,427 | 1,513,754 | 11,806
590 | WTOC-TV | 993,098 | 992,658 | 7,742
74112 | WTOG | 5,268,364 | 5,267,177 | 41,079
4686 | WTOK-TV | 417,919 | 412,276 | 3,215
13992 | WTOL | 4,487,440 | 4,479,518 | 34,936
21254 | WTOM-TV | 120,369 | 117,121 | 913
74122 | WTOV-TV | 3,892,886 | 3,619,899 | 28,232
82574 | WTPC-TV | 2,049,246 | 2,042,851 | 15,932
86496 | WTPX-TV | 255,972 | 255,791 | 1,995
6869 | WTRF-TV | 2,941,511 | 2,565,375 | 20,007
67798 | WTSF | 922,441 | 851,465 | 6,641
11290 | WTSP | 5,506,869 | 5,489,954 | 42,816
4108 | WTTA | 5,583,544 | 5,576,649 | 43,492
74137 | WTTE | 2,690,341 | 2,650,354 | 20,670
22207 | WTTG | 8,101,358 | 8,049,329 | 62,777
56526 | WTTK | 2,844,384 | 2,825,807 | 22,038
74138 | WTTO | 1,877,570 | 1,844,214 | 14,383
56523 | WTTV | 2,522,077 | 2,518,133 | 19,639
10802 | WTTW | 9,776,348 | 9,776,348 | 76,246
74148 | WTVA | 823,492 | 810,123 | 6,318
22590 | WTVC | 1,579,628 | 1,366,976 | 10,661
8617 | WTVD | 3,790,354 | 3,775,757 | 29,447
55305 | WTVE | 5,156,905 | 5,152,997 | 40,188
36504 | WTVF | 2,384,622 | 2,367,601 | 18,465
74150 | WTVG | 4,405,350 | 4,397,113 | 34,293
74151 | WTVH | 1,390,502 | 1,327,319 | 10,352
10645 | WTVI | 2,856,703 | 2,829,960 | 22,071
63154 | WTVJ | 5,458,451 | 5,458,451 | 42,570
595 | WTVM | 1,498,667 | 1,405,957 | 10,965
72945 | WTVO | 1,409,708 | 1,398,825 | 10,909
28311 | WTVP | 678,884 | 678,539 | 5,292
51597 | WTVQ-DT | 989,786 | 983,552 | 7,671
57832 | WTVR-TV | 1,816,197 | 1,809,035 | 14,109
16817 | WTVS | 5,511,091 | 5,510,837 | 42,979
68569 | WTVT | 5,473,148 | 5,460,179 | 42,584
3661 | WTVW | 839,003 | 834,187 | 6,506
35575 | WTVX | 3,157,609 | 3,157,609 | 24,626
4152 | WTVY | 974,532 | 971,173 | 7,574
40759 | WTVZ-TV | 2,156,534 | 2,156,346 | 16,817
66908 | WTWC-TV | 1,061,101 | 1,061,079 | 8,275
20426 | WTWO | 737,341 | 731,294 | 5,703
81692 | WTWV | 1,527,511 | 1,526,625 | 11,906
51568 | WTXF-TV | 10,784,256 | 10,492,549 | 81,831
41065 | WTXL-TV | 1,054,514 | 1,054,322 | 8,223
8532 | WUAB | 3,821,233 | 3,745,335 | 29,210
12855 | WUCF-TV | 3,707,507 | 3,707,507 | 28,915
36395 | WUCW | 3,664,480 | 3,657,236 | 28,523
69440 | WUFT | 1,372,142 | 1,372,142 | 10,701
413 | WUHF | 1,152,580 | 1,147,972 | 8,953
8156 | WUJA | 2,638,361 | 1,977,410 | 15,422
69080 | WUNC-TV | 4,184,851 | 4,166,318 | 32,493
69292 | WUND-TV | 1,504,532 | 1,504,532 | 11,734
69114 | WUNE-TV | 3,146,865 | 2,625,942 | 20,480
69300 | WUNF-TV | 2,625,583 | 2,331,723 | 18,185
69124 | WUNG-TV | 3,605,143 | 3,588,220 | 27,985
60551 | WUNI | 7,209,571 | 7,084,349 | 55,251
69332 | WUNJ-TV | 1,116,458 | 1,116,458 | 8,707
69149 | WUNK-TV | 1,991,039 | 1,985,696 | 15,486
69360 | WUNL-TV | 3,055,263 | 2,834,274 | 22,105
69444 | WUNM-TV | 1,357,346 | 1,357,346 | 10,586
69397 | WUNP-TV | 1,402,186 | 1,393,524 | 10,868
69416 | WUNU | 1,202,495 | 1,201,481 | 9,370
83822 | WUNW | 1,856,918 | 1,333,273 | 10,398
6900 | WUPA | 5,966,454 | 5,888,379 | 45,923
13938 | WUPL | 1,721,320 | 1,721,320 | 13,425
10897 | WUPV | 1,933,664 | 1,914,643 | 14,932
19190 | WUPW | 2,100,914 | 2,099,572 | 16,375
23128 | WUPX-TV | 1,102,435 | 1,089,118 | 8,494
65593 | WUSA | 8,750,706 | 8,446,074 | 65,871
4301 | WUSI-TV | 339,507 | 339,507 | 2,648
60552 | WUTB | 8,523,983 | 8,381,042 | 65,364
30577 | WUTF-TV | 7,918,927 | 7,709,189 | 60,124
57837 | WUTR | 526,114 | 481,957 | 3,759
415 | WUTV | 1,589,376 | 1,557,474 | 12,147
16517 | WUVC-DT | 3,768,817 | 3,748,841 | 29,237
48813 | WUVG-DT | 6,029,495 | 5,965,975 | 46,529
3072 | WUVN | 1,233,568 | 1,157,140 | 9,025
60560 | WUVP-DT | 10,421,216 | 10,246,856 | 79,915
9971 | WUXP-TV | 2,316,872 | 2,305,293 | 17,979
417 | WVAH-TV | 1,373,555 | 1,295,383 | 10,103
23947 | WVAN-TV | 1,026,862 | 1,025,950 | 8,001
65387 | WVBT | 1,885,169 | 1,885,169 | 14,702
72342 | WVCY-TV | 3,111,641 | 3,102,097 | 24,193
60559 | WVEA-TV | 4,553,004 | 4,552,113 | 35,502
74167 | WVEC | 2,098,679 | 2,092,868 | 16,322
5802 | WVEN-TV | 3,921,016 | 3,919,361 | 30,567
61573 | WVEO⁵ | 1,091,825 | 757,978 | 4,676
69946 | WVER | 888,756 | 758,441 | 5,915
10976 | WVFX | 711,483 | 618,730 | 4,825
47929 | WVIA-TV | 3,429,213 | 2,838,000 | 22,134
3667 | WVII-TV | 368,022 | 346,874 | 2,705
70309 | WVIR-TV | 1,945,637 | 1,908,395 | 14,884
74170 | WVIT | 5,846,093 | 5,357,639 | 41,784
18753 | WVIZ | 3,695,223 | 3,689,173 | 28,772
70021 | WVLA-TV | 1,897,179 | 1,897,007 | 14,795
81750 | WVLR | 1,412,728 | 1,300,554 | 10,143
35908 | WVLT-TV | 1,888,607 | 1,633,633 | 12,741
74169 | WVNS-TV | 916,451 | 588,963 | 4,593
11259 | WVNY | 742,579 | 659,270 | 5,142
29000 | WVOZ-TV ⁹ | 1,132,932 | 731,199 | 4,676
71657 | WVPB-TV | 992,798 | 959,526 | 7,483
60111 | WVPT | 767,268 | 642,173 | 5,008
70491 | WVPX-TV | 4,147,298 | 4,114,920 | 32,092
66378 | WVPY | 756,696 | 632,649 | 4,934
67190 | WVSN | 2,948,832 | 2,137,333 | 16,669
66943 | WVTA | 760,072 | 579,703 | 4,521
69940 | WVTB | 455,880 | 257,445 | 2,008
74173 | WVTM-TV | 2,009,346 | 1,940,153 | 15,131
74174 | WVTV | 3,091,132 | 3,083,108 | 24,045
77496 | WVUA | 2,209,921 | 2,160,101 | 16,847
4149 | WVUE-DT | 1,658,125 | 1,658,125 | 12,932
4329 | WVUT | 273,293 | 273,215 | 2,131
74176 | WVVA | 1,037,632 | 722,666 | 5,636
3113 | WVXF | 85,191 | 78,556 | 613
12033 | WWAY | 1,208,625 | 1,208,625 | 9,426
30833 | WWBT | 1,924,502 | 1,892,842 | 14,762
20295 | WWCP-TV | 2,811,278 | 2,548,691 | 19,877
24812 | WWCW | 1,390,985 | 1,212,308 | 9,455
23671 | WWDP | 5,792,048 | 5,564,295 | 43,396
21158 | WWHO | 2,762,344 | 2,721,504 | 21,225
14682 | WWJE-DT | 7,209,571 | 7,084,349 | 55,251
72123 | WWJ-TV | 5,562,031 | 5,561,777 | 43,376
166512 | WWJX | 518,866 | 518,846 | 4,046
6868 | WWLP | 3,838,272 | 3,077,800 | 24,004
74192 | WWL-TV | 1,788,624 | 1,788,624 | 13,949
3133 | WWMB | 1,547,974 | 1,544,778 | 12,048
74195 | WWMT | 2,538,485 | 2,531,309 | 19,742
68851 | WWNY-TV | 375,600 | 346,623 | 2,703
74197 | WWOR-TV | 19,853,836 | 19,615,370 | 152,980
65943 | WWPB | 3,197,858 | 2,775,966 | 21,650
23264 | WWPX-TV | 2,299,441 | 2,231,612 | 17,404
68547 | WWRS-TV | 2,324,155 | 2,321,066 | 18,102
61251 | WWSB | 3,340,133 | 3,340,133 | 26,050
23142 | WWSI | 11,269,831 | 11,098,540 | 86,558
16747 | WWTI | 196,531 | 190,097 | 1,483
998 | WWTO-TV | 6,760,133 | 6,760,133 | 52,722
26994 | WWTV | 1,034,174 | 1,022,322 | 7,973
84214 | WWTW | 1,527,511 | 1,526,625 | 11,906
26993 | WWUP-TV | 116,638 | 110,592 | 863
23338 | WXBU | 4,030,693 | 3,538,096 | 27,594
61504 | WXCW | 1,687,947 | 1,687,947 | 13,164
61084 | WXEL-TV | 5,416,604 | 5,416,604 | 42,244
60539 | WXFT-DT | 10,174,464 | 10,170,757 | 79,322
23929 | WXGA-TV | 608,494 | 606,849 | 4,733
51163 | WXIA-TV | 6,179,680 | 6,035,625 | 47,072
53921 | WXII-TV | 3,630,551 | 3,299,114 | 25,730
146 | WXIN | 2,836,532 | 2,814,815 | 21,953
39738 | WXIX-TV | 2,911,054 | 2,900,875 | 22,624
414 | WXLV-TV | 4,364,244 | 4,334,365 | 33,804
68433 | WXMI | 1,988,970 | 1,988,589 | 15,509
64549 | WXOW | 425,378 | 413,264 | 3,223
6601 | WXPX-TV | 4,594,588 | 4,592,639 | 35,818
74215 | WXTV-DT | 20,538,272 | 20,130,459 | 156,997
12472 | WXTX | 699,095 | 694,837 | 5,419
11970 | WXXA-TV | 1,680,670 | 1,537,868 | 11,994
57274 | WXXI-TV | 1,184,860 | 1,168,696 | 9,115
53517 | WXXV-TV | 1,191,123 | 1,189,584 | 9,278
10267 | WXYZ-TV | 5,622,543 | 5,622,140 | 43,847
77515 | WYCI | 35,873 | 26,508 | 207
70149 | WYCW | 3,388,945 | 3,227,025 | 25,168
62219 | WYDC | 560,266 | 449,486 | 3,506
18783 | WYDN | 2,577,848 | 2,512,150 | 19,592
35582 | WYDO | 1,330,728 | 1,330,728 | 10,378
25090 | WYES-TV | 1,872,245 | 1,872,059 | 14,600
53905 | WYFF | 2,626,363 | 2,416,551 | 18,847
49803 | WYIN | 6,956,141 | 6,956,141 | 54,251
24915 | WYMT-TV | 1,180,276 | 863,881 | 6,737
17010 | WYOU | 2,879,196 | 2,226,883 | 17,367
77789 | WYOW | 91,839 | 91,311 | 712
13933 | WYPX-TV | 1,529,500 | 1,413,583 | 11,025
4693 | WYTV | 4,898,622 | 4,535,576 | 35,373
5875 | WYZZ-TV | 1,042,140 | 1,036,721 | 8,085
15507 | WZBJ | 1,626,017 | 1,435,762 | 11,198
28119 | WZDX | 1,596,771 | 1,514,654 | 11,813
70493 | WZME | 5,996,408 | 5,544,708 | 43,243
81448 | WZMQ | 73,423 | 72,945 | 569
71871 | WZPX-TV | 2,039,157 | 2,039,157 | 15,903
136750 | WZRB | 952,279 | 951,693 | 7,422
418 | WZTV | 2,312,658 | 2,301,187 | 17,947
83270 | WZVI | 76,992 | 75,863 | 592
19183 | WZVN-TV | 1,981,488 | 1,981,488 | 15,454
49713 | WZZM | 1,574,546 | 1,548,835 | 12,079
¹ Call signs WIPM and WIPR are stations in Puerto Rico that are linked together with a total fee of $24,175.
² Call signs WNJX and WAPA are stations in Puerto Rico that are linked together with a total fee of $24,175.
³ Call signs WKAQ and WORA are stations in Puerto Rico that are linked together with a total fee of $24,175.
⁴ Call signs WOLE and WLII are stations in Puerto Rico that are linked together with a total fee of $24,175.
⁵ Call signs WVEO and WTCV are stations in Puerto Rico that are linked together with a total fee of $24,175.
⁶ Call signs WJPX and WJWN are stations in Puerto Rico that are linked together with a total fee of $24,175.
⁷ Call signs WAPA and WTIN are stations in Puerto Rico that are linked together with a total fee of $24,175.
⁸ Call signs WSUR and WLII are stations in Puerto Rico that are linked together with a total fee of $24,175.
⁹ Call signs WVOZ and WTCV are stations in Puerto Rico that are linked together with a total fee of $24,175.
¹⁰ Call signs WJPX and WKPV are stations in Puerto Rico that are linked together with a total fee of $24,175.
¹¹ Call signs WMTJ and WQTO are stations in Puerto Rico that are linked together with a total fee of $24,175.
¹² Call signs WIRS and WJPX are stations in Puerto Rico that are linked together with a total fee of $24,175.
¹³ Call signs WRFB and WORA are stations in Puerto Rico that are linked together with a total fee of $24,175.

Table 10—FY 2022 Schedule of Regulatory Fees
[Regulatory fees for the categories shaded in gray are collected by the Commission in advance to cover the term of the license and are submitted at the time the application is filed]
Fee category | Annual regulatory fee (U.S. $s)
PLMRS (per license) (Exclusive Use) (47 CFR part 90) | 25.
Microwave (per license) (47 CFR part 101) | 25.
Marine (Ship) (per station) (47 CFR part 80) | 15.
Marine (Coast) (per license) (47 CFR part 80) | 40.
Rural Radio (47 CFR part 22) (previously listed under the Land Mobile category) | 10.
PLMRS (Shared Use) (per license) (47 CFR part 90) | 10.
Aviation (Aircraft) (per station) (47 CFR part 87) | 10.
Aviation (Ground) (per license) (47 CFR part 87) | 20.
CMRS Mobile/Cellular Services (per unit) (47 CFR parts 20, 22, 24, 27, 80 and 90) (Includes Non-Geographic telephone numbers) | .14.
CMRS Messaging Services (per unit) (47 CFR parts 20, 22, 24 and 90) | .08.
Broadband Radio Service (formerly MMDS/MDS) (per license) (47 CFR part 27) | 590.
Local Multipoint Distribution Service (per call sign) (47 CFR, part 101) | 590.
AM Radio Construction Permits | 655.
FM Radio Construction Permits | 1,145.
AM and FM Broadcast Radio Station Fees | See Table Below.
Digital TV (47 CFR part 73) VHF and UHF Commercial Fee Factor | $.008430. See Appendix G of FY 22 R&O for fee amounts due.
Digital TV Construction Permits | 5,200.
Low Power TV, Class A TV, TV/FM Translators & FM Boosters (47 CFR part 74) | 330.
CARS (47 CFR part 78) | 1,715.
Cable Television Systems (per subscriber) (47 CFR part 76), Including IPTV and Direct Broadcast Satellite (DBS) | 1.16.
Interstate Telecommunication Service Providers (per revenue dollar) | .00452.
Toll Free (per toll free subscriber) (47 CFR 52.101 (f) of the rules) | .12.
Earth Stations (47 CFR part 25) | 620.
Space Stations (per operational station in geostationary orbit) (47 CFR part 25) also includes DBS Service (per operational station) (47 CFR part 100) | 124,060.
Space Stations (per operational system in non-geostationary orbit) (47 CFR part 25) (Other) | 340,005.
Space Stations (per operational system in non-geostationary orbit) (47 CFR part 25) (Less Complex) | 141,670.
Space Stations (per license/call sign in non-geostationary orbit) (47 CFR part 25) (Small Satellite) | 12,215.
International Bearer Circuits—Terrestrial/Satellites (per Gbps circuit) | $39.
Submarine Cable Landing Licenses Fee (per cable system) | See Table Below.

FY 2022 Radio Station Regulatory Fees
Population served | AM Class A | AM Class B | AM Class C | AM Class D | FM Classes A, B1 & C3 | FM Classes B, C, C0, C1 & C2
≤25,000 | $1,050 | $755 | $655 | $720 | $1,145 | $1,310
25,001-75,000 | 1,575 | 1,135 | 985 | 1,080 | 1,720 | 1,965
75,001-150,000 | 365 | 1,700 | 1,475 | 1,620 | 2,575 | 2,950
150,001-500,000 | 3,550 | 2,550 | 2,215 | 2,435 | 3,870 | 4,430
500,001-1,200,000 | 5,315 | 3,820 | 3,315 | 3,645 | 5,795 | 6,630
1,200,001-3,000,000 | 7,980 | 5,740 | 4,980 | 5,470 | 8,700 | 9,955
3,000,001-6,000,000 | 11,960 | 8,600 | 7,460 | 8,200 | 13,040 | 14,920
>6,000,000 | 17,945 | 12,905 | 11,195 | 12,305 | 19,570 | 22,390

FY 2022 International Bearer Circuits—Submarine Cable Systems
Submarine cable systems (capacity as of December 31, 2021) | Fee ratio | FY 2022 Regulatory fees
Less than 50 Gbps | .0625 Units | $8,610
50 Gbps or greater, but less than 250 Gbps | .125 Units | 17,215
250 Gbps or greater, but less than 1,500 Gbps | .25 Units | 34,430
1,500 Gbps or greater, but less than 3,500 Gbps | .5 Units | 68,860
3,500 Gbps or greater, but less than 6,500 Gbps | 1.0 Unit | 137,715
6,500 Gbps or greater | 2.0 Units | 275,430

V. Final Regulatory Flexibility Analysis

101. As required by the Regulatory Flexibility Act of 1980, as amended (RFA), an Initial Regulatory Flexibility Analysis (IRFA) was included in the Assessment and Collection of Regulatory Fees for Fiscal Year 2023, Notice of Proposed Rulemaking (FY 2023 NPRM) released in June 2023. The Commission sought written public comment on the proposals in the FY 2023 NPRM, including comment on the IRFA. No comments were filed addressing the IRFA.

A. Need for, and Objectives of, the Report and Order

102. In the Report and Order, we adopt a regulatory fee schedule to collect $390,192,000 in congressionally mandated regulatory fees for FY 2023. Under section 9 of the Communications Act of 1934, as amended, (Act or Communications Act), regulatory fees are mandated by Congress and collected to recover the regulatory costs associated with the Commission's oversight and regulatory activities in an amount that can be reasonably expected to equal the amount of the Commission's annual appropriation. The objective in adopting the regulatory fee schedule is to comply with the Congressional mandate to recover the total amount of the Commission's annual appropriation, from the various industries for which the Commission provides oversight and/or regulation, with a fair, administrable and sustainable fee framework based on the number of full-time equivalents (FTEs) involved in such oversight and regulation in the licensing bureaus.

103. In the FY 2023 NPRM, the Commission sought comment on the methodology for assessing regulatory fees and the FY 2023 regulatory fee schedule, as well as on other issues related to the collection of regulatory fees including: (i) the calculation of television and radio broadcaster regulatory fees, including the modification of the existing grid by adding a new tier for AM and FM radio stations; (ii) defining the category of operations for on-orbit servicing (OOS) and rendezvous and proximity operations (RPO)) (“In-Space Servicing” Industries) for regulatory fee purposes, including whether a separate regulatory fee category is necessary and how to apply regulatory fees to OOS and RPO spacecraft specifically operating near the geostationary satellite orbit arc; (iii) evaluating how the Commission's proposals may promote or inhibit advances in diversity, equity, inclusion, and accessibility; (iv) considering whether to continue in FY 2023 several of the temporary measures the Commission implemented in FYs 2020 through 2022; and (v) whether to permit regulatory fee payors to prepay their regulatory fees in installments. For FY 2023, the Commission adopts, with modification, the regulatory fee schedule set forth in Appendices B and C to the Report and Order.

B. Summary of the Significant Issues Raised by the Public Comments in Response to the IRFA

104. There were no comments filed that specifically addressed the proposed rules and policies presented in the IRFA

C. Response to Comments by the Chief Counsel for Advocacy of the Small Business Administration

105. The Chief Counsel did not file any comments in response to the proposed rules in this proceeding.

D. Description and Estimate of the Number of Small Entities to Which the Rules Will Apply

106. The RFA directs agencies to provide a description of and, where feasible, an estimate of the number of small entities that may be affected by the rules adopted herein. The following entities may be affected by the Report and Order:

• Incumbent Local Exchange Carriers.

• Telecommunications Carriers.

• Competitive Local Exchange Carriers.

• Interexchange Carriers.

• Operator Service Providers.

• Local Resellers.

• Toll Resellers.

• Satellite Telecommunications.

• All Other Telecommunications. This industry is comprised of establishments primarily engaged in providing specialized telecommunications services, such as satellite tracking, communications telemetry, and radar station operation. This industry also includes establishments primarily engaged in providing satellite terminal stations and associated facilities connected with one or more terrestrial systems and capable of transmitting telecommunications to, and receiving telecommunications from, satellite systems. Providers of internet services (e.g. dial-up ISPs) or Voice over internet Protocol services, via client-supplied telecommunications connections are also included in this industry.

• Television Broadcasting.

• Radio Stations.

• Cable Companies and Systems.

• Cable System Operators.

• Direct Broadcast Satellite Service.

• Responsible Organizations, or RespOrgs (also referred to as Toll-Free Number providers).

• Carrier RespOrgs.

• Wired Telecommunications Carriers.

• Wireless Telecommunications Carriers (except Satellite) engage in operating and maintaining switching and transmission facilities to provide communications via the airwaves.

• Other Management Consulting Services. This industry includes establishments primarily engaged in providing management consulting services (except administrative and general management consulting; human resources consulting; marketing consulting; or process, physical distribution, and logistics consulting). Establishments providing telecommunications or utilities management consulting services are included in this industry.

E. Description of Projected Reporting, Recordkeeping and Other Compliance Requirements

107. The Report and Order does not adopt any new reporting, recordkeeping, or other compliance requirements. Small and other regulated entities are required to pay regulatory fees on an annual basis. The cost of compliance with the annual regulatory fee assessment for small entities is the amount assessed for their regulatory fee category and should not require small entities to hire professionals in order to comply. Small entities that qualify can take advantage of the exemption from payment of regulatory fees allowed under the de minimis threshold. Small entities may request a waiver, reduction, deferral, and/or installment payment of their FY 2023 regulatory fees. The waiver process is an easier filing process for smaller entities that may not be familiar with our procedural filing rules.

F. Steps Taken To Minimize the Significant Economic Impact on Small Entities, and Significant Alternatives Considered

108. The RFA requires an agency to provide, “a description of the steps the agency has taken to minimize the significant economic impact on small entities . . . including a statement of the factual, policy, and legal reasons for selecting the alternative adopted in the final rule and why each one of the other significant alternatives to the rule considered by the agency which affect the impact on small entities was rejected.

109. The Report and Order for FY 2023 maintains several approaches from the prior regulatory fee framework which will minimize the significant economic impact for some small entities. Specifically, the FY 2023 regulatory fee framework maintains: (1) the methodology adopted using the population-based calculations for TV broadcasters that was initially adopted because it is a more fair methodology for smaller broadcasters; (2) the flexibility for regulatory payees to request a waiver, reduction, deferral and/or installment payments of their regulatory fees; and (3) the application of the Commission's de minimis threshold rule adopted pursuant to section 9(e)(2) of the Act, which exempts a regulatee from paying regulatory fees if the sum total of all of its annual regulatory fee liabilities is $1,000 or less for the fiscal year. The de minimis threshold applies only to filers of annual regulatory fees and provides relief to small and other entities with lower annual regulatory fees.

110. The Commission received comments proposing alternatives to various elements of the methodology for assessing regulatory fees and the FY 2023 regulatory fee schedule that the Commission proposed in the FY 2023 NPRM, as well as other issues related to the collection of regulatory fees. Below we discuss a number of these proposals and why they were not adopted.

111. Methodology for Assessing Regulatory Fees and FTE Allocation. Satellite Operators suggested that instead of assessing regulatory fees on an annual basis, based on our annual appropriation, we should instead determine the allocation of regulatory fee costs associated with each non-application proceeding and identify its allocation in the document that initiates the proceeding. We rejected this proposal in the Report and Order because it is inconsistent with section 9 of the Act. We are required to conduct an annual regulatory fee proceeding each year, and to recover the annual appropriation. Further, this approach would fail to recover the Commission's entire appropriation on an annual basis, and would not be administratively feasible because we cannot assess the duration or impact of a proceeding in a manner that accurately correlates it to the burden of FTE time annually.

112. Non-High Cost Universal Service Fund FTEs. The National Association of Broadcasters (NAB) proposed that we reallocate the burden of FTE time dedicated to non-high cost universal service fund issues as direct to a core bureau or bureaus. We declined to adopt NAB's suggested reallocation because it conflates the nature of the work of the Commission's FTEs with the identity of the entities that ultimately receive a subsidy from any particular program. The FTE time devoted to the non-high cost universal service programs is not in oversight and regulation of regulatory fee payors, but is oversight and management of the programs generally. The programs tie funding eligibility to the beneficiary, i.e., a school, a library, a low-income individual or family, or healthcare provider, and not to Commission regulatory fee payors.

113. Other FTE Allocations: Office of Engineering and Technology, Enforcement Bureau, and Consumer and Governmental Affairs Bureau. We rejected proposals that suggest that the burden of FTE time dedicated to equipment authorization should have its own fee category or be characterized as direct to any particular category of fee payor. OET FTEs benefit the work of the Commission as a whole and are not specific to any particular regulatory fee category. We also rejected Intelsat's contention that fraud investigations by the Enforcement Bureau benefit their related industries, finding that the fraud investigations handled benefit consumers in general as well as other entities. Further, these investigations are primarily with respect to federally funded programs, and not specifically to benefit regulatory fee payors for any particular industry. We accepted NAB's proposal that for regulatory fee purposes, the burden of certain FTE time in the Media Bureau should be considered as indirect because it is devoted to enforcement responsibilities of the Commission's political programming rules, the cable and broadcast must carry rules, and the rules related to broadcast retransmission consent, among others. We agree, and in order to be consistent with the manner that we treat other enforcement efforts in the Commission, this FTE time should be reallocated as indirect for regulatory fee purposes.

114. New Regulatory Fee Categories Discussed by Commenters. We do not have a sufficient basis, consistent with section 9 of the Act, for the adoption of new regulatory fee categories at this time, and therefore we rejected such proposals. There is no basis for the Commission to change its prior determinations on this issue that such fees would be unworkable and logistically infeasible to collect. Specifically, Satellite Operators proposed that we again seek comment on four fee categories: (i) broadband internet access providers, (ii) database administrators that enable unlicensed operations, (iii) equipment manufacturers, and (iv) experimental licenses. The Commission previously sought comment on these specific issues and as no additional information has been provided in the record to support such proposals, we are not adopting such categories in the Report and Order or seeking further comment on them. Although the Commission has adopted new fee categories in the past, in those instances the Commission determined that significant FTE resources of a core bureau were being spent on oversight and regulatory activities with respect to a specific service necessitating a new regulatory fee category. Those circumstances are not present here.

115. Similarly, we rejected Intelsat and Satellite Coalition's proposal to adopt a regulatory fee for holders of experimental licenses. These licenses are approved for a proposed experiment or range of experiments, and not for an actual operational service under established service rules. It is likely we would have to consider multiple regulatory fee categories and multiple ways of allocating proportional fees to such categories. Accordingly, based on the record, we did not adopt a new regulatory fee category for broadband internet access providers, database administrators that enable unlicensed operations, equipment manufacturers, or experimental licenses.

116. Space Station Regulatory Fees. We did not adopt a number of proposals to alter the allocated 80% of space station regulatory fees to geostationary orbit space stations (GSO) and 20% of the space station regulatory fees to non-geostationary orbit satellite systems (NGSO). Satellite Operators contended that we should not attribute only 20% of the costs of regulating NGSO systems to “less complex” satellite systems (principally Earth Exploration Satellite Service (EESS) systems) and to maintain the dividing line of “20 or fewer U.S. authorized earth stations” between “less complex” NGSO systems and “other” NGSO systems. Kinéis argued that defining only a single category of “less complex” systems, and defining them simply as systems designed to communicate with 20 or fewer U.S. authorized earth stations, is inadequate as the sole basis for distinguishing fee liability among myriad types of NGSO satellite systems.

117. We did not find any reason to deviate from our calculation of fees using the 20/80 allocation in our review of the FTE time for space stations and for FY 2023. We used the 20/80 allocation between “less complex” and “other” NGSO space station fees, respectively, within the NGSO fee category. These allocations continue to accurately reflect the amount of work involved in regulating NGSO systems and the number of reasonably related benefits provided to the payors of each fee category. We are not convinced by the Satellite Operators that the FTE time spent on less complex and other NGSO systems issues has changed sufficiently to warrant a revision in the 20/80 allocation. We also rejected the contention of Space X that we miscalculated the space station regulatory fees because we based our calculations on nine NGSO systems instead of ten. We recognize that there are ten licensed systems; however one of the licensed systems is not yet operational, and hence should not be counted in the unit count.

118. Further, we rejected Spaceflight's proposals for fee assessments for “In-Space Servicing” Industries. Due to the somewhat nascent nature of “in-space servicing” industries, we currently do not have a regulatory fee category for such spacecraft. As noted in the FY 23 NPRM, there have been a limited number of such operations and we tentatively concluded that it was too early to identify exactly where operations, such as those in low-Earth orbit (LEO), might fit into the regulatory fee structure in the future. We accordingly deferred our determination of whether to create a new fee category for such services to a future fiscal year once the regulatory framework under which space stations performing in-space servicing operations, including OOS, RPO, space situational awareness (SSA), and space domain awareness (SDA) operations, and the scope of those operations, is better understood.

119. Kinéis proposed that the Commission adopt a multi-tiered approach to NGSO regulatory fees that would charge each provider an amount commensurate with its demands on Commission resources and the benefits it receives through regulation based on these enumerated factors, consistent with the Act. While we find the proposal to be useful, it requires further comment and evaluation. There is not time to fully consider this proposal prior to the need to adopt regulatory fees before the end of the current fiscal year. It will be more efficient to seek comment on proposals like this together with other proposals that might arise as part of the anticipated reexamination of regulatory fees for space and earth stations in light of the creation of the Space Bureau.

120. International Bearer Circuit Regulatory Fees—Submarine Cable Systems. In the Report and Order the Commission rejected the Submarine Cable Coalition's request to revise the Commission's regulatory fee methodology for submarine cable operators, which is based upon the lit capacity of the fiber-optic submarine cable. We disagreed with the Submarine Cable Coalition's contention that the Commission's regulatory fee methodology is contrary to the Communications Act, and that the Commission has not developed regulatory fees that are reasonably related to the benefits provided. Moreover, we did not find persuasive its arguments that the Commission's assessment of these regulatory fees based on capacity is contrary to the Communications Act, and is not reasonably related to the benefits provided. The Commission has long held that capacity is a reasonable basis to assess regulatory costs among the submarine cable regulatory fee payors that benefit from the Commission's work, and find it reasonable to continue to assess higher regulatory fees on licensees with larger facilities that benefit more from the Commission's work and thus should pay a larger proportion of the Commission's costs.

VI. Ordering Clauses

121. Accordingly, it is ordered that, pursuant to the authority found in sections 4(i) and (j), 9, 9A, and 303(r) of the Communications Act of 1934, as amended, 47 U.S.C. 154(i), 154(j), 159, 159A, and 303(r), this Report and Order is hereby adopted.

122. It is further ordered that the FY 2023 section 9 regulatory fees assessment requirements and the rules set forth in the Final Rules section are adopted as specified herein.

123. It is further ordered that the Report and Order, except for portions containing information collection requirements in § 1.1166 and information collection requirements in § 1.1914, shall be effective upon publication in the Federal Register.

124. It is further ordered that the amendments to § 1.1166 of the Commission's rules, 47 CFR 1.1166, which were approved by the Office of Management and Budget, as required by the Paperwork Reduction Act, on August 17, 2023, shall be effective 30 days after publication of this summary in the Federal Register. The amendments to § 1.1914 of the Commission's rules, 47 CFR 1.1914, will not become effective until 30 days after publication in the Federal Register that the Office of Management and Budget has completed review of any information collection requirements that the Office of Managing Director determines is required under the Paperwork Reduction Act. The Federal Communications Commission will publish a document in the Federal Register announcing the effective date of these provisions.

Federal Communications Commission.

List of Subjects in 47 CFR Part 1

Administrative practice and procedure, Communications, Reporting and recordkeeping requirements, Telecommunications, Telephone, Television.

Marlene Dortch,
Secretary.

Final Rules

For the reasons discussed in the preamble, the Federal Communications Commission amends 47 CFR part 1 as follows:

PART 1—PRACTICE AND PROCEDURE

1. The authority citation for part 1 is revised to read as follows:

Authority: 47 U.S.C. chs 2,5,9,13; 28 U.S.C. 2461.

2. Revise §§ 1.1152 through 1.1156 to read as follows:

§ 1.1152 Schedule of annual regulatory fees for wireless radio services.

Table 1 to § 1.1152
Exclusive use services (per license) | Fee amount
1. Land Mobile (Above 470 MHz and 220 MHz Local, Base Station & SMRS) (47 CFR part 90):
(a) New, Renew/Mod (FCC 601 & 159) | $25.00
(b) New, Renew/Mod (Electronic Filing) (FCC 601 & 159) | 25.00
(c) Renewal Only (FCC 601 & 159) | 25.00
(d) Renewal Only (Electronic Filing) (FCC 601 & 159) | 25.00
220 MHz Nationwide:
(a) New, Renew/Mod (FCC 601 & 159) | 25.00
(b) New, Renew/Mod (Electronic Filing) (FCC 601 & 159) | 25.00
(c) Renewal Only (FCC 601 & 159) | 25.00
(d) Renewal Only (Electronic Filing) (FCC 601 & 159) | 25.00
2. Microwave (47 CFR part 101) (Private):
(a) New, Renew/Mod (FCC 601 & 159) | 25.00
(b) New, Renew/Mod (Electronic Filing) (FCC 601 & 159) | 25.00
(c) Renewal Only (FCC 601 & 159) | 25.00
(d) Renewal Only (Electronic Filing) (FCC 601 & 159) | 25.00
3. Shared Use Services— Land Mobile (Frequencies Below 470 MHz—except 220 MHz):
(a) New, Renew/Mod (FCC 601 & 159) | 10.00
(b) New, Renew/Mod (Electronic Filing) (FCC 601 & 159) | 10.00
(c) Renewal Only (FCC 601 & 159) | 10.00
(d) Renewal Only (Electronic Filing) (FCC 601 & 159) | 10.00
Rural Radio (47 CFR part 22):
(a) New, Additional Facility, Major Renew/Mod (Electronic Filing) (FCC 601 & 159) | 10.00
(b) Renewal, Minor Renew/Mod (Electronic Filing) | 10.00
4. Marine Coast:
(a) New Renewal/Mod (FCC 601 & 159) | 40.00
(b) New, Renewal/Mod (Electronic Filing) (FCC 601 & 159) | 40.00
(c) Renewal Only (FCC 601 & 159) | 40.00
(d) Renewal Only (Electronic Filing) (FCC 601 & 159) | 40.00
5. Aviation Ground:
(a) New, Renewal/Mod (FCC 601 & 159) | 20.00
(b) New, Renewal/Mod (Electronic Filing) (FCC 601 & 159) | 20.00
(c) Renewal Only (FCC 601 & 159) | 20.00
(d) Renewal Only (Electronic Only) (FCC 601 & 159) | 20.00
6. Marine Ship:
(a) New, Renewal/Mod (FCC 605 & 159) | 15.00
(b) New, Renewal/Mod (Electronic Filing) (FCC 605 & 159) | 15.00
(c) Renewal Only (FCC 605 & 159) | 15.00
(d) Renewal Only (Electronic Filing) (FCC 605 & 159) | 15.00
7. Aviation Aircraft:
(a) New, Renew/Mod (FCC 605 & 159) | 10.00
(b) New, Renew/Mod (Electronic Filing) (FCC 605 & 159) | 10.00
(c) Renewal Only (FCC 605 & 159) | 10.00
(d) Renewal Only (Electronic Filing) (FCC 605 & 159) | 10.00
8. CMRS Cellular/Mobile Services (per unit) (FCC 159) | ¹.16
9. CMRS Messaging Services (per unit) (FCC 159) | ² .08
10. Broadband Radio Service (formerly MMDS and MDS) | 700
11. Local Multipoint Distribution Service | 700
¹ These are standard fees that are to be paid in accordance with § 1.1157(b) of this chapter.
² These are standard fees that are to be paid in accordance with § 1.1157(b) of this chapter.

§ 1.1153 Schedule of annual regulatory fees and filing locations for mass media services.

Table 1 to § 1.1153
Radio [AM and FM] (47 CFR part 73) | Fee amount
1. AM Class A:
≤10,000 population | $595
10,001-25,000 population | 990
25,001-75,000 population | 1,485
75,001-150,000 population | 2,230
150,001-500,000 population | 3,345
500,001-1,200,000 population | 5,010
1,200,001-3,000,000 population | 7,525
3,000,001-6,000,000 population | 11,275
>6,000,000 population | 16,920
2. AM Class B:
≤10,000 population | 430
10,001-25,000 population | 715
25,001-75,000 population | 1,075
75,001-150,000 population | 1,610
150,001-500,000 population | 2,415
500,001-1,200,000 population | 3,620
1,200,001-3,000,000 population | 5,435
3,000,001-6,000,000 population | 8,145
>6,000,000 population | 12,220
3. AM Class C:
≤10,000 population | 370
10,001-25,000 population | 620
25,001-75,000 population | 930
75,001-150,000 population | 1,395
150,001-500,000 population | 2,095
500,001-1,200,000 population | 3,135
1,200,001-3,000,000 population | 4,710
3,000,001-6,000,000 population | 7,060
>6,000,000 population | 10,595
4. AM Class D:
≤10,000 population | 410
10,001-25,000 population | 680
25,001-75,000 population
75,001-150,000 population | 1,530
150,001-500,000 population | 2,300
500,001-1,200,000 population | 3,440
1,200,001-3,000,000 population | 5,170
3,000,001-6,000,000 population | 7,745
>6,000,000 population | 11,620
5. AM Construction Permit | 620
6. FM Classes A, B1 and C3:
≤10,000 population | 650
10,001-25,000 population | 1,085
25,001-75,000 population | 1,630
75,001-150,000 population | 2,440
150,001-500,000 population | 3,665
500,001-1,200,000 population | 5,490
1,200,001-3,000,000 population | 8,245
3,000,001-6,000,000 population | 12,360
>6,000,000 population | 18,545
7. FM Classes B, C, C0, C1 and C2:
≤10,000 population | 745
10,001-25,000 population | 1,240
25,001-75,000 population | 1,860
75,001-150,000 population | 2,790
150,001-500,000 population | 4,190
500,001-1,200,000 population | 6,275
1,200,001-3,000,000 population | 9,425
3,000,001-6,000,000 population | 14,125
>6,000,000 population | 21,190
8. FM Construction Permits: | 1,085
TV (47 CFR part 73)
9. Digital TV (UHF and VHF Commercial Stations):
1. Digital TV Construction Permits | 5,100
2. Television Fee Factor | .007799 per pop
10. Low Power TV, Class A TV, FM Translator, & TV/FM Booster (47 CFR part 74) | 260

§ 1.1154 Schedule of annual regulatory charges for common carrier services.

Table 1 to § 1.1154
Radio facilities | Fee amount
1. Microwave (Domestic Public Fixed) (Electronic Filing) (FCC Form 601 & 159) Carriers | $25.00.
1. Interstate Telephone Service Providers (per interstate and international end-user revenues (see FCC Form 499-A) | $.00540.
2. Toll Free Number Fee | $.13 per Toll Free Number.

§ 1.1155 Schedule of regulatory fees for cable television services.

Table 1 to § 1.1155
| Fee amount
1. Cable Television Relay Service | $1,720
2. Cable TV System, Including IPTV (per subscriber), and DBS (per subscriber) | 1.23

§ 1.1156 Schedule of regulatory fees for international services.

(a) Geostationary orbit (GSO) and non-geostationary orbit (NGSO) space stations. The following schedule applies for the listed services:

Table 1 to Paragraph (a)
Fee category | Fee amount
Space Stations (Geostationary Orbit) | $117,580
Space Stations (Non-Geostationary Orbit)—Other | 347,755
Space Stations (Non-Geostationary Orbit)—Less Complex | 130,405
Space Stations (per license/call sign in non-geostationary orbit) (47 CFR part 25) (Small Satellite) | 12,215
Earth Stations: Transmit/Receive & Transmit only (per authorization or registration) | 575

(b) International terrestrial and satellite Bearer Circuits. (1) Regulatory fees for International Bearer Circuits are to be paid by facilities-based common carriers that have active (used or leased) international bearer circuits as of December 31 of the prior year in any terrestrial or satellite transmission facility for the provision of service to an end user or resale carrier, which includes active circuits to themselves or to their affiliates. In addition, non-common carrier terrestrial and satellite operators must pay a fee for each active circuit sold or leased to any customer, including themselves or their affiliates, other than an international common carrier authorized by the Commission to provide U.S. international common carrier services. “Active circuits” for purposes of this paragraph (b) include backup and redundant circuits. In addition, whether circuits are used specifically for voice or data is not relevant in determining that they are active circuits.

(2) The fee amount, per active Gbps circuit will be determined for each fiscal year.

Table 2 to Paragraph (b)(2)
International terrestrial and satellite (capacity as of December 31, 2022) | Fee amount
Terrestrial Common Carrier and Non-Common Carrier Satellite Common Carrier and Non-Common Carrier | $26 per Gbps circuit.

(c) Submarine cable. Regulatory fees for submarine cable systems will be paid annually, per cable landing license, for all submarine cable systems operating based on their lit capacity as of December 31 of the prior year. The fee amount will be determined by the Commission for each fiscal year.

Table 3 to Paragraph (c)—FY 2023 International Bearer Circuits—Submarine Cable Systems
Submarine cable systems (lit capacity as of December 31, 2022) | Fee ratio (units) | FY 2022 Regulatory fees
Less than 50 Gbps | .0625 | $7,680
50 Gbps or greater, but less than 250 Gbps | .125 | 15,355
250 Gbps or greater, but less than 1,500 Gbps | .25 | 30,705
1,500 Gbps or greater, but less than 3,500 Gbps | .5 | 61,410
3,500 Gbps or greater, but less than 6,500 Gbps | 1.0 | 122,815
6,500 Gbps or greater | 2.0 | 245,630

3. Effective October 16, 2023 revise § 1.1166 to read as follows:

§ 1.1166 Waivers, reductions and deferrals of regulatory fees.

The fees established by §§ 1.1152 through 1.1156 and associated interest charges and penalties may be waived, reduced or deferred in specific instances, on a case-by-case basis, where good cause is shown and where waiver, reduction or deferral of such fees, interest charges and penalties would promote the public interest. Requests to pay fees established by §§ 1.1152 through 1.1156 and associated interest charges and penalties in installments may be granted in accordance with § 1.1914. Requests for waiver, reduction or deferral of regulatory fees for entire categories of payors will not be considered.

(a) Requests for waiver, reduction or deferral of regulatory fees shall be filed electronically, by submission to the following email address: regfeerelief@fcc.gov. All requests for waiver, reduction and deferral shall be acted upon by the Managing Director with the concurrence of the General Counsel. All such requests made pursuant to § 1.1166 may be combined in a single pleading.

(b) Deferrals of fees, interest, or penalties if granted, will be for a designated period of time not to exceed six months.

(c) Petitions for waiver of a regulatory fee, interest, or penalties must be accompanied by the required fee, interest, or penalties and FCC Form 159. Submitted fees, interest, or penalties will be returned if a waiver is granted. Waiver requests that do not include the required fees, interest, or penalties or forms will be dismissed unless a request to defer payment due to financial hardship, supported by documentation of the financial hardship, is included in the filing.

(d) Petitions for reduction of a fee, interest, or penalty must be accompanied by the full fee, interest, or penalty payment and FCC Form 159. Petitions for reduction that do not include the required fees, interest, or penalties or forms will be dismissed unless a request to defer payment due to financial hardship, supported by documentation of the financial hardship, is included in the filing.

(e) Petitions for waiver of a fee, interest, or penalty based on financial hardship, including bankruptcy, will not be granted, even if otherwise consistent with Commission policy, to the extent that the total regulatory and application fees, interest, or penalties for which waiver is sought exceeds $500,000 in any fiscal year, including regulatory fees due in any fiscal year, but paid prior to the due date. In computing this amount, the amounts owed by an entity and its subsidiaries and other affiliated entities will be aggregated. In cases where the claim of financial hardship is not based on bankruptcy, waiver, partial waiver, or deferral of fees, interest, or penalties above the $500,000 cap may be considered on a case-by-case basis.

4. Delayed indefinitely, revise § 1.1914 to read as follows:

§ 1.1914 Collection in installments.

(a) Subject to the Commission's rules pertaining to the installment loan program (see e.g., § 1.2110(g)), subpart Q or other agreements among the parties, the terms of which will control, whenever feasible, the Commission shall collect the total amount of a debt in one lump sum. If a debtor is financially unable to pay a debt in one lump sum, the Commission, in its sole discretion, may accept payment in regular installments. Requests for installment payment of non-regulatory fee debt shall be filed electronically, by submission to the following email address: installmentplanrequest@fcc.gov. Requests for installment payment of regulatory fees may be combined with other requests for regulatory fee relief in accordance with § 1.1166(a) and shall be filed electronically by submission to regfeerelief@fcc.gov. The Commission will obtain financial statements from debtors who represent that they are unable to pay in one lump sum and which are able to verify independently such representations (see 31 CFR 902.2(g)). The Commission will require and obtain a legally enforceable written agreement from the debtor that specifies all of the terms of the arrangement, including, as appropriate, sureties and other indicia of creditworthiness (see Federal Credit Reform Act of 1990, 2 U.S.C. 661, et seq., OMB Circular A-129), and that contains a provision accelerating the debt in the event of default.

(b) The size and frequency of installment payments should bear a reasonable relation to the size of the debt and the debtor's ability to pay. If possible, the installment payments will be sufficient in size and frequency to liquidate the debt in three years or less.

(c) Security for deferred payments will be obtained in appropriate cases. The Commission may accept installment payments notwithstanding the refusal of the debtor to execute a written agreement or to give security, at the Commission's option.

(d) The Commission may deny the extension of credit to any debtor who fails to provide the records requested or fails to show an ability to pay the debt.

[FR Doc. 2023-19107 Filed 9-14-23; 8:45 am]

BILLING CODE 6712-01-P